OFFICE OF PERSONNEL MANAGEMENT

SES Positions That Were Career Reserved During CY 2013

AGENCY: U.S. Office of Personnel Management (OPM).

ACTION: Notice.

SUMMARY: As required by section 3132(b)(4) of title 5, United States Code, this gives notice of all positions in the Senior Executive Service (SES) that were career reserved during calendar year 2013.

FOR FURTHER INFORMATION CONTACT: Eloise Jefferson, Senior Executive Resources Services, Senior Executive Services and Performance Management, Employee Services, 202-606-2246.

SUPPLEMENTARY INFORMATION: Below is a list of titles of SES positions that were career reserved at any time during calendar year 2013, regardless of whether those positions were still career reserved as of December 31, 2013. Section 3132(b)(4) of title 5, United States Code, requires that the head of each agency publish such lists by March 1 of the following year. The Office of Personnel Management is publishing a consolidated list for all agencies.

Agency | Organization | Title
ADMINISTRATIVE CONFERENCE OF THE UNITED STATES | Administrative Conference of the United States | General Counsel.
|  | Executive Director.
ADVISORY COUNCIL ON HISTORIC PRESERVATION | Office of the Executive Director | Executive Director.
DEPARTMENT OF AGRICULTURE | Office of Communications | Deputy Director, Creative Development.
| Office of the Chief Information Officer | Deputy Chief Information Officer, Operations.
|  | Associate Chief Information Officer
| Office of the Chief Financial Officer | Deputy Chief Financial Officer.
|  | Associate Chief Financial Officer for Financial Policy and Planning.
|  | Associate Chief Financial Officer, Financial Systems Planning and Management.
| National Finance Center | Director, Information Resources Management Division.
|  | Director, Financial Services Division.
|  | Deputy Director, National Finance Center.
| Office of the General Counsel | Assistant General Counsel.
|  | Associate General Counsel, General Law and Research Division.
| Office of the Chief Economist | Director Global Change Program Office.
|  | Chairperson.
|  | Director, Office of Energy Policy and New Uses.
|  | Director, Office of Risk Assessment and Cost-Benefit Analysis.
| Office of Human Resources Management | Provost, United States Department of Agriculture Virtual University.
| Office of Advocacy and Outreach | Director, Office of Advocacy and Outreach.
| Office of Operations | Director Office of Operations.
| Procurement and Property Management | Director, Procurement and Property Management.
|  | Associate Director, Procurement and Property Management.
| Rural Business Service | Deputy Administrator, Business Programs.
| Rural Housing Service | Deputy Administrator, Multi-Family Housing.
|  | Director, Human Resources.
|  | Budget Officer.
|  | Deputy Administrator, Centralized Servicing Center.
|  | Chief Financial Officer.
|  | Administrator, Operations and Management.
|  | Deputy Administrator for Operations and Management.
| Agricultural Marketing Service | Deputy Administrator, Fruit and Vegetable Programs.
|  | Deputy Administrator, Dairy Programs.
|  | Deputy Administrator, Information Technology Services.
|  | Associate Administrator.
|  | Deputy Administrator, Science and Technology Programs.
|  | Deputy Administrator, Poultry Programs.
|  | Deputy Administrator, Transportation and Marketing Programs.
|  | Deputy Administrator, Cotton and Tobacco Programs.
|  | Deputy Administrator for National Organic Programs.
|  | Deputy Administrator, Livestock and Seed Programs.
|  | Deputy Administrator, Compliance and Analysis.
| Animal and Plant Health Inspection Service | Assistant Deputy Administrator, Emergency and Domestic Programs.
|  | Associate Deputy Administrator for Animal Care.
|  | Associate Deputy Administrator for Marketing and Regulatory Programs—Business Services.
|  | Deputy Administrator for Marketing and Regulatory Programs—Business Services.
|  | Director, Eastern Region, Wildlife Services.
|  | Director, Western Region, Wildlife Services.
|  | Associate Deputy Administrator, Veterinary Services, Emergency Programs.
|  | Deputy Administrator, Biotechnology Regulatory Programs.
|  | Director, Center for Veterinary Biologics.
|  | Associate Deputy Administrator, Wildlife Services.
|  | Deputy Administrator, Animal Care.
|  | Chief Information Officer.
|  | Chief Financial Officer.
|  | Chief Advisor (Government, Academia and Industry Partnership).
|  | Deputy Administrator, Wildlife Services.
|  | Human Resources Officer.
|  | Director, National Wildlife Research Center.
|  | Director, Investigative and Enforcement Services.
|  | Director, Information Technology Division.
|  | Director, Center for Plant Health Science and Technology.
|  | Associate Deputy Administrator, Emerging and International Programs.
|  | Deputy Administrator, Legislative and Public Affairs.
|  | Deputy Administrator for International Services.
| Veterinary Services | Director, Center for Epidemiology and Animal Health.
|  | Associate Deputy Administrator, National Animal Health Policy Programs.
|  | Director, Western Region, Veterinary Services.
|  | Director, Eastern Region, Veterinary Services.
| Plant Protection and Quarantine Service | Director, Western Region, Plant Protection and Quarantine.
|  | Director, Plant Health Programs, Plant Protection and Quarantine.
|  | Director, Eastern Region, Plant Protection and Quarantine.
| Food Safety and Inspection Service | International Affairs Liaison Officer.
|  | Deputy Assistant Administrator, Office of Policy and Program Development.
|  | Executive Associate for Regulatory Operations, Office of Field Operations.
|  | Deputy Assistant Administrator, Office of Program Evaluation Enforcement and Review.
|  | Assistant Administrator, Office of Policy and Program Development.
|  | Deputy Administrator.
|  | Chief Information Officer.
|  | Chief Financial Officer.
|  | Assistant Administrator, Office of Field Operations.
|  | Deputy Administrator.
|  | Deputy Assistant Administrator, Office of Data Integration and Food Program.
|  | Assistant Administrator, Office of Data Integration and Food Protection.
|  | Assistant Administrator, Office of Management.
|  | Assistant Administrator, Office of Public Affairs, Education and Outreach.
|  | Executive Associate for Public Health.
|  | Executive Associate for Regulatory Operations, Office of Field Operations.
|  | Deputy Assistant Administrator, Office of Management.
|  | United States Manager for Codex.
|  | Assistant Administrator, Office of Program Evaluation Enforcement and Review.
|  | Deputy Assistant Administrator, Office of Public Health Science.
|  | Deputy Assistant Administrator, Office of Field Operations.
|  | Assistant Administrator.
|  | Assistant Administrator, Office of International Affairs.
|  | Executive Associate for Laboratory Services, Office of Public Health Science.
|  | Executive Associate for Regulatory Operations, Office of Field Operations.
|  | Deputy Assistant Administrator, Office of International Affairs.
|  | Executive Associate for Regulatory Operations, Office of Field Operations.
|  | Assistant Administrator, Office of Catfish Inspection Programs.
| Food and Nutrition Service | Associate Administrator for Management and Finance.
|  | Program Manager (Deputy Administrator for Management).
|  | Financial Manager.
|  | Program Manager (Associate Administrator for Regional Operations and Support).
|  | Director, Office of Research, Nutrition and Analysis.
| Foreign Agricultural Service | Associate Administrator (Chief Operating Officer).
|  | Deputy Administrator, Office of Scientific and Technical Affairs.
|  | Deputy Administrator, Office of Global Analysis.
| Farm Service Agency | Deputy Administrator for Farm Loan Programs.
|  | Director, Conservation Environment Programs Division.
|  | Assistant Deputy Administrator Farm Programs.
|  | Director, Human Resources Division.
|  | Director, Office of Budget and Finance.
| Risk Management Agency | Deputy Administrator for Research and Development.
|  | Deputy Administrator for Insurance Services Division.
| Office of the Under Secretary for Research, Education, and Economics | Director's Office of the United States Department of Agriculture, Chief Scientist.
| Agricultural Research Service | Associate Deputy Administrator for Administrative and Financial Management.
|  | Deputy Administrator for Administrative and Financial Management.
|  | Deputy Administrator, Nutrition, Food Safety and Quality.
|  | Director, Office of International Research Programs.
|  | Deputy Administrator, Animal Production and Protection.
|  | Associate Administrator, Research Operations and Management.
|  | Chief Information Officer.
|  | Assistant Administrator for Technology Transfer.
|  | Director, National Animal Disease Center.
|  | Director, Office of Pest Management Policy.
|  | Chief Financial Officer.
| National Program Staff Office | Deputy Administrator.
|  | Associate Administrator, National Programs.
|  | Deputy Administrator for Natural Resources and Sustainable Agriculture Systems.
| Beltsville Area Office | Associate Director Beltsville Area.
|  | Director, United States National Arboretum.
|  | Director, Beltsville Agricultural Research Center.
|  | Associate Director, Beltsville Agricultural Research Center.
|  | Director Beltsville Area Office.
| North Atlantic Area Office | Associate Director, North Atlantic Area.
|  | Director, North Atlantic Area.
|  | Director, Eastern Regional Research Center.
| South Atlantic Area Office | Director, South Atlantic Area.
|  | Associate Director South Atlantic Area.
| Midwest Area Office | Director, National Center for Agriculture Utilization.
|  | Associate Director, Midwest Area.
|  | Director, Midwest Area.
| Mid-South Area Office | Associate Director, Mid-South Area.
|  | Director, Mid-South Area.
|  | Director, Southern Regional Research Center.
| Southern Plains Area Office | Associate Director, Southern Plains Area.
|  | Director Southern Plains Area.
| Northern Plains Area Office | Associate Director, Northern Plains Area Office.
|  | Director, Northern Plains Area.
|  | Director, United States Meat Animal Research Center.
| Pacific West Area Office | Associate Director, Pacific West Area Office.
|  | Director, Western Human Nutrition Research Center.
|  | Director, Pacific West Area Office.
|  | Director, Western Regional Research Center.
| National Institute of Food and Agriculture | Assistant Director, Office of Information Technology.
|  | Assistant Director, Institute of Food Safety and Nutrition.
|  | Assistant Director, Office of Grants and Financial Management.
|  | Assistant Director, Institute of Bioenergy, Climate, and Environment.
| Economic Research Service | Associate Administrator, Economic Research Service.
|  | Director, Food Economics Division.
|  | Director, Resource and Rural Economics Division.
|  | Director, Information Services Division.
|  | Director, Market and Trade Economics Division.
|  | Administrator, Economic Research Service.
| National Agricultural Statistics Service | Director, Information Technology Division.
|  | Director, Statistics Division.
|  | Director, Census and Survey Division.
|  | Director, Eastern Field Operations.
|  | Director, Research and Development Division.
|  | Director, Western Field Operations.
|  | Director, National Operations Center.
|  | Chairperson of the United States Agricultural Statistics Board.
|  | Administrator, National Agricultural Statistics Service.
|  | Associate Administrator.
|  | Director, Methodology Division.
| Natural Resources Conservation Service | Chief Financial Officer.
|  | Director, Easement Programs Division.
|  | Special Assistant to Chief.
|  | Director, Resource Assessment Division.
|  | Deputy Chief for Programs.
|  | Director, Financial Assistance Programs Division.
|  | Special Assistant to the Chief.
|  | Regional Conservationist (Northeast).
|  | Director, Ecological Sciences Division.
|  | Director, Conservation Engineering Division.
|  | Director, Soil Survey Division.
|  | Associate Deputy Chief for Management.
|  | Director, Resource Economics, Analysis and Policy Division.
|  | Director, Conservation Planning and Technical Assistance Division.
|  | Director, Resource Inventory Division.
|  | Deputy Chief for Strategic Planning and Accountability.
|  | Special Assistant to Chief.
| Forest Service | Deputy Chief, Business Operations.
|  | Chief Financial Officer.
|  | Director, Fire and Aviation Staff.
|  | Director, Acquisition Management.
|  | Associate Deputy Chief, Research and Development (2).
|  | Director, Law Enforcement and Investigations.
|  | Associate Deputy Chief for Business Operations.
| Research | Director, Science Policy, Planning, and Information Staff.
|  | Director, Forest Management Sciences.
|  | Director, Environmental Sciences.
|  | Director, Resource Use Sciences.
| National Forest System | Director, Rangeland Management.
|  | Director, Ecosystem Management Coordination.
|  | Director, Water, Fish, Wasteland, Air and Rare Plants.
|  | Director, Lands Management Staff.
|  | Director, Forest Management Staff.
|  | Director, Minerals and Geology Management Staff.
|  | Director, Engineering.
| State and Private Forestry | Director, Forest Health Protection.
|  | Director Cooperative Forestry.
|  | Senior Advisor to the Deputy Chief, State and Private Forestry.
| Field Units | Director, Southern Research Station (Asheville).
|  | Northeast Area Director, State and Private Forestry.
|  | Station Director, North Eastern Forest Experiment Station (Newtown Square).
|  | Director, Pacific Northwest Research Station.
|  | Director, Pacific Southwest Forest and Range Experiment Station (Vallejo).
|  | Director, Rocky Mountain Forest and Range Experiment Station (Fort Collins).
|  | Director, Forest Products Laboratory (Madison).
| International Forest System | Director International Institute of Tropical Forest (Rio Piedras).
DEPARTMENT OF AGRICULTURE OFFICE OF THE INSPECTOR GENERAL | Department of Agriculture Office of the Inspector General | Counsel to the Inspector General.
|  | Deputy Inspector General.
| Assistant Inspector General for Management | Assistant Inspector General for Management.
| Assistant Inspector General for Audit | Assistant Inspector General for Audit.
|  | Deputy Assistant Inspector General for Audit (3).
| Assistant Inspector General for Investigations | Deputy Assistant Inspector General for Investigations.
|  | Assistant Inspector General for Investigations.
AMERICAN BATTLE MONUMENTS COMMISSION | Executive Director | Deputy Secretary.
| Director, European Region | Director, European Region.
ARCHITECTURAL AND TRANSPORTATION BARRIERS COMPLIANCE BOARD (UNITED STATES ACCESS BOARD) | Architectural and Transportation Barriers Compliance Board (United States Access Board) | Executive Director.
|  | Director Office of Technical and Information Services.
BROADCASTING BOARD OF GOVERNORS | International Broadcasting Bureau | Associate Director for Management.
|  | Deputy for Engineering Resource Control.
|  | Deputy for Network Operations.
CHEMICAL SAFETY AND HAZARD INVESTIGATION BOARD | Office of the Chief Operating Officer | Chief Operating Officer.
DEPARTMENT OF COMMERCE | Department of Commerce | Deputy Chief Financial Officer/Deputy Chief Administrative Officer.
|  | Deputy Assistant Inspector General for Auditing.
|  | Director, Governmental Affairs.
|  | General Counsel.
| Office of the Chief Information Officer | Director of Cyber Security and Chief Information Security Officer.
|  | Special Assistant for Program Management.
|  | Deputy Chief Information Officer and Chief Technology Officer.
| Office of the General Counsel | Chief, Ethics Division.
|  | Assistant General Counsel for Finance and Litigation.
| Office of the Chief Financial Officer and Assistant Secretary for Administration | Deputy for Acquisition Program Management.
|  | Executive Director, Business United States of America.
|  | Deputy for Procurement Performance Excellence.
|  | Director for Facilities and Environmental Quality.
|  | Deputy Director, Office of Budget.
|  | Deputy Chief Information Officer for Management and Business Operations.
|  | Deputy Assistant Secretary for Resource Management.
|  | Director of the Office of Budget.
|  | Director, Office of Acquisition Management.
|  | Director, Human Resources Operations Center.
|  | Deputy Director for Administrative Services and Building Management.
| Office of the Deputy Assistant Secretary for Administration | Director, Office of Security.
|  | Deputy for Procurement Management, Policy and Performance Excellence.
|  | Deputy Director for Sustainability and Facilities Asset Management.
|  | Director, Human Capital Strategy and Diversity.
|  | Deputy Director for Acquisition Management.
| Office of Human Resources Management | Deputy Director for Human Resources Management and Deputy Chief Human Capital Officer.
|  | Director for Human Resources Management and Chief Human Capital Officer.
|  | Deputy Director for Human Resources Management.
|  | Director for Human Resources Management.
| Office of the Deputy Chief Financial Officer for Financial Management | Director for Financial Management and Deputy Chief Financial Officer.
|  | Director for Financial Management.
|  | Director, Financial Reporting and Internal Controls.
| Office of Budget | Director, Office of Budget.
| Office of Security | Deputy Director, Office of Security.
| Office of the Inspector General | Deputy Assistant Inspector General for Economic and Statistical Program Assessment.
|  | Assistant Inspector General for Administration.
|  | Assistant Inspector General for Systems Evaluation.
| Office of Counsel to the Inspector General | Counsel to the Inspector General.
| Office of Inspections and Program Evaluation | Assistant Inspector General for Inspections and Program Evaluation.
| Office of Audits | Assistant Inspector General for Auditing.
| Office of Investigations | Assistant Inspector General for Investigations.
| Economics and Statistics Administration | Chief Financial Officer and Director for Administration.
| Bureau of the Census | Chief, Center for Economic Studies and Chief Economist.
|  | Assistant Director for American Community Survey and Decennial Census.
|  | Chief, Field Division.
|  | Chief, Human Resources Division.
|  | Senior Advisor for Service Delivery.
|  | Chief, Decennial Research and Planning Office.
|  | Associate Director for 2020 Census.
|  | Chief, Center for Administrative Records Research and Applications.
|  | Assistant Director for Research and Methodology.
|  | Associate Director for Research and Methodology.
|  | Chief Technology Officer.
|  | Senior Advisor for Project Management.
|  | Associate Director for Administration and Chief Financial Officer.
|  | Chief, Budget Division.
|  | Associate Director for Performance Improvement.
|  | Associate Director for Information Technology and Chief Information Officer.
| Office of the Director | Associate Director for Field Operations.
|  | Chief Decennial Systems and Contracts Management Office.
| Administrative and Customer Services Division | Chief Administrative and Customer Services Division.
| Associate Director for Finance and Administration | Chief, Acquisition Division.
|  | Chief, Finance Division.
| Data Preparation Division | Chief National Processing Center.
| Associate Director for Economic Programs | Assistant Director for Economic Programs.
|  | Associate Director for Economic Programs.
| Economic Planning and Coordination Division | Chief, Economic Planning and Coordination Division.
| Economic Statistical Methods and Programming Division | Chief, Economic Programming Division.
| Agriculture and Financial Statistics Division | Chief Company Statistics Division.
| Services Division | Chief Service Sector Statistics Division.
| Foreign Trade Division | Chief, Foreign Trade Division.
| Governments Division | Chief, Governments Division.
| Manufacturing and Construction Division | Chief, Manufacturing and Construction Division.
| Associate Director for Decennial Census | Chief, American Community Survey Office.
|  | Associate Director for Decennial Census.
| Decennial Management Division | Chief Decennial Management Division.
| Geography Division | Chief, Geography Division.
| Decennial Statistical Studies Division | Chief, Decennial Statistical Studies Division.
| Associate Director for Demographic Programs | Associate Director for Demographic Programs.
|  | Chief, Population Division.
|  | Assistant Director for Demographic Programs.
|  | Chief Demographic Surveys Division.
| Housing and Household Economic Statistics Division | Chief, Social, Economic, and Housing Statistics Division.
| Demographic Statistical Methods Division | Chief, Demographic Statistical Methods Division.
| Statistical Research Division | Chief Statistical Research Division.
| Bureau of Economic Analysis | Associate Director for Industry Accounts.
|  | Chief, Balance of Payments Division.
|  | Chief Administrative Officer.
|  | Chief Information Officer.
|  | Chief Direct Investment Division.
| Office of the Director | Director, Bureau of Economic Analysis.
|  | Deputy Director, Bureau of Economic Analysis.
|  | Chief Economist.
|  | Chief Statistician.
| Associate Director for Regional Economics | Associate Director for Regional Economics.
| Associate Director for International Economics | Associate Director for International Economics.
| Associate Director for National Income, Expenditure and Wealth Accounts | Chief National Income and Wealth Division.
|  | Associate Director for National Income, Expenditure and Wealth Accounts.
| Bureau of Industry and Security | Chief Financial Officer and Director of Administration.
|  | Deputy Chief Financial Officer
|  | Director, Office of Enforcement Analysis
| Office of the Assistant Secretary for Export Enforcement | Deputy Director, Office of Export Enforcement.
|  | Director, Office of Export Enforcement.
|  | Deputy Assistant Secretary for Export Enforcement.
| Office of the Assistant Secretary for Economic Development | Chief Financial Officer/Chief Administrative Officer (Chief Financial Officer/Chief Administrative Officer).
| Office of the Deputy Assistant Secretary | Chief Financial Officer and Chief Administrative Officer.
| International Trade Administration | Executive Director for Antidumping and Countervailing Duty Operations.
|  | Senior Director, China/Non-Market Economy Compliance Unit.
| Office of the Under Secretary | Chief Financial and Administrative Officer.
| Office of the Deputy Under Secretary | Deputy Chief Financial and Administrative Officer.
| Assistant Secretary for Market Access and Compliance | Director Trade Compliance Center.
| Market Access and Compliance | Director, Office of China Economic Area.
|  | Director, Office of Multilateral Affairs.
| Deputy Assistant Secretary for Trade Agreements and Compliance | Associate Director for Management.
| National Oceanic and Atmospheric Administration | Deputy Director, Office of Satellite and Product Operations.
|  | Chief Information Officer and Director for High Performance .
|  | Computing and Communications.
|  | Director, Space Weather Prediction Center.
|  | Chief Financial Officer/Chief Administrator Officer.
|  | Deputy Director, Acquisition and Grants Office.
|  | Director, Office of Education.
|  | Director, Ocean Prediction Center.
|  | Deputy Assistant Administrator for Systems.
|  | Director, Integrated Ocean Observing System.
|  | Chief Administrative Officer.
|  | Director, Office of Ocean Exploration and Research.
|  | Deputy Director, Office of Marine and Aviation Operations.
|  | Director, Program Risk Management.
|  | Chief Information Officer for National Environmental Satellite, Data, and Information Services.
|  | Chief, Resource and Operations Management.
|  | Director, Acquisition and Grants Office.
|  | Deputy Director for Workforce Management.
|  | Director, Joint Polar Satellite Systems.
|  | Deputy Chief Information Officer.
|  | Deputy Chief Administrative Officer.
|  | Chief Financial Officer.
| National Oceanic and Atmospheric Administration Coastal Ocean Program Office | Director, Budget Office.
| Office of Finance and Administration | Director, Real Property, Facilities and Logistics Office.
|  | Director, Finance Office/Comptroller.
|  | Director for Workforce Management.
| National Ocean Service | Associate Assistant Administrator for Management and Chief Financial Officer/Chief Administrative Officer.
|  | Director, Office of National Geodetic Survey.
|  | Director, Center for Operational Oceanographic Products and Services.
| National Oceanic and Atmospheric Administration Coastal Services Center | Director, National Centers for Coastal Ocean Science.
| Hazardous Materials Response and Assessment Division | Director, Office of Response and Restoration.
| Office of the Assistant Administrator for Weather Services | Director, Strategic Planning and Policy Office.
| Office of the Chief Information Officer | Chief Information Officer for Weather Service.
| Office—Federal Coordinator—Meteorology | Director, Office of the Federal Coordinator for Meteorology.
| Office of Hydrologic Development | Director, Office of Hydrologic Development.
| Hydrology Laboratory | Chief, Hydrology Laboratory.
| Office of Science and Technology | Director, Office of Science and Technology.
|  | Chief, Programs and Plans Division.
| Meteorological Development Laboratory | Director, Meteorological Development Laboratory.
| Systems Engineering Center | Director, Systems Engineering Center.
| Office of Operational Systems | Director, Office of Operational Systems.
| Telecommunications Operations Center | Chief, Telecommunications Operations Center.
| Maintenance, Logistics, and Acquisition Division | Chief, Operations Division.
| Radar Operations Center | Director, Radar Operations Center.
| National Data Buoy Center | Director, National Data Buoy Center.
| Office of Climate, Water, and Weather Services | Chief, Meteorological Services Division.
|  | Director, Office of Climate, Water, and Weather Services.
| Eastern Region | Director Eastern Region National Weather Service.
| Southern Region | Director, Southern Region.
| Central Region | Director Central Region.
| Western Region | Director, Western Region.
| Alaska Region | Director, Alaska Region, Anchorage.
| National Centers for Environmental Prediction | Director, Aviation Weather Center.
|  | Director, National Centers for Environmental Prediction.
|  | Director, Environmental Modeling Center.
|  | Director National Severe Storms Laboratory.
| National Centers for Environmental Prediction Central Operations | Director, Central Operations.
| Hydro meteorological Prediction Center | Chief, Meteorological Operations Division.
| Climate Prediction Center | Director, Climate Prediction Center.
| Storm Prediction Center | Director, Storm Prediction Center.
| Tropical Prediction Center | Director, National Hurricane Center.
| Office of Assistant Administrator for Fisheries | Director, Office of Management and Budget.
| National Marine Fisheries Service | Director, International Affairs.
|  | Science and Research Director Southwest Region.
|  | Director, Office of Habitat Conservation.
|  | Director Office of Sustainable Fisheries.
|  | Science and Research Director, Pacific Island Region.
|  | Deputy Assistant Administrator for Regulatory Programs.
| Office of Fisheries Conservation and Management | Director, Office of Enforcement.
|  | Director, Scientific Programs and Chief Science Advisor.
| Office of Protected Resources | Director Office of Science and Technology.
| Northeast Fisheries Science Center | Science and Research Director Northeast Region.
| Southeast Fisheries Science Center | Science and Research Director, Southeast Region.
| Northwest Fisheries Science Center | Science and Research Director, Northwest Region.
| Alaska Fisheries Science Center | Science and Research Director.
| Office of Assistant Administrator Satellite, Data Information Service | System Program Director for Goes-R Program.
|  | Chief Financial Officer/Chief Administrative Officer.
|  | Director Satellite Ground Services.
|  | Senior Scientist for Environmental Satellite, Data and Information Services (National Environmental Satellite, Data and Information Services).
| National Climatic Data Center | Director, National Climatic Data Center.
| National Oceanographic Data Center | Director, National Oceanographic Data Center.
| National Geophysical Data Center | Director, National Geophysical Data Center.
| Office of Systems Development | Director, Office of Systems Development.
|  | Director, Systems Engineering Program.
| Office of Assistant Administrator, Ocean and Atmospheric Research | Director, Climate Program Office.
|  | Director, Earth System Research Laboratory and Principal Science Advisor.
|  | Chief Financial Officer/Chief Administrative Officer.
|  | Deputy Assistant Administrator, Laboratories and Cooperative Institutes and Director, Air Resources Laboratory.
| National Sea Grant College Program | Director, National Sea Grant College Program.
| Agronomy Laboratory | Director, Chemical Science Division.
| Atlantic Ocean and Meteorology Laboratory | Director, Atlantic Oceanographic and Meteorological.
| Geophysical Fluid Dynamics Laboratory | Director, Office of Geophysical Fluid Dynamics Laboratory.
| Great Lake Environmental Research Laboratory | Director, Office of Great Lakes Environmental Research Laboratory.
| Pacific Marine Environmental Research Laboratory | Director, Office of Pacific Marine Environmental Laboratory.
| Environmental Technology Laboratory | Director, Physical Science Division.
| Forecast Systems Laboratory | Director, Global Systems Division.
| Climate Monitoring and Diagnostics Laboratory | Director, Global Monitoring Division.
| National Telecommunications and Information Administration | Chief Financial Officer and Director of Administration.
| Office of the Assistant Secretary for Communications and Information | Chief Information Officer and Deputy Director of Administration.
| First Responder Network Authority | Chief Administrative Officer, First Responder Network Authority.
|  | Chief Information Officer, First Responder Network Authority.
|  | Chief Financial Officer, First Responder Network Authority.
|  | Chief Technical Officer, First Responder Network Authority.
| Office of International Affairs | Associate Administrator, Office of International Affairs.
| Institute for Telecommunication Sciences | Deputy Director for Systems and Networks.
|  | Associate Administrator for Telecommunications Sciences.
| Patent and Trademark Office | Director, Program Administration Organization.
|  | Director, Information Management Services.
|  | Director of Infrastructure, Engineering, and Operations.
|  | Regional Group Director.
|  | Deputy General Counsel for Enrollment and Discipline.
|  | Director, Office of Procurement.
|  | Deputy Solicitor and Assistant General Counsel for Intellectual Property Law.
|  | Deputy Associate Commissioner for Patent Information Management.
|  | Associate Commissioner for Patent Examination Policy.
|  | Director, Office of Equal Employment Opportunity and Diversity.
|  | Deputy Commissioner for Trademark Operations.
|  | Administrator for Policy and External Affairs.
|  | Director of Trademark Information Resources.
|  | Associate Commissioner for Patent Resources and Planning.
| Administrator for External Affairs | Director, Intellectual Property Policy and Enforcement.
|  | Associate Director, Education and Training.
|  | Deputy Director for Intellectual Property Policy and Enforcement.
| Office of the General Counsel | Deputy General Counsel for Intellectual Property Law and Solicitor.
| Board of Patent Appeals and Interferences | Vice Chief Administrative Patent Judge.
|  | Chief Administrative Patent Judge.
|  | Chief Administrative Patent Judge.
| Trademark Trial and Appeal Board | Chairman, Trademark Trial and Appeal Board.
| Office of the Chief Financial Officer | Deputy Chief Financial Officer.
|  | Chief Financial Officer.
| Office of the Chief Administrative Officer | Director, Human Capital Management.
| Office of the Chief Information Officer | Chief Technology Officer.
| Office of the Commissioner for Patents | Administrator, Search and Information Resources Administration.
|  | Director, Office of Patent Training.
|  | Deputy Commissioner for Patent Operations.
|  | Deputy Director for the Office of Patent Training.
| Examining Group Directors | Group Director (26).
| Office of the Commissioner for Trademarks | Group Director, Trademark Law Offices.
|  | Group Director, Trademark Law Offices.
|  | Deputy Commissioner for Trademark Examination Policy.
|  | Deputy Commissioner for Trademark Operations.
| National Institute of Standards and Technology | Deputy Director, Center for Nano scale Science and Technology.
|  | Director, Center for Nano scale Science and Technology.
|  | Deputy Director, National Institute of Standards and Technology Center for Neutron Research.
|  | Chief of Staff for National Institute for Standards and Technology.
|  | Director, National Institute of Standards and Technology Center for Neutron Research.
|  | Director, Law Enforcement Standards Office.
|  | Chief Facilities Management Officer.
|  | Deputy Director, Building and Fire Research.
|  | Director, Information Technology and Applications Office.
|  | Deputy Director, Physical Measurement Laboratory.
|  | Director, Special Programs Office.
|  | Director, Smart Grid and Cyber-Physical Systems Program Office.
|  | Senior Information Technology Policy Advisor.
|  | Director, Standards Coordination Office.
|  | Senior Advisor for Voting Standards.
|  | Associate Director for Laboratory Programs.
|  | Associate Director for Management Resources.
|  | Associate Director for Innovation and Industry Services.
|  | Senior Advisor for Cloud Computing.
|  | Boulder Laboratories Site Manager.
|  | Chief Safety Officer.
|  | Chief Cyber security Advisor.
| Office of the Director, National Institute of Standards and Technology | Chief Financial Officer for National Institute of Standards and Technology.
|  | Senior Advisor to the Director Physical Measurement Laboratory.
|  | Director, Center for Technology Leadership.
|  | Chief Manufacturing Officer.
|  | Senior Advisor for Laboratory Programs.
|  | Chief Information Officer for National Institute of Standards and Technology.
| Baldrige Performance Excellence Program | Deputy Director, Office of Quality Programs.
|  | Director, Baldrige Performance Excellence Program.
| Manufacturing Extension Partnership | Director, Manufacturing Extension Partnership Programs.
|  | Deputy Director, Manufacturing Extension Partnership Program.
| Electronics and Electrical Engineering Laboratory | Deputy Director for Measurement Services.
| Manufacturing Engineering Laboratory | Deputy Director for Manufacturing.
| Chemical Science and Technology Laboratory Office | Deputy Director, Chemical Scientist and Technology Laboratory.
|  | Director, Material Measurement Laboratory.
| Physics Laboratory Office | Director, Physical Measurement Laboratory.
| Building and Fire Research Laboratory | Chief, Fire Safety Engineering Division.
|  | Director, Engineering Laboratory.
| National Technical Information Service | Deputy Director, National Technical Information Service.
| Information Technology Laboratory | Director, Information Technology Laboratory.
|  | Deputy Director, Information Technology Laboratory.
| Office of the Chief Financial Officer | Director, Office of Budget and Planning.
|  | Director for Acquisition and Grants Management.
DEPARTMENT OF COMMERCE OFFICE OF THE INSPECTOR GENERAL | Immediate Office | Deputy Inspector General.
| Office of Audit and Evaluation | Principal Assistant Inspector General for Audit and Evaluation.
| Office of Economic and Statistical Program Assessment | Assistant Inspector General for Economic and Statistical Program Assessment.
| Office of Systems Acquisitions and IT Security | Assistant Inspector General for Systems Acquisitions and IT Security.
| Office of Audit | Assistant Inspector General for Audit.
| Office of Program Assessment | Assistant Inspector General for Administration.
| Office of Investigations | Principal Assistant Inspector General for Investigations.
| Office of Counsel | Counsel to the Inspector General.
CONSUMER PRODUCT SAFETY COMMISSION | Office of Executive Director | Assistant Executive Director for Information and Technology Services.
|  | Director, Office of International Programs and Intergovernmental Affairs.
|  | Assistant Executive Director for Compliance and Administrative Litigation.
| Office of Hazard Identification and Reduction | Deputy Assistant Executive Director for Hazard Identification and Reduction.
|  | Associate Executive Director for Engineering Sciences.
|  | Associate Executive Director for Economic Analysis.
|  | Assistant Executive Director for Hazard Identification and Reduction.
|  | Associate Executive Director for Epidemiology.
| Office of Import Surveillance | Director, Office of Import Surveillance.
COURT SERVICES AND OFFENDER SUPERVISION AGENCY FOR THE DISTRICT OF COLUMBIA | Court Services and Offender Supervision Agency for the District of Columbia | Deputy Director.
|  | Associate Director of Human Resources.
|  | Associate Director, Legislative, Intergovernmental and Public Affairs.
|  | Associate Director for Special Criminal Justice Programs.
|  | Associate Director for Research and Evaluation.
|  | Director.
|  | Chief Financial Officer.
|  | Attorney (General Counsel).
|  | Associate Director for Management and Administration.
|  | Chief Information Officer.
|  | Associate Director for Community Supervision.
|  | Associate Director for Community Justice Programs.
| Pretrial Services Agency | Associate Director for Management and Administration.
|  | Deputy Director.
|  | Director.
|  | Associate Director, Operations.
OFFICE OF THE SECRETARY OF DEFENSE | Office of the Secretary | Assistant to the Secretary of Defense for Intelligence Oversight.
| Office of the Under Secretary of Defense (Policy) | Foreign Relations and Defense Policy Manager/DTSA.
| Office of Principal Deputy Under Secretary for Policy | Foreign Relations and Defense Policy Manger, Special Assistant to the Principal Deputy Under Secretary of Defense—9 Policy.
| Office of the Assistant Secretary of Defense (Asian and Pacific Security Affairs) | Deputy Assistant Secretary of Defense (East Asia).
| Director, Operational Test and Evaluation | Deputy Director for Live Fire Test and Evaluation.
| Office of Inspector General | Assistant Inspector General for Acquisition and Contract Management.
| Office of the Under Secretary of Defense (Personnel and Readiness) | Chief of Staff.
| Office Assistant Secretary of Defense (Health Affairs) | Deputy Chief, Tricare Acquisitions Directorate.
|  | General Counsel.
|  | Regional Director, Tricare Regional Office—South.
|  | Military Health System Chief Information Officer.
|  | Regional Director, Tricare Regional Office—North.
| Office of Assistant Secretary of Defense (Reserve Affairs) | Principal Director (Manpower and Personnel).
| Office of the Under Secretary of Defense (Comptroller) | Deputy Chief Financial Officer.
| Office of Director of Administration and Management | Director, Department of Defense Consolidated Adjudications Facility.
| Washington Headquarters Services | Director, Acquisition Directorate.
|  | Deputy Director, Defense Facilities Directorate.
|  | Director, Acquisition Directorate.
|  | Director, Facilities Services Directorate.
|  | Director, Human Resources Directorate.
|  | Deputy Director, Human Resources Directorate.
| Pentagon Force Protection Agency | Principal Deputy Director, Pentagon Force Protection Agency.
|  | Assistant Director, Law Enforcement.
|  | Director, Pentagon Force Protection Agency.
| Office of the General Counsel | Director, Office of Litigation.
|  | Director Defense Office of Hearings and Appeals.
Office of the Under Secretary of Defense (Acquisition, Technology, and Logistics) | Deputy Director, Property, Plant and Equipment Policy.
|  | Director (Planning and Analysis).
|  | Deputy Director, Resource Analysis.
|  | Director for Administration.
|  | Director, Defense Procurement and Acquisition Policy.
|  | Director, Acquisition Resources and Analysis.
|  | Deputy Director, Treaty Compliance and Homeland Defense.
|  | Deputy Director, Acquisition Technology.
|  | Deputy Director, OSD Studies and Federally Funded Research and Development Center Management.
|  | Principal Deputy, Acquisition Resources and Analysis.
|  | Deputy Director, Enterprise Information and OSD Studies.
| Assistant Secretary of Defense (Acquisition) | Assistant Deputy Under Secretary of Defense (Acquisition Process and Policies).
|  | Deputy Director, Developmental Test and Evaluation.
|  | Special Assistant Concepts and Plans.
|  | Deputy Director, Naval Warfare.
|  | Deputy Director, Contract Policy and International Contracting.
|  | Deputy Director, Defense Acquisition Regulations System.
|  | Technical Director, Force Development.
|  | Deputy Director, Assessments and Support.
|  | Deputy Director, Program Acquisition and Strategic Sourcing.
|  | Deputy Director, Land Warfare and Munitions.
| Assistant to the Secretary of Defense for Nuclear and Chemical and Biological Defense Programs | Deputy Assistant Secretary of Defense (Nuclear Matters).
Office of the Director of Defense Research and Engineering | Principal Deputy Assistant Secretary of Defense (Research and Engineering)/Director, Plans An Programs.
|  | Director for Weapons Systems.
|  | Director, Space and Sensor Technology.
|  | Director for Information Technology.
|  | Director, Human Performance, Training and Bio systems.
| Defense Advanced Research Projects Agency | Deputy Director, Defense Advanced Research Projects Agency.
|  | Director, Contracts Management Office.
|  | Director, Support Services Office.
|  | Deputy Director, Strategic Technology Office.
|  | Deputy Director, Special Programs.
|  | Director, Tactical Technology Office.
| Office of the Joint Chiefs of Staff | Vice Director C4/Cyber.
|  | Executive Director, Joint Capabilities Development (Forward).
|  | Assistant Deputy Director for Command and Control.
|  | Assistant Deputy Director, Synchronization and Integration.
|  | Executive Director, Force Generation.
|  | Vice Assistant Deputy Director, Joint Development.
|  | Vice Deputy Director Joint and Coalition Warfighting.
| Missile Defense Agency | Deputy Director, Joint National Integration Center.
|  | Director for Acquisition
|  | Deputy Program Manager for Assessment and Integration, Ballistic Missile Defense System.
|  | Deputy Program Director, BC.
|  | Program Director, Ground Missile Defense.
|  | Program Director for Battle Management, Command and Control.
|  | Director for Operations.
|  | Deputy for Engineering.
|  | Director for Advanced Technology.
|  | Program Director, Ground Missile Defense.
|  | Chief Engineer, Ground-Based Midcourse Defense.
|  | Program Director, Targets and Countermeasures.
|  | Director for Systems Engineering and Integration.
|  | Director, Contracting.
| Defense Contract Audit Agency | Deputy Regional Director, Western Region.
|  | Special Assistant.
|  | Assistant Director, Policy and Plans.
|  | Assistant Director, Operations.
|  | Deputy Director, Defense Contract Audit Agency.
|  | Director, Field Detachment.
|  | Director, Defense Contract Audit Agency.
| Regional Managers | Deputy Regional Director Northeastern Region.
|  | Deputy Regional Director Eastern Region.
|  | Regional Director, Mid-Atlantic.
|  | Regional Director, Western.
|  | Deputy Regional Director Central Region.
|  | Assistant Director, Integrity and Quality Assurance.
|  | Regional Director, Eastern.
|  | Regional Director, Northeastern.
|  | Deputy Regional Director Mid-Atlantic Region.
|  | Regional Director, Central.
| Defense Logistics Agency | Director, Defense Logistics Agency Disposition Services.
|  | Director of Enterprise Planning and Transformation.
|  | General Counsel.
|  | Director, Defense Logistics Agency Human Resources.
|  | Director, Defense Logistics Agency Information Operation.
|  | Director Defense Logistics Agency Accountability Office.
|  | Executive Director, Aviation Contracting and Acquisition Management.
|  | Principal Deputy Comptroller.
|  | Deputy Commander, Defense Logistics Agency Distribution.
|  | Deputy General Counsel, Defense Logistics Agency.
|  | Deputy Commander, Defense Logistics Agency Troop Support.
|  | Deputy Director, Customer Operations and Readiness.
|  | Executive Director, Troop Support Contracting and Acquisition Management.
|  | Deputy Director, Information Operations/Chief Technical Officer.
|  | Chief Financial Officer, Director, Defense Logistics Agency.
|  | Executive Director, Contracting and Acquisition Management.
|  | Executive Director, Enterprise Solutions.
|  | Deputy Director, Defense Logistics Agency Acquisition.
|  | Vice Director, Defense Logistics Agency.
|  | Program Executive Officer, Defense Logistics Agency Information Operations.
|  | Chief of Staff.
|  | Executive Director, Joint Contingency Acquisition Support Office.
|  | Executive Director, Operations and Sustainment.
|  | Executive Director, Support—Policy and Strategic Programs.
|  | Deputy Commander, Defense Logistics Agency Land and Maritime.
|  | Program Executive Officer.
|  | Deputy Commander, Defense Logistics Agency Aviation.
|  | Director, Defense Logistics Agency Acquisition (J-7).
|  | Deputy Commander, Defense Logistics Agency Energy.
| Defense Human Resources Activity | Director, Human Resources Operational Programs and Advisory Services.
|  | Deputy Director, Defense Manpower Data Center.
|  | Chief Actuary, Defense Human Resources Activity.
|  | Director, Defense Manpower Data Center.
|  | Deputy Director for Advisory Services, Defense Human Resources Activity.
| Defense Contract Management Agency | General Counsel.
|  | Executive Director, Financial and Business Operations and Comptroller.
|  | Deputy Executive Director, Contract Management Operations.
|  | Deputy Chief Operations Officer.
|  | Deputy Executive Director, Portfolio Management and Integration.
|  | Executive Director, Contracts.
|  | Deputy Director, Defense Contract Management Agency.
|  | Executive Director, Quality Assurance.
|  | Director, Defense Contract Management Agency.
|  | Executive Director, Naval Sea Systems Division (Boston Division).
|  | Executive Director, Ground Systems and Munitions Division.
|  | Chief Operations Officer.
|  | Executive Director, Portfolio Management and Integration.
| Defense Information Systems Agency | Director for Procurement and Chief, Defense Information Technology Contracting Organization.
|  | BRAC Transition Executive.
|  | Component Acquisition Executive.
|  | Principal Director, Operations Director.
|  | Director for Network Services.
|  | Vice Director for Network Services.
|  | Chief Technology Officer.
|  | Program Executive Officer, Communication.
|  | Chief Corporate Planning and Mission Integration.
|  | Vice Director for Procurement and Vice Chief Defense Information Technology Contracting Office.
|  | Deputy Chief Technology Officer for Mission Assurance.
|  | Chief Information Assurance Executive and Program Executive Officer for Mission Assurance and Network Operations.
|  | Deputy Chief Financial Executive/Comptroller.
|  | Principal Director for Computing Services.
|  | Director, Enterprise Engineering.
|  | Inspector General.
|  | Director for Strategic Planning and Information.
|  | Deputy Chief Technology Officer for Enterprise Services.
|  | Vice Chief Information Assurance Executive.
|  | Director, Manpower, Personnel and Security.
|  | Director, Joint Information Environmental Technical Synchronization Office.
|  | Congressional Liaison Officer.
|  | Chief Financial Executive/Comptroller.
|  | Test and Evaluation Executive.
|  | Chief Information Officer.
|  | Vice Principal Director, Operations.
| Defense Threat Reduction Agency | Chief Scientist.
|  | J-4/8c Acquisition/Finance/Logistics.
|  | Director, Counter Weapons of Mass Destruction Technologies.
|  | Associate Director, Operations Enterprise.
|  | Associate Director, Strategy and Plans Enterprise.
|  | Executive Director.
|  | Director, Chemical-Biological Defense Technologies Directorate.
|  | Director, Nuclear Technologies Directorate.
|  | Director, Cooperative Threat Reduction.
|  | Associate Director, Research and Development Enterprise.
|  | Deputy Director, Operations Directorate.
|  | Director, On-Site Inspections Directorate.
|  | Director, Basic and Applied Sciences Directorate.
| Defense Security Cooperation Agency | Foreign Relations Defense Policy Manager (Principal Director for Strategy).
| Defense Commissary Agency | Director.
DEPARTMENT OF THE AIR FORCE | Department of the Air Force | Director, Joint Staff and Assistant to Chief and Vice Chief NGB.
|  | Deputy Director Force Development and Air Force Senior Language Authority.
|  | Director, Installations, Logistics and Mission Support.
|  | Director of Communications and Information.
|  | Executive Director Africa.
| Office of the Secretary | Deputy and Technical Director, Rapid Capabilities Office.
|  | Deputy Director, Legislative Liaison.
|  | Director, Air Force Rapid Capabilities Office.
| Office of the Under Secretary | Deputy Under Secretary of the Air Force (Space Programs).
| Deputy Under Secretary (International Affairs) | Director, Strategy, Operations, and Resources.
|  | Deputy Under Secretary (International Affairs).
|  | Director of Policy, International Affairs.
| Office of Administrative Assistant to the Secretary | Deputy Administrator Assistant.
|  | Executive Director, OSI.
|  | Director Security, Special Program Oversight and Information Protection.
|  | Administrative Assistant.
|  | Director, Headquarters Air Force Information Management.
| Office of Small and Disadvantaged Business Utilization | Director, Office of Small and Disadvantaged Business Utilization.
| Office of Public Affairs | Deputy Director, Public Affairs.
| Auditor General | Assistant Auditor General, Field Offices Directorate.
|  | Auditor General of the Air Force.
| Air Force Audit Agency (Field Operating Agency) | Assistant Auditor General (Support and Personnel Audits).
|  | Assistant Auditor General (Acquisition and Logistics Audits).
| Air Force Office of Special Investigations (Field Operating Agency) | Deputy Director Security, Special Program Oversight and Information Protection.
|  | Executive Director, Defense Cyber Crime Center (Defense Cyber Crime Center).
| Office of the General Counsel | Deputy General Counsel (Installations and Environmental Law).
|  | Deputy General Counsel (International Affairs).
|  | Deputy General Counsel (Acquisition).
|  | Director Global Combat Support.
|  | Principal Deputy General Counsel.
| Office of Assistant Secretary Air Force for Financial Management and Comptroller | Chief Information Officer.
| Office Deputy Assistant Secretary Budget | Director, Budget Investment.
|  | Director, Budget Management and Execution.
|  | Associate Deputy Assistant Secretary for Budget.
| Office Deputy Assistant Secretary Cost and Economics | Associate Deputy Assistant Secretary (Cost and Economics).
|  | Deputy Assistant Secretary (Cost and Economics).
| Office Deputy Assistant Secretary Financial Operations | Deputy Assistant Secretary (Plans, Systems and Analysis).
|  | Associate Deputy Assistant Secretary (Financial Operations).
| Office of Assistant Secretary Air Force for Acquisition | Associate Deputy Assistant Secretary Science, Technology and Engineering.
|  | Director, Information Dominance Programs.
|  | Deputy Air Force Program Executive Officer (Combat and Mission Support).
|  | Associated Deputy Assistant Secretary (Acquisition Integration).
|  | Director of Contracting (Special Access Programs.
|  | Deputy Assistant Secretary (Acquisition Integration).
|  | Deputy Assistant Secretary (Science, Technology and Engineering).
|  | Program Executive Office for Space Launch.
| Chief Information Office | Deputy Chief Information Officer.
| Office Deputy Assistant Secretary Contracting | Associate Deputy Assistant Secretary (Contracting).
| Directorate of Space and Nuclear Deterrence | Deputy Assistant Chief of Staff, Strategic Deterrence and Nuclear Integration.
|  | Associate Director, Nuclear Weapons and Counter proliferation.
| Air Force Review Boards Agency (Air Force Review Boards Agency)—Field Operating Agency | Deputy for Air Force Review Boards.
| Office of Assistant Secretary Air Force, Installations, Environment, and Logistics | Deputy Assistant Secretary (Energy).
|  | Deputy Assistant Secretary (Logistics).
| Office Deputy Assistant Secretary Installations | Deputy Assistant Secretary (Installations).
| Office of the Chief of Staff | Deputy Director of Staff.
|  | Director, Air Force History and Museums Policy and Programs.
| Air Force Office of Safety and Air Force Safety Center (Field Operating Agency) | Deputy Chief of Safety.
| Judge Advocate General | Director, Administrative Law.
| Test and Evaluation | Director, Test and Evaluation.
|  | Deputy Director, Test and Evaluation.
| Air Force Studies and Analyses Agency (Direct Reporting Unit (DRU) | Principle Deputy Director, Studies and Analyses, Assessments and Lessons Learned.
|  | Director, Air Force Studies and Analyses, Assessments and Lessons Learned.
| Deputy Chief of Staff, Warfighting Integration | Director, Architecture and Operational Support Modernization.
|  | Deputy Director, Information Services and Integration.
Deputy Chief of Staff, Installations and Logistics | Director CE Center.
|  | Deputy Director, Security Forces.
|  | Assistant Deputy Chief of Staff, Installation and Logistics.
| Civil Engineer | Deputy Civil Engineer.
| Logistics Readiness | Associate Deputy Director of Logistics.
| Resources | Associate Deputy of Logistics.
|  | Director of Resource Integration.
| Air Force Center for Environmental Excellence (Field Operating Agency) | Director, Air Force Civil Engineer Center.
Deputy Chief of Staff, Plans and Programs | Associate Director, Programs.
|  | Deputy Director of Strategic Planning.
|  | Assistant Deputy Chief of Staff, Strategic Plans and Programs.
| Deputy Chief of Staff, Personnel | Deputy Director, Airman Development and Sustainment.
|  | Assistant Deputy Chief of Staff Personnel.
|  | Director, Plans and Integration.
|  | Deputy Director, Air Force Manpower, Organization and Resources.
|  | Deputy Director of Services.
|  | Deputy Director, Force Management Policy.
|  | Director, Airman Development and Sustainment.
| Air Force Personnel Center (Field Operating Agency) | Director, Civilian Force Integration.
|  | Executive Director, Air Force Personnel Center.
| Deputy Chief of Staff, Air and Space Operations | Deputy Director of Operational Planning, Policy, and Strategy.
|  | Deputy Director, Operational Planning, Policy and Strategy.
|  | Director, Irregular Warfare.
|  | Director of Weather.
|  | Associate Deputy Chief of Staff Operations, Plans and Requirements.
|  | Deputy for Operations.
| Deputy Chief of Staff for Intelligence, Surveillance and Reconnaissance | Director of Intelligence, Surveillance, and Reconnaissance (SRR) Innovations and Unmanned Aerial Systems (UAS) Task Force.
| Air Force Operational Test and Evaluation Center (Direct Reporting Unit) | Executive Director, Air Force Operational Test and Evaluation Center.
Air Force Material Command | Director, National Museum of the United States Air Force.
|  | Director, Communications, Installations, and Mission Support.
|  | Executive Director, Air Force Material Command.
|  | Director, Financial Management.
|  | Executive Director, AFNWC.
|  | Director, Enterprise Sourcing Group.
|  | PEO, Business Enterprise Systems.
|  | Principal Deputy to the Staff Judge Advocate.
|  | Director, Manpower, Personnel and Services.
| Contracting | Director, Contracting, Air Force Material Command.
| Logistics | Deputy Director for Logistics, Air Force Material Command.
| Engineering and Technical Management | Director, Engineering and Technical Management, Air Force Material Command.
| Financial Management and Comptroller | Deputy Director, Financial Management and Comptroller, Air Force Material Command.
| Plans and Programs | Director, Acquisition, Intelligence, and Requirements.
| Requirements | Deputy Director, Intelligence, Surveillance, Reconnaissance and Requirements.
| Operations Directorate | Deputy Director, Air, Space and Information Operations.
| Staff Judge Advocate | Principal Deputy Staff Judge Advocate.
| Air Force Materiel Command Law Office | Director, Air Force Materiel Command Law Office.
| Air Force Office of Scientific Research | Director Air Force Office of Scientific Research.
|  | Director of Physics and Electronics Sciences.
| Electronic Systems Center | Director, Engineering and Technical Management, Electronic Systems Center.
|  | Program Executive Officer, Battle Management.
|  | Director, Contracting, Electronic Systems Center.
| Aeronautical Systems Center | Director, Contracting, Aeronautical Systems Center.
|  | Director of Engineering, Joint Strike Fighter.
|  | Program Executive Officer for Agile Combat Support.
|  | Program Executive Officer, Mobility Aircraft.
|  | Director Financial Management and Comptroller, Air Force Materiel Command.
|  | Executive Director, Air Force Life Cycle Management Center.
| Engineering Directorate | Director, Engineering, Air Force Life Cycle Management Center.
| Air Force Research Laboratory | Executive Director, Air Force Research Laboratory.
|  | Director, Plans and Programs, Air Force Research Laboratory.
|  | Director, Materials and Manufacturing, Air Force Material Command.
| Air Force Research Laboratory- Munitions Directorate | Director, Munitions, Air Armament Center.
| Information Directorate | Director, Information.
| Directed Energy Directorate | Director, Directed Energy.
| Materials and Manufacturing Directorate | Director, Materials and Manufacturing.
| Sensors Directorate | Director Sensors.
| Human Effectiveness Directorate | Director, Human Effectiveness Directorate.
| Air Force Flight Test Center | Executive Director, Air Force Flight Test Center.
| Air Logistics Center, Oklahoma City | Director of Logistics, AFSC.
|  | Executive Director, AFSC.
|  | Director, 448th Combat Sustainment Wing.
|  | Director, Contracting, OC-Air Logistics Center.
|  | Director, Engineering and Technical Management, AFSC-EN.
| Air Logistics Center, Warner Robins | Director, Engineering and Technical Management.
|  | Director, Contracting, WR-ALC.
| Air Logistics Center, Ogden | Director, Engineering and Technical Management, OO-ALC.
|  | Director Contracting, OO-ALC.
| Air Armament Center | Director, Engineering and Technical Management, Air Force Material Center.
| Air Combat Command | Director, Acquisition Management and Integration Center.
|  | Deputy Director of Logistics, Air Combat Command.
|  | Director, Air Force Global Cyberspace Integration Center.
| Air Mobility Command | Deputy Director, Installations and Mission Support, Air Mobility Command.
|  | Deputy Director of Logistics, Air Mobility Command.
| Air Education and Training Command | Director, International Training and Education.
|  | Director, Logistics, Installations and Mission Support, Air Education and Training Command.
| Air Force Reserve Command | Director of Staff.
| United States Central Command | Deputy Director, Logistics and Engineering, United States Central Command.
|  | Director of Resources, Requirements, Budget and Assessment.
|  | Deputy Director of Operations Interagency Action Group (Iag).
| Air Force Space Command | Director, Space Protection Program Office.
|  | Director of Installations and Logistics, Air Force Space Command.
|  | Executive Director, Air Force Space Command.
| United States Special Operations Command | Director of Acquisition, United States Special Operations Command.
|  | Director, Plans, Policy and Strategy, United States Special Operations Command.
|  | President, Joint Special Operations University.
|  | Director and Chief Information Officer for Special Operations Networks and Communications Center.
|  | Director, Interagency Task Force, USSOCOM.
|  | Director, Financial Management and Comptroller, United States Special Operations Command.
|  | Deputy Director, Center for Special Operations Acquisition and Logistics.
| Air Force Special Operations Command | Director of Financial Management and Comptroller, Air Force Special Operations Command.
| Space and Missile Systems Center | Deputy Director and Chief Technical Advisor.
|  | Director, MILSATCOM Systems Wing.
| United States Strategic Command | Deputy Director, Plans and Policy, United States Strategic Command.
|  | Director, Joint Exercises and Training, United States Strategic Command.
|  | Director, Global Innovation Strategy Center.
|  | Director, Capability and Resource Integration.
|  | Associate Director Capability and Resource Integration.
|  | Executive Director, Joint Warfare Analysis Center.
|  | Special Command Advisor, Information Assurance and Cyber Security.
|  | Director, Command, Control, Command Computer Systems.
| United States Transportation Command | Executive Director, JECC.
|  | Director, Acquisition.
|  | Deputy Director, Strategies and Policy, United States Transportation Command.
|  | Deputy Director of Command, Control Communications, and Computer Systems.
|  | Director, Program Analysis and Financial Management.
| Joint Staff | Director, Joint Information Operations Warfare Center.
| United States Northern Command | Director, Programs and Resources, United States Northern Command.
|  | Deputy Commander, Joint Forces Headquarters—National Capital Region.
|  | Domestic Policy Advisor.
|  | Director, Joint Exercises and Training, USNORTHHCOM.
|  | Director, Interagency Coordination, United States Northern Command.
DEPARTMENT OF THE ARMY | Department of the Army | Executive Director, U.S. Army Headquarters Services.
|  | Deputy Director of Operations, J3.
|  | Director for Partnering.
|  | Director for Forces, Resources and Assessments (J8).
|  | Deputy to the Commanding General, Army North.
|  | Assistant Deputy Chief of Staff, G-6.
|  | Director, Family, Morale, Welfare and Recreation Programs, G-9.
|  | Executive Director U.S. Army Information Technology Agency.
|  | Director, Capability Development Integration Directorate (CDID).
|  | Deputy Program Executive Officer, Intelligence, Electronic Warfare and Sensors.
|  | Deputy Program Executive Officer, Enterprise Information Systems.
|  | Joint PEO for Chemical and Biological Defense.
|  | Deputy G-3/5 for Operations and Plans, TRADOC.
|  | Deputy Program Executive Officer (Simulation, Training and Instrumentation).
|  | Deputy Joint Program Executive Officer for Chemical and Biological Defense.
| Office of the Secretary | Director, Test and Evaluation Office.
|  | Executive Director of the Army National Cemeteries Program.
|  | Superintendent, Arlington National Cemetery.
| Office of the Under Secretary | Deputy to the Deputy Under Secretary of the Army.
|  | Deputy Director, Office of Business Transformation, Office of the Under Secretary of the Army.
|  | Deputy Chief Management Officer.
|  | Director, Business Assessment Directorate.
|  | Director, Business Transformation Directorate.
| Office Administrative Assistant to the Secretary of Army | Deputy Administrative Assistant to the Secretary of the Army/Director for Shared Services.
|  | Administrative Assistant to the Secretary of the Army.
|  | Director, U.S. Army Center of Military History/Chief of Military History.
| Office Assistant Secretary Army (Civil Works) | Deputy Assistant Secretary of the Army (Management and Budget).
| Office Assistant Secretary Army (Financial Management and Comptroller) | Director of Investment.
|  | Deputy Assistant Secretary of the Army (Cost and Economics).
|  | Deputy Assistant Secretary of the Army (Financial Operations).
|  | Director of Investment.
|  | Director, Programs and Strategy.
|  | Director of Management and Control.
|  | Director, Military Personnel and Facilities.
|  | Director for Accountability and Audit Readiness.
|  | Director, Financial Information Management.
|  | Deputy Director and Senior Advisor for Army Budget (DDSA Budget).
| Office Assistant Secretary Army (Installations and Environment) | Deputy Assistant Secretary of the Army (Strategic Infrastructure).
|  | Deputy Assistant Secretary of the Army (Environment, Safety and Occupational Health).
| Office Assistant Secretary Army (Manpower and Reserve Affairs) | Executive Advisor to the ASA (Manpower and Reserve Affairs).
|  | Deputy Assistant Secretary of the Army (Force Management)/Director Civilian Senior Leader Management Office.
|  | Deputy Assistant Secretary of the Army (Army Review Boards Agency).
|  | Deputy Assistant Secretary of the Army (Military Personnel).
|  | Deputy Assistant Secretary of the Army (Diversity and Leadership).
|  | Deputy Assistant Secretary of the Army (Civilian Personnel/Quality of Life).
|  | Deputy Assistant Secretary of Army for Marketing/Director, Army Marketing Research Group.
|  | Director, Strategic Initiatives Group.
| Office Assistant Secretary Army (Acquisition, Logistics and Technology) | Deputy Assistant Secretary of the Army for Defense Exports and Cooperation.
|  | Director for Technology.
|  | Director for Research and Laboratory Management.
|  | Deputy Assistant Secretary of the Army for Plans, Programs and Resources.
|  | Deputy Assistant Secretary of the Army (Policy and Procurement).
|  | Deputy Assistant Secretary for Research and Technology/Chief Scientist.
|  | Deputy Assistant Secretary of the Army (Acquisition Policy and Logistics), Assistant Secretary of the Army (Acquisition, Logistics and Technology).
|  | Executive Director for Acquisition Services, Assistant Secretary Army (Acquisition, Logistics and Technology).
|  | Program Executive Officer Assembled Chemical Weapons Alternative.
|  | Director, Us Army Acquisition Support Center/Deputy Director Acquisition Career Management.
|  | Program Executive Office, Ground Combat Systems.
|  | Program Executive Officer, Intelligence, Electronic Warfare and Sensors.
|  | Director Systems of Systems Engineering.
|  | Deputy Program Executive Officer Ground Combat Systems.
|  | Deputy Program Executive Officer, Missiles and Space (Fires).
|  | Program Executive Officer Combat Support and Combat Service Support.
| Army Acquisition Executive | Director, Combined Test Organization, Program Manager, Future Combat System (Brigade Combat Team).
|  | Deputy Program Executive Officer, Combat Support and Combat Service Support.
|  | Deputy Program Executive Officer, Command Control and Communications Tactical.
|  | Program Executive Officer Simulation, Training and Instrumentation.
|  | Deputy Program Executive Officer for Aviation.
|  | Program Executive Officer Enterprise Information Systems.
|  | Deputy Program Executive Officer Ammunition.
|  | Deputy Program Executive Officer for Soldier.
| Army Contracting Agency | Deputy to the Commanding General, Army Contracting Command.
| Office of the Inspector General | Principal Director for Inspections.
| Chief Information Officer/G-6 | Director, Cyber security.
|  | Principal Deputy, Chief Information Officer/G-6 for Enterprise Integration.
|  | Director, Governance, Acquisition/Chief Knowledge Officer.
|  | Director for Army Architecture Integration Cell.
|  | Deputy Chief Information Officer/G-6.
| Office, Chief of Public Affairs | Principal Deputy Chief of Public Affairs/Director, Soldiers Media Center.
| Army Audit Agency | Deputy Auditor General, Manpower and Training Audits.
|  | Principal Deputy Auditor General.
|  | Deputy Auditor General, Acquisition and Logistics Audits.
|  | Deputy Auditor General, Installation, Energy and Environment Audits.
|  | Deputy Auditor General, Financial Management Audits.
|  | the Auditor General, U.S. Army.
| U.S. Army Test and Evaluation Command | Director, Ballistic Missile Evaluation Directorate, Army Evaluation Center.
|  | Director, Army Evaluation Center.
|  | Executive Director-White Sands.
|  | Executive Director, Operational Test Command.
| Office, Chief Army Reserve | Director of Resource Management and Material.
|  | Assistant Chief of the Army Reserve.
| Office, Assistant Chief of Staff for Installation Management | Director, Human Resources.
|  | Regional Director (Atlantic).
|  | Regional Director (Europe).
|  | Executive Director/Director of Services.
|  | Director Installation Services.
|  | Regional Director (Central).
|  | Director of Resource Integration.
|  | Deputy Assistant Chief of Staff for Installation Management.
|  | Chief Information Technology Officer (OACSIM/IMCOM).
|  | Regional Director (Pacific).
|  | Directors of Logistics.
| Office, Deputy Chief of Staff , G-4 | Director, Force Projection and Distribution.
|  | Director, Logistics Innovation Agency.
|  | Assistant Deputy Chief of Staff, G-4.
|  | Director for Supply Policy, Programs and Processes.
|  | Director, Logistics Information Management.
|  | Director of Resource Management.
|  | Director for Maintenance Policy, Programs and Processes.
| Office, Deputy Chief of Staff, G-8 | Assistant Deputy Chief of Staff, G-8.
|  | Director of Modernization.
|  | Director, Quadrennial Defense Review.
| Office, Deputy Chief of Staff, G-3 | Assistant Deputy Chief of Staff for Operations (G-3/5/7).
|  | Deputy Director of Training and Leader Development.
|  | Director, Capabilities Integration Directorate.
|  | Deputy Director for Plans and Policy.
|  | Vice Director, Joint Improvised Explosive Device Defeat Organization.
|  | Deputy Director for Force Management.
| Office, Deputy Chief of Staff, G-1 | Director, United States Army Research Institute and Chief Psychologist.
|  | Assistant Deputy Chief of Staff, G-1.
|  | Deputy Director, Human Resources Policy Directorate/Ready and Resilient Champaign Director.
|  | Director, Military Human Resources Integration.
|  | Assistant G-1 (Civilian Personnel Policy).
|  | Director for MANPRINT Directorate.
|  | Director, Plans and Resources.
| Office of the Surgeon General | Deputy Chief of Staff/Assistant Surgeon General, Force Management.
|  | Chief of Staff.
|  | Chief of Staff, Health System Administration.
| United States Army Medical Research and Materiel Command | Principal Assistant for Acquisition.
|  | Principal Assistant for Research and Technology.
| U.S. Army Medical Department Center and School | Deputy to the Commanding General.
| United States Army Space and Missile Defense Command | Director, Space and Missile Defense Technical Center.
|  | Director, Space and Missile Defense Battle Laboratory.
|  | Director, Space and Cyberspace Technology Director.
|  | Chief Technology Officer.
|  | Deputy to the Commander and Senior Department of the Army Civilian for United States Army Space and Missile Defense Command/Army Forces Strategic Command.
|  | Director, Emerging Technology.
| U.S. Army Training and Doctrine Command (TRADOC) | Deputy to the Commanding General, Signal Center of Excellence.
|  | Deputy to the Commanding General Fires/Director, Capabilities, Development and Integration.
|  | Deputy Chief of Staff G-1/4 (Personnel and Logistics).
|  | Deputy Chief of Staff G8, U.S. Army Training and Doctrine Command.
|  | Deputy to the Commanding General, Combined Arms Support Command.
|  | Assistant Deputy Chief of Staff, G-3/5/7, U.S. Army Training and Doctrine Command/Deputy G-3 for Training.
|  | Assistant Deputy Chief of Staff for Combat Development.
|  | Director, Capabilities Development and Integration.
|  | Deputy to the Commanding General Maneuver Support/Director, Capabilities Development and Integration.
|  | Deputy to the Commanding General, Combined Arms Center.
|  | President, Army Logistics University.
| Training and Doctrine Command Analysis Center | Director of Operations.
|  | Director of Operations
|  | Director.
| Military Surface Deployment Distribution Command | Deputy to the Commander, Surface Deployment and Distribution Command.
|  | Executive Director, Transportation Engineering Agency/Director Joint Distribution Process Analysis Center.
| United States Army Forces Command | Deputy Chief of Staff for Resource Management.
|  | Chief Executive Officer.
|  | Assistant Deputy Chief of Staff for Logistics and Readiness.
|  | Assistant Deputy Chief of Staff G-3/5/7.
|  | Assistant Deputy Chief of Staff, G1.
| United States Army Network Enterprise Technology Command/9th Army Signal Command. | Deputy to Commander, Army Cyber Command/2nd Army.
|  | Deputy to Commander/Senior Technical Director/Chief Engineer.
|  | Deputy for Cyber Operations/Director of Operations.
| United States Army Corps of Engineers. | Director of Resource Management.
|  | Director, Information Technology Laboratory.
|  | Division Programs Director (South Pacific Division).
|  | Regional Business Director, (Mississippi Valley Division).
|  | Division Programs Director, Transatlantic Division.
|  | Director, Research and Development and Director, Engineering Research and Development Center.
|  | Director of Contracting.
|  | Chief, Homeland Security Office.
|  | Regional Business Director.
|  | Director of Human Resources.
|  | Director of Corporate Information.
|  | Director, Real Estate.
|  | Division Programs Director (3).
|  | Chief Military Programs Integration Division.
|  | Division Programs Director.
| Directorate of Research and Development | Deputy Director.
| Directorate of Civil Works | Chief, Programs Management Division.
|  | Chief, Operations Division and Regulatory Community of Practice.
|  | Chief, Engineering and Construction Community of Practice.
|  | Director of Civil Works.
|  | Chief, Planning and Policy Division/Community of Practice.
| Directorate of Military Programs | Director of Military Programs.
|  | Chief, Installation Support Division.
|  | Chief, Interagency and International Services Division.
|  | Chief, Environmental Community of Practice.
| Directors of Programs Management | Division Programs Director (3).
| Directors of Engineering and Technical Services | Regional Business Director (5).
|  | Regional Business Director (Great Lakes, Ohio River Division).
| Engineer Research and Development Center | Director, Environmental Laboratory.
|  | Deputy Director, Engineer Research and Development Center.
|  | Director, Coastal and Hydraulics Laboratory.
|  | Director, Geotechnical and Structures Laboratory.
| Engineer Topographic Laboratories, Center of Engineers | Director, Army Geospatial Center.
| Construction Engineering Research Laboratory Champaign, Illinois | Director, Construction Engineering Research Laboratories.
| Cold Regions Research and Engineering Laboratory Hanover, New Hampshire | Director, Cold Regions Research and Engineering Laboratory.
| United States Army Materiel Command | Director, Communications-Electronics Life Cycle Management Command Logistics and Readiness Center.
|  | Director, Engineering Plans and Programs.
|  | Deputy to the Commander/Deputy Director Mission and Installation Command.
|  | Deputy to the Commander, United States Army Expeditionary Contracting Command.
|  | Deputy Chief of Staff for Corporate Information/Chief Information Officer.
|  | Executive Director, Munitions Engineering Technology Center, ARDEC.
|  | Deputy G-3 for Current Operations.
|  | Assistant Deputy Chief of Staff, G-4 for Support Operations.
|  | >Deputy Chief of Staff for Business Transformation, G-7.
|  | Deputy to the Commanding General/Director Logistics and Readiness Center.
|  | Executive Director, Weapons and Software Engineer Center.
| Office of Deputy Chief of Staff for Logistics and Operations | Deputy Chief of Staff G-5 for Strategy and Concepts.
|  | Principal Deputy G-3 for Operations/Executive Deputy, Supply Chain and Industrial Operations.
| Office Deputy Commanding General | Executive Deputy to the Commanding General.
| Office of Deputy Chief of Staff for Personnel | Deputy Chief of Staff for Personnel.
| Office of the Deputy Chief of Staff for Resource Management | Deputy Chief of Staff for Resource Management.
|  | Assistant Deputy Chief of Staff for Resource Management, G-8/Executive Director for Business.
| United States Army Contracting Command | Executive Director, Army Contracting Command-National Capitol Region.
|  | Executive Director, Army Contracting Command-Warren.
|  | Executive Director Army Contracting Command-Redstone, Alabama.
| United States Army Security Assistance Command | Deputy Us Army Security Assistance Command.
| United States Army Sustainment Command | Deputy to the Commander.
|  | Executive Director Rock Island Contracting Center.
|  | Executive Director for LOGCAP.
|  | Executive Director for Ammunition.
|  | Executive Director for Field Support.
| Natick Soldier Center | Director, Natick Soldier Research and Development Engineering Center.
| United States Army Soldier and Biological Command (Soldier and Biological Command) | Director for Programs Integration.
|  | Director, Engineering Directorate.
|  | Director, Research and Technology Directorate.
|  | Executive Director, Research Development and Engineering Command, Acquisition Center.
|  | Technical Director.
| Communications Electronics Command Research, Development and Engineering Center | Director-Night Vision/Electromagnetics Sensors Directorate.
|  | Director, Space and Terrestrial Committee Directorate.
|  | Director, Software Engineering Directorate.
|  | Director, Intelligence and Information Warfare Directorate.
|  | Director, Command and Control Directorate.
| United States Army Research Laboratory | Director Human Dimension Simulations and Training Directorate.
|  | Director United States Army Research Laboratory.
|  | Director, Computational and Information Sciences Directorate.
| Survivability/Lethality Analysis Directorate | Director, Survivability/Lethality Analysis Directorate.
| Army Research Office | Director, Engineering Sciences Directorate.
|  | Director, Army Research Office.
| Sensors and Electron Devices Directorate | Director.
| Weapons and Material Research Directorate | Director Weapons and Materials Research Directorate.
| United States Army Aviation and Missile Command (Army Materiel Command) | Executive Director Integrated Material Management Center.
|  | Deputy to the Commander.
|  | Director for Engineering.
|  | Director for Weapons Development and Integration.
|  | Director for Test Measurement Diagnostic Equipment Activity.
| Missile Research Development and Engineering Center (Research Development and Engineering Center) | Director for Aviation Development.
|  | Director for Systems Simulation, Software, and Integration.
|  | Technology Director for Missiles and Development, Research, Development and Engineering Center.
|  | Director for Weapons Development and Integration.
|  | Director for Missile Guidance.
| Aviation Research, Development and Engineering Center | Director of Aviation Engineering.
|  | Associate Director for Technical Applied/Director of Special Program.
| Research, Development and Engineering Command | Director, Research Development and Engineering Command.
|  | Deputy Director, Research Development and Engineering Command.
|  | Director, Communications-Electronics Research, Development and Engineering Center.
| Tank-Automotive and Armaments Command (Tank-Automotive and Armaments Command) | Director Integrated Logistics Support Center.
|  | Director of Acquisition Center.
|  | Deputy to the Commander.
| Tank-Automotive Research, Development and Engineering Center (Tank-Automotive Research, Development and Engineering Center) | Director, Tank-Automotive Research, Development and Engineering Center.
|  | Executive Director for Engineering.
|  | Executive Director for Product Development.
|  | Director, Research, Technology Development and Integration.
| United States Army Armament Research, Development and Engineering Center (Armament Research, Development and Engineering Center) | Director for Armament Research, Development and Engineering.
|  | Executive Director, Enterprise and Systems Integration Center.
| United States Army Simulation, Training and Instrumentation Command | Deputy to the Commander.
| U.S. Army Joint Munitions Command | Deputy to the Commander, Joint Munitions Command.
| United States Army Materiel Systems Analysis Activity | Technical Director.
|  | Director, Army Material Systems Analysis Activity.
| Headquarters, United States Army, Europe | Director, European Security and Defense Policy Defense Advisor to United States Mission European Union.
|  | Deputy Chief of Staff, G1.
|  | Deputy Chief of Staff G-8.
| U.S. Army Special Operations Command | Deputy to the Commanding General.
| United States Southern Command | Deputy Director, Strategy and Policy.
|  | Director, J8 (Resources and Assessments Directorate).
| United States European Command | Deputy Director, Security Cooperation (Dj5).
|  | Director, Interagency Partnering, (J9).
| United States Africa Command | Foreign Policy Advisor for United States Africa Command.
|  | Director of Resources (J1/J8), United States Africa Command.
|  | Deputy Director of Resources (J1/J8).
|  | Deputy Director of Program, (J5), United States Africa Command.
| Joint Improvised Explosive Device Defeat Organization | Deputy Director, Rapid Acquisition and Technology.
|  | Chief Information Officer.
|  | Director, Counter Improvised Explosive Device Operational Integration Center.
DEPARTMENT OF THE NAVY | Office of the Secretary | Assistant for Administration.
|  | Director, Operations Directorate.
|  | Director, Sexual Assault Prevention and Response.
|  | Chief Information Officer.
| Office of the Under Secretary of the Navy | Principal Deputy Under Secretary of the Navy Business Operations and Transformation).
|  | Principal Director to the Under Secretary of the Navy for Plans, Policy, Oversight and Integration.
|  | Director, Operations Integration Group.
|  | Senior Director for Security.
|  | Director, Small Business Programs.
|  | Principal Director (DCMO).
|  | Director, Operations Integration Group.
|  | Senior Director for Policy.
| Office of the Naval Inspector General | Deputy Naval Inspector General.
| Office of the Auditor General | Deputy Auditor General of the Navy.
|  | Assistant Auditor General for Financial Management and Comptroller Audits.
|  | Assistant Auditor General for Installation and Environment Audits.
|  | Assistant Auditor General for Manpower and Reserve Affairs Audits.
|  | Assistant Auditor General for Research, Development, Acquisition and Logistics Audits.
|  | Auditor General of the Navy.
| Office of the Assistant Secretary of Navy (Manpower and Reserve Affairs) | Deputy Assistant Secretary of the Navy (Reserve Affairs and Total Force Integration).
|  | Assistant General Counsel (Manpower and Reserve Affairs).
|  | Principal Deputy Assistant Secretary of the Navy (Manpower and Reserve Affairs).
|  | Deputy Assistant Secretary of the Navy (Civilian Human Resources).
| Office of Civilian Human Resources | Director, Human Resources Operations and Customer Engagement.
|  | Director, Human Resources Systems and Analytics.
|  | Director, Human Resources Operations.
|  | Director, Office of Civilian Human Resources.
|  | Director, Human Resources Policy and Program Department.
|  | Director, Human Resources Systems, Processes and Productivity.
| Office Assistant Secretary of Navy (Energy, Installations and Environment) | Deputy Assistant Secretary of the Navy (Energy).
|  | Assistant General Counsel (Energy, Installations and Environment).
|  | Director, Joint Guam Program Office.
|  | Deputy Assistant Secretary of the Navy for Infrastructure, Strategy and Analysis.
| Office Assistant Secretary of the Navy (Research, Development and Acquisition) | Executive Director, Navy International Programs Office.
|  | Deputy Assistant Secretary of the Navy (Management and Budget).
|  | Director, Program Analysis and Business Transformation.
|  | Assistant General Counsel (Research, Development and Acquisition).
|  | Principal Civilian Deputy Assistant Secretary of the Navy (Acquisition Workforce).
|  | Deputy Assistant Secretary of the Navy (Command, Control, Communications, Computers and Intelligence) Space).
|  | Deputy Assistant Secretary of the Navy (Ships).
|  | Program Executive Officer for Defense Healthcare Management Systems.
|  | Deputy for Test and Evaluation.
|  | Executive Director, F-35, Joint Program Office.
|  | Chief of Staff/Policy.
| Program Executive Officers | Program Executive Officer, Land Systems.
|  | Executive Director, Program Executive Office, Littoral Combat Ships.
|  | Program Executive Officer (Enterprise Information Systems).
|  | Executive Director, Program Executive Office for Space Systems.
|  | Deputy Program Executive Officers Air Assault and Special Mission.
|  | Executive Director for Command, Control, Communications, Computers and Intelligence (C4i).
|  | Executive Director, Program Executive Office Submarines.
|  | Executive Director, Amphibious, Auxiliary and Sealift Ships, Program Executive Officers Ships.
|  | Executive Director, Program Executive Officers for Integrated Warfare Systems.
|  | Deputy Program Executive Officers for Tactical Air Programs.
|  | Deputy Program Executive Officers for Strike Weapons.
|  | Executive Director, Program Executive Officers for Aircraft Carriers.
|  | Executive Director, Combatants, Program Executive Officers Ships.
|  | Director for Above Water Sensors Directorate.
|  | Director for Integrated Combat Systems for Integrated Warfare Systems.
|  | Deputy Program Executive Officer for Unmanned Aviation Programs.
| Strategic Systems Programs | Director, Plans and Programs Division.
|  | Branch Head, Reentry Systems Branch.
|  | Technical Plans and Payloads Integration Officer.
|  | Head, Resources Branch (Comptroller) and Deputy Director, Plans and Program Division.
|  | Assistant for Missile Engineering Systems.
|  | Counsel, Strategic Systems Programs.
|  | Assistant for Shipboard Systems.
|  | Assistant for Systems Integration and Compatibility.
|  | Chief Engineer.
|  | Assistant for Missile Production, Assembly and Operations.
|  | Director, Integrated Nuclear Weapons Safety and Security, Director Strategic Systems Programs.
| Office of the Assistant Secretary of Navy (Financial Management and Comptroller) | Director, Investment and Development Division.
|  | Deputy Director, Financial Operations.
|  | Deputy Assistant Secretary of the Navy for Cost and Economics.
|  | Director, Program/Budget Coordination Division.
|  | Deputy Assistant Secretary of the Navy for Financial Operations.
|  | Associate Director, Office of Budget/Fiscal Management Division.
|  | Assistant General Counsel (Financial Management and Comptroller).
|  | Director, Civilian Resources and Business Affairs Division.
|  | Director, Budget and Policy and Procedures Division.
|  | Principal Deputy Assistant Secretary of the Navy (Financial Management and Comptroller).
| Office of the General Counsel | Assistant General Counsel (Intelligence Law).
|  | Special Counsel for Litigation.
|  | Assistant General Counsel (Acquisition Integrity).
| Naval Criminal Investigative Service | Criminal Investigator, Executive Assistant Director for Criminal Operations.
|  | Criminal Investigator, Director, Naval Criminal Investigative Service.
|  | Criminal Investigator, Deputy Director, Naval Criminal Investigative Service.
|  | Criminal Investigator, Executive Assistant Director for Management and Administration.
|  | Criminal Investigator, Executive Assistant Director for Global Operations.
|  | Criminal Investigator, Executive Assistant Director for Pacific Operations.
|  | Criminal Investigator, Executive Assistant Director for Atlantic Operations.
| Chief of Naval Operations | Deputy Director, Air Warfare.
|  | Assistant Deputy Chief of Naval Operations (Manpower, Personnel, Training and Education).
|  | Deputy Director, Program Division (N80b).
|  | Assistant Deputy Chief of Naval Operations, Warfare Systems.
|  | Director, Strategic Mobility and Combat Logistics Division.
|  | Director, Special Programs.
|  | Deputy Director, Afloat Readiness and Maintenance Division (N43).
|  | Deputy Director for Strategy and Policy.
|  | Deputy Director, Environmental Readiness Division.
|  | Assistant Deputy Chief of Naval Operations (Manpower, Personnel, Training and Education).
|  | Director, Assessment and Compliance (N2/N6bc).
|  | Assistant Deputy Chief of Naval Operations for Information Dominance (N2/N6).
|  | Financial Manager and Chief Resources Officer for Manpower, Personnel, Training and Education.
|  | Assistant Deputy Chief of Naval Operations (Resources, Warfare Requirements and Assessments) N8b.
|  | Assistant Deputy Chief of Naval Operations (Logistics).
|  | Technical Director, Oceanographer of the Navy.
|  | Director, Naval History and Heritage Command.
|  | Head, Campaign Analysis Branch.
|  | Deputy Director, Fleet Readiness Division.
|  | Director Naval History and Heritage Command.
|  | Assistant Deputy Chief of Naval Operations, Fleet Readiness and Logistics.
|  | Deputy Director, Energy and Environmental Readiness (N45b).
|  | Assistant Deputy Chief of Naval Operations, Warfare Systems.
| Commander, Navy Installations Command | Deputy Regional Commander (Southeast).
|  | Comptroller.
|  | Counsel, Commander Navy Installations Command.
|  | Director, Total Force Manpower.
|  | Deputy Commander.
|  | Deputy Regional Commander (Mid-Atlantic).
| Bureau of Medicine and Surgery | Director, Total Force.
|  | Comptroller/Deputy Chief of Staff for Resource Management.
| Military Sealift Command | Comptroller.
|  | Director, Government Operations NFAF and Special Mission Ships.
|  | Director, Contractor Operated Ships.
|  | Director, Military Sealift Command Manpower and Personnel.
|  | Executive Director.
|  | Counsel, Military Sealift Command.
| Naval Meteorology and Oceanography Communications, Stennis Space Center, Mississippi | Technical/Deputy Director.
| Office of Commander, United States Fleet Forces Command/Joint Forces Command | Deputy for Naval Air and Missile Defense Command.
|  | Deputy Chief of Staff, Fleet Installation and Environment.
|  | Deputy Director, Force Certification.
|  | Assistant Deputy Chief of Staff, Fleet Policy and Capabilities Requirements.
|  | Executive Director, Fleet Resources and Readiness Integration.
|  | Deputy Chief of Staff, Personnel Development and Allocation.
| Commander, Submarine Forces | Executive Director, Submarine Forces.
| Commander, Naval Expeditionary Combat Command | Executive Director, Navy Expeditionary Combat Command.
| Navy Cyber Forces | Deputy Commander.
| Office of the Commander, United States Pacific Command | Director, Pacific Outreach Directorate.
|  | Director for Forces Resources and Management.
|  | Chief Information Officer.
| Office of the Commander, United States Pacific Fleet | Deputy for Naval Mine and Anti-Submarine Warfare Command.
|  | Executive Director, Fleet Warfare Requirements, Resources and Force Structure.
|  | Executive Director, Naval Surface Forces.
|  | Chief of Staff.
|  | Executive Director, Total Force Management (2).
|  | Executive Director, Pacific Fleet Plans and Policy.
|  | Executive Director, Naval Air Forces.
|  | Deputy Chief of Staff for C4/CIO.
| Naval Air Systems Command Headquarters | Counsel, Naval Air Systems Command.
|  | Director of Contracts, F-35 JSF.
|  | Director, Air Anti-Submarine Warfare, Assault and Special Mission Programs Contracts Department.
|  | Deputy Counsel, Office of Counsel.
|  | Director, Propulsion and Power.
|  | Director, Design Interface and Maintenance Planning.
|  | Director, Aviation Readiness and Resource Analysis.
|  | Director, Strike Weapons, Unmanned Aviation, Naval Air Programs Contracts Department.
|  | Director Industrial Operations.
|  | Director, Air Platform Systems.
|  | F-35 Joint Strike Fighter, Director of Logistics and Sustainment.
|  | Command Information Officer.
|  | Director, Cost Estimating and Analysis.
|  | Principal Assistant for Air Warfare Acquisition Analysis and Planning.
|  | Assistant Commander, Corporate Operations and Total Force.
|  | Deputy Assistant Commander for Logistics and Industrial Operations.
|  | Deputy Commander, Naval Air Systems Command.
|  | Deputy Assistant Commander for Research and Engineering.
|  | Assistant Commander for Acquisition Processes and Execution.
|  | Director, Logistics Management Integration.
|  | Director, Tactical Aircraft and Missiles Contracts Department.
|  | Director, Air Vehicles and Unmanned Air Vehicles.
|  | Director, Avionics Department.
|  | Director, Systems Engineering Department.
|  | Counsel, Naval Air Systems Command.
|  | Comptroller.
|  | Assistant Commander for Contracts.
| Naval Air Warfare Center Aircraft Division | Director, Aircraft Launch and Recovery Equipment/Support Equipment.
|  | Deputy Assistant Commander for Test and Evaluation/Executive Director Naval Air Warfare Center Aircraft Division/Director, Test and Evaluation NAWCAD.
|  | Director, Flight Test Engineering.
|  | Director, Battlespace Simulation.
|  | Director, Integrated Systems Evaluation Experimentation and Test Department.
| Naval Air Warfare Center Weapons Division, China Lake, California | Executive Director, Naval Air Warfare Center Weapons Division/Director, Research Engineering.
|  | Director, Weapons and Energetics Department.
|  | Director, Range Department.
|  | Director, Software Engineering.
|  | Director, Electronic Warfare/Combat Systems.
| Naval Air Warfare Center Training Systems Division | Director, Human Systems Department.
| Space and Naval Warfare Systems Command | Counsel, Space and Naval Warfare Systems Command.
|  | Executive Director, Fleet Readiness Directorate.
|  | Director Corporate Operations/Command Information Officer.
|  | Assistant Chief Engineer for Mission Architecture and Systems Engineering.
|  | Assistant Chief Engineer for Certification and Mission Assurance.
|  | Assistant Chief Engineer for Mission Engineering.
|  | Deputy Chief Engineer.
|  | Deputy Commander.
|  | Director, Readiness/Logistics Directorate.
|  | Director, Corporate Operations/Command Information Officer.
|  | Executive Director.
|  | Director, Contracts.
|  | Comptroller, Business Resources Manager.
| Space and Naval Warfare Systems Center | Comptroller/Business Resource Manager.
|  | Executive Director.
|  | Head, Research and Applies Sciences Department.
|  | Head, Command and Control Department.
|  | Head, Communication and Information Systems Department.
|  | Counsel, Space and Naval Warfare Systems Command.
|  | Director, Science and Technology.
|  | Head Intelligence, Surveillance, and Reconnaissance and Information Operations Department.
| Space and Naval Warfare Systems Center, Charleston | Executive Director.
| Naval Facilities Engineering Command | Executive Director.
|  | Director of Asset Management.
|  | Director, Public Works.
|  | Counsel, Naval Facilities Engineering Command.
|  | Assistant Commander/Chief Management Officer.
|  | Comptroller.
|  | Director, Navy Crane Center.
|  | Counsel, Naval Facilities Engineering Command.
|  | Director of Contracts Support.
|  | Chief Engineer.
|  | Director of Environment.
| Naval Sea Systems Command | Deputy for Weapons Safety.
|  | Deputy Commander, Corporate Operations Directorate.
|  | Executive Director for Logistics Maintenance and Industrial Operations Directorate.
|  | Executive Director, Undersea Warfare Directorate.
|  | irector, Reactor Plant Components and Auxiliary Equipment Division.
|  | Director, Surface Ship Systems Division.
|  | Director, Reactor Safety and Analysis Division.
|  | Director for Submarine/Submersible Design and Systems Engineering.
|  | Program Manager for Commissioned Submarines.
|  | Director, Office of Resource Management.
|  | Deputy Commander, Human Systems Integration Directorate.
|  | Director, Reactor Refueling Division.
|  | Deputy Commander/Comptroller.
|  | Director for Advanced Undersea Integration.
|  | Assistant Deputy Commander, Maintenance, Modernization, Environment and Safety.
|  | Director of Radiological Controls.
|  | Director for Marine Engineering.
|  | Director for Ship Integrity and Performance Engineering.
|  | Division Technical Director, Naval Surface Warfare Center Indian Head Explosive Ordinance Disposal Technology Division.
|  | Deputy Director, Advanced Aircraft Carrier System Division.
|  | Director, Fleet Readiness Division.
|  | Director, Surface Systems Contracts Division.
|  | Deputy Counsel, Naval Sea Systems Command.
|  | Executive Director, Ship Design, and Engineering Directorate.
|  | Director for Aircraft Carrier Design and Systems Engineering.
|  | Assistant Deputy Commander for Industrial Operations.
|  | Director, Shipbuilding Contracts Division.
|  | Director, Cost Engineering and Industrial Analysis.
|  | Director for Surface Ship Design and Systems Engineering.
|  | Director, Reactor Materials Division.
|  | Director for Contracts.
|  | Counsel, Naval Sea Systems Command.
|  | Executive Director, Surface Warfare Directorate.
|  | Executive Director.
|  | Director, Nuclear Components Division.
|  | Director, Undersea Systems Contracts Division.
|  | Head, Advanced Reactor Branch.
|  | Director for Ship Survivability and Structural Integrity.
|  | Deputy Director for Advanced Submarine Reactor Servicing and Spent Fuel Management.
| Naval Shipyards | Nuclear Engineering and Planning Manager; Pearl Harbor Naval Shipyard.
|  | Naval Shipyard Nuclear Engineering and Planning Manager, Norfolk Naval Shipyard.
|  | Nuclear Engineering and Planning Manager; Portsmouth Naval Shipyard.
|  | Nuclear Engineering and Planning Manager, Puget Sound Naval Shipyard.
| Naval Surface Warfare Center | Division Technical Director, NSWC Dahlgren Division.
|  | Technical Director.
| Naval Undersea Warfare Center | Technical Director.
| Naval Surface Warfare Center, Crane Division | Division Technical Director, Naval Surface Warfare Center, Crane Indiana.
| Naval Undersea Warfare Center Division, Keyport, Washington | Division Technical Director, Naval Undersea Warfare Center, Keyport Division.
| Naval Surface Warfare Center, Port Hueneme Division | Division Technical Director Naval Surface Warfare Center Port Hueneme Division.
| Naval Surface Warfare Center, Corona Division | Division Technical Director, Naval Surface Warfare Center, Corona Division.
| Naval Surface Warfare Center, Indian Head Division | Division Technical Director, Naval Surface Warfare Center, Indian Head Division.
| Naval Surface Warfare Center, Carderock Division | Division Technical Director, Naval Surface Warfare Center, Carderock Division.
| Naval Surface Warfare Center, Dahlgren Division | Division Technical Director Naval Surface Warfare Center Panama City Division.
|  | Division Technical Director, Naval Surface Warfare Center, Dahlgren Division.
| Naval Undersea Warfare Center Division, Newport, Rhode Island | Division Technical Director, NUWC Division Newport.
| Naval Supply Systems Command Headquarters | Senior Acquisition Logistician/Enterprise Resource Planning Program Manager.
|  | Counsel, Naval Supply Systems Command.
|  | >Deputy Commander, Acquisition, Naval Supply Systems Command.
|  | Executive Director, Office of Special Projects.
|  | Deputy Commander, Corporate Operations.
|  | Assistant Commander for Financial Management/Comptroller.
|  | Vice Commander.
| Fleet and Industrial Supply Centers | Vice Commander, Global Logistics Support.
| Weapon Systems Support | Vice Commander, NAVSUP Weapon Systems Support.
| United States Marine Corps Headquarters Office | Director, Program Assessment and Evaluation Division.
|  | Deputy Counsel for the Commandant.
|  | Assistant Deputy Commandant, Installations and Logistics (E-Business and Contracts).
|  | Director, Manpower Plans and Policy Division.
|  | Deputy Assistant Deputy Commandant Installations and Logistics (Facilities).
|  | Counsel for the Commandant.
|  | Assistant Deputy Commandant for Plans, Policies and Operations (Security).
|  | Assistant Deputy Commandant, Resources and Fiscal Director, Marine Corps.
|  | Assistant Deputy Commandant, Installations and Logistics.
|  | Assistant Deputy Commandant for Programs and Resources.
|  | Assistant Deputy Commandant for Manpower and Reserve Affairs.
|  | Assistant Deputy Commandant for Aviation (Sustainment).
| Marine Corps Systems Command | Executive Director.
|  | Deputy Commander for Resource Management.
|  | Deputy Commander, Command, Control, Communications, Computer, Intelligence, Surveillance and Reconnaissance.
| Marine Corps Combat Development Command; Quantico, Virginia | Executive Deputy Training and Education Command.
| Marine Corps Logistics Command Albany, Georgia | Executive Deputy, Marine Corps Logistics Command.
| Office of Naval Research | Head, Expeditionary Warfare and Combating Terrorism Science and Technology Department.
|  | Director, Mathematical, Computer, and Information Sciences Division.
|  | Patent Counsel of the Navy.
|  | Counsel, Office of Naval Research.
|  | Executive Director.
|  | Head, Warfighter Performance Science and Technology Department.
|  | Head, Command, Control, Communications, Intelligence, Surveillance, and Reconnaissance (C4isr) Science and Technology Department.
|  | Head, Ocean, Battlespace Sensing Science and Technology Department.
|  | Director of Transition.
|  | Head, Sea Warfare and Weapons Science and Technology Department.
|  | Executive Director for Acquisition Management.
|  | Director, Ocean, Atmosphere and Space Science and Technology Processes and Prediction Division.
|  | Director, Hybrid Complex Warfare Science and Technology Division.
|  | Head, Air Warfare and Weapons Science and Technology Department.
|  | Director of Innovation.
|  | Director, Undersea Weapons and Naval Materials Science and Technology Division.
|  | Comptroller.
|  | Director, Ship Systems and Engineering Division.
|  | Director, Life Sciences Research Division.
|  | Director, Electronics, Sensors, and Networks Research Division.
|  | Director for Aerospace Science Research Division.
|  | Head, Air Warfare and Weapons Science and Technology Department.
| Naval Research Laboratory | Associate Director of Research for Systems.
|  | Superintendent, Center for Bio-Molecular Science and Engineering.
|  | Superintendent, Spacecraft Engineering Department.
|  | Superintendent, Oceanography Division.
|  | Superintendent, Marine Geosciences Division.
|  | Superintendent, Radar Division.
|  | Superintendent, Material Science and Technology Division.
|  | Superintendent, Tactical Electronic Warfare Division.
|  | Superintendent, Plasma Physics Division.
|  | Associate Director of Research for Business Operations.
|  | Associate Director of Research for Ocean and Atmospheric Science and Technology.
|  | Superintendent, Chemistry Division.
|  | Superintendent, Optical Sciences Division.
|  | Associate Director of Research for Material Science and Component Technology.
|  | Director of Research.
|  | Superintendent, Marine Meteorology Division.
|  | Superintendent, Remote Sensing Division.
|  | Superintendent, Electronics Science and Technology Division.
|  | Superintendent, Information Technology Division.
|  | Superintendent, Acoustics Division.
|  | Director, Naval Center for Space Technology.
|  | Superintendent, Space Systems Development Department.
|  | Superintendent, Space Sciences Division.
OFFICE OF THE SECRETARY OF DEFENSE OFFICE OF THE INSPECTOR GENERAL | Office of the General Counsel | General Counsel.
| Office of Communications and Congressional Liaison | Assistant Inspector General, Office of Communications and Congressional Liaison.
| Office of the Inspector General | Principal Deputy Inspector General.
| Deputy Inspector General for Auditing | Deputy Inspector General for Auditing.
| Office of the Principal Deputy Inspector General for Auditing | Principal Assistant Inspector General for Auditing.
| Acquisition and Contract Management | Assistant Inspector General for Acquisition and Contract Management.
| Financial Management and Reporting | Assistant Inspector General for Financial Management and Reporting.
|  | Assistant Inspector General for Financial Management and Reporting.
| Readiness, Operations and Support | Assistant Inspector General for Readiness and Cyber Operations.
| Deputy Inspector General for Investigations | Deputy Inspector General for Investigations.
| Defense Criminal Investigative Service | Assistant Inspector General for Investigations.
|  | Assistant Inspector General for Investigative Operations.
|  | Assistant Inspector General for International Operations.
| Deputy Inspector General for Policy and Oversight | Deputy Inspector General for Policy and Oversight.
| Audit Policy and Oversight | Assistant Inspector General for Audit Policy and Oversight.
| Investigative Policy and Oversight | Assistant Inspector General for Investigative Policy and Oversight.
| Deputy Inspector General for Intelligence and Special Program Assessments | Deputy Inspector General for Intelligence and Special Program Assessments.
|  | Deputy Inspector General for Intelligence and Special Program Assessments.
| Office of Administration and Management | Assistant Inspector General for Administration and Management.
| Deputy Inspector General for Special Plans and Operations | Deputy Inspector General for Special Plans and Operations.
| Deputy Inspector General for Administrative Investigations | Deputy Inspector General Administrative Investigations.
DEFENSE NUCLEAR FACILITIES SAFETY BOARD | Defense Nuclear Facilities Safety Board | Group Lead for Nuclear Facility Design and Infrastructure.
|  | Technical Director.
|  | Group Lead for Nuclear Materials Processing and Stabilization.
|  | Deputy General Counsel.
|  | Group Lead for Nuclear Programs and Analysis.
|  | Group Lead for Performance Assurance.
|  | Deputy General Manager.
|  | Group Lead for Nuclear Weapon Programs.
|  | Deputy Technical Director.
DEPARTMENT OF EDUCATION | Office of the Chief Financial Officer | Director, Financial Improvement and Post Audit Operations.
|  | Deputy Chief Financial Officer, Management and Operations.
|  | Deputy Chief Financial Officer.
|  | Executive Assistant to the Chief Financial Officer.
| Office of the Chief Information Officer | Chief Information Officer.
|  | Director, Information Assurance and Chief Information Security Officer.
| Office of Management | Director, Human Capital and Client Services.
|  | Director, Security Services.
|  | Chairperson, Education Appeal Board.
| Office of the General Counsel | Assistant General Counsel for Postsecondary Education and Education Research Division.
|  | Assistant General Counsel for Educational Equity.
|  | Assistant General Counsel for Business and Administration Law.
| Office for Civil Rights | Deputy Assistant Secretary for Enforcement
|  | Deputy Assistant Secretary for Enforcement.
|  | Enforcement Director (2).
| Institute of Education Sciences | Associate Commissioner, Assessments Division.
| Federal Student Aid | Chief Financial Officer.
DEPARTMENT OF EDUCATION OFFICE OF THE INSPECTOR GENERAL | Office of the Inspector General | Assistant Inspector General for Information Technology Audits and Computer Crime Investigations.
|  | Assistant Inspector General for Audit Services.
|  | Deputy Assistant Inspector General for Investigation Services.
|  | Deputy Inspector General.
|  | Assistant Inspector General for Management Services.
|  | Deputy Assistant Inspector General for Audit Services.
|  | Assistant Inspector General for Investigative Services.
|  | Counsel to the Inspector General.
DEPARTMENT OF ENERGY | Loan Programs Office | Director for Portfolio Management.
| Associate Administrator for Acquisition and Project Management | Director, Office of Acquisition and Supply Management.
| Office of Management and Budget | Director, Office of Field Financial Management.
| Deputy Administrator for Defense Programs | Manager, Livermore Site Office.
|  | Manager, Sandia Site Office.
|  | Manager, Nevada Site Office.
|  | Manager, Savannah River Site Office.
|  | Principal Assistant Deputy Administrator for Defense Program.
| Deputy Administrator for Naval Reactors | Director, Instrumentation and Control Division.
|  | Director, Advanced Submarine Systems Division.
|  | Deputy Director for Naval Reactors.
|  | Senior Naval Reactors Representative (Yokosuka, Japan).
|  | Deputy Director, Nuclear Technology Division.
|  | Program Manager for Surface Ship Nuclear Propulsion.
|  | Manager, Naval Reactors Laboratory Field Office.
|  | Director, Regulatory Affairs.
|  | Senior Naval Reactors Representative.
| Office of Defense Nuclear Security | Director, Office of Nuclear Materials Integration.
| Office of Health, Safety and Security | Deputy Director, Office of Headquarters Security Operations.
|  | Director, Office of Independent Oversight.
|  | Director, Office of Security and Safety Performance.
| Office of the Chief Information Officer | Associate Chief Information Officer for Cyber Security.
|  | Deputy Chief Information Officer.
|  | Chief Information Officer.
|  | Associate Chief Information Officer for Energy It Services.
| Office of the Chief Human Capital Officer | Director, Office of Human Capital Strategy, Budget and Performance Metrics.
|  | Director, Office of Executive Resources.
|  | Director, Office of Learning and Workforce Development.
|  | Director, Office of Human Capital Policy Accountability and Technology.
|  | Director, Human Capital Management Strategic Planning and Vision.
| Office of Management | Director, Project Management Systems and Assessments.
| Office of the Chief Financial Officer | Deputy Chief Financial Officer.
|  | Deputy Chief Financial Officer.
| Office of Security and Safety Performance Assurance | Director, Office of Safeguards and Security Training.
| Office of Economic Impact and Diversity | Deputy Chief Human Capital Officer.
| Assistant Secretary for Energy Efficiency and Renewable Energy | Program Manager.
|  | Director, Regional Office and Deployment Operations.
|  | Program Manager.
|  | Deputy Manager, Golden Field Office.
|  | Program Manager.
|  | Program Manager, Office of Geothermal Technologies Program.
|  | Manager, Golden Field Office.
| Assistant Secretary for Environment, Safety and Health | Director, Office of Nuclear Safety, Policy and Standards.
|  | Director, Office of Regulatory Liaison.
| Energy Information Administration | Director, Office of Petroleum and Biofuels Statistics.
|  | Director, Office of Survey Development and Statistical Integration.
|  | Director, Office of Integration Analysis and Forecasting.
|  | Director, Electrical Power Division.
|  | Director, Petroleum Division.
|  | Director, Natural Gas Division.
|  | Director, Energy Markets and Contingency Information Division.
|  | Director, Coal, Nuclear and Renewables Division.
|  | Director, Office of Oil and Gas.
|  | Director, Coal and Electric Power Division.
|  | Director, Electric Power Division.
|  | Director, Office of Energy Consumption and Energy Efficiency Analysis.
|  | Director, Office of Petroleum Gas and Biofuels Analysis.
|  | Director, Office of Integrated and International Energy Analysis.
|  | Assistant Administrator for Communications.
|  | Assistant Administrator for Resources and Technology Management.
|  | Assistant Administrator for Energy Analysis.
|  | Director Office of Electricity, Coal Nuclear and Renewables.
|  | Director, Office of Oil, Gas and Coal Supply Statistics.
| Office of Environmental Management | Science Advisor.
|  | Director, Office of Project Assessment.
|  | Director, Office of Safeguard and Security/Emergency Management.
| Environmental Management Consolidated Business Center | Deputy Manager.
| Office of Science | Site Office Manager, Fermi.
|  | Director, Facilities Division.
|  | Director High Energy Physics Division.
|  | Director, Health Effects and Life Scientist Research Division.
|  | Director, Financial Management Division.
|  | Associate Director, Office of Resource Management.
| Office of Fossil Energy | Director, Materials Partnerships Research Center.
| Albuquerque Operations Office | Director, Weapons Programs Division.
|  | Assistant Manager for Management and Administration.
|  | Carlsbad Area Office Manager.
|  | Director Transportation Safeguards Division.
| Chicago Operations Office | Deputy Manager, Chicago Office.
|  | Director, New Brunswick Laboratory.
|  | Assistant Manager, Acquisition and Assistance.
| Idaho Operations Office | Chief Financial Officer/Chief Operating Officer.
| Ohio Field Office | Manager Ohio Field Office.
|  | Deputy Manager, Ohio Field Office.
| Oakland Operations Office | Associate Manager for Site Management.
| Oak Ridge Operations Office | Assistant Manager for Administration.
|  | Chief Financial Officer.
| Rocky Flats Office | Assistant Manager for Administration and Transition.
| Office of General Counsel | Assistant General Counsel for General Law.
| Office of Hearings and Appeals | Deputy Director for Legal Analysis.
|  | Deputy Director for Financial Analysis.
|  | Deputy Director for Economic Analysis.
|  | Director, Hearings and Appeals (Chief Administrative Judge).
| Office of Inspector General | Assistant Inspector General for Investigations.
|  | Counsel to the Inspector General.
| Office of Nuclear Energy | Director Office of Light Water Reactor Deployment.
|  | Associate Director for Nuclear Facilities Management.
| Western Area Power Administration | Transmission Infrastructure Program Manager.
|  | Chief Financial Officer.
|  | Chief Operating Officer.
|  | Transmission Infrastructure Program Manager.
DEPARTMENT OF ENERGY OFFICE OF THE INSPECTOR GENERAL | Department of Energy Office of the Inspector General | Director, Environment Technology Corporate and Financial Audits Division.
|  | Assistant Inspector General for Investigations.
|  | Director, Eastern Audits Division.
|  | Director, Central Audits Division.
|  | Deputy Inspector General Management and Administration.
|  | Counsel to the Inspector General.
|  | Assistant Inspector General for Audits.
|  | Assistant Inspector General for Inspections.
|  | Deputy Inspector General for Audits and Inspections.
|  | Director, National Nuclear Security Administration and Science Audits Division.
|  | Deputy Inspector General for Investigations.
|  | Deputy Inspector General for Investigations and Inspections.
ENVIRONMENTAL PROTECTION AGENCY | Office of Homeland Security | Director, Office of Homeland Security.
| Office of Executive Services | Director, Office of Executive Services.
| Office of the Chief Financial Officer | Senior Advisor.
|  | Deputy Chief Financial Officer.
|  | Associate Chief Financial Officer.
| Office of Planning, Analysis and Accountability | Director, Office of Planning, Analysis and Accountability.
| Center for Environmental Finance | Director, Center for Environmental Finance.
| Office of Budget | Director, Office of Budget.
| Office of Financial Management | Director, Office of Financial Management.
| Office of Financial Services | Director, Office of Financial Services.
| Office of Technology Solutions | Director, Office of Technology Solutions.
| Office of Environmental Information | Director, Enterprise Information Technology Systems.
| Office of Technology Operations and Planning | Director, National Computer Center.
| Office of the Assistant Administrator for Administration and Resources Management | Deputy Assistant Administrator for Administration and Resources Management.
|  | Senior Policy Advisor.
| Office of Policy and Resource Management | Director, Office of Policy and Resource Management.
| Office of Administration | Deputy Director, Office of Administration.
|  | Director, Office of Administration.
|  | Director, Facilities Management and Services Division.
|  | Director, Safety, Health and Environmental Management Division.
| Office of Human Resources | Director, Office of Human Resources.
|  | Director, Executive Resources Division.
|  | Deputy Director, Office of Human Resources.
| Office of Acquisition Management | Deputy Director, Office of Acquisition Management.
|  | Director, Superfund/Resource Conservation and Recovery Act Regional Procurement Operations Division.
|  | Director, Office of Acquisition Management.
| Office of Grants and Debarment | Director, Office of Grants and Debarment.
|  | Director, Grants Administration Division.
|  | Deputy Director, Office of Grants and Debarment.
| Office of Administration and Resources Management—Cincinnati Ohio | Director, Office of Administration and Resources Management.
| Office of Administration and Resources Management—Research Triangle Park, North Carolina | Director, Office of Administration and Resources Management.
| Office of Diversity, Advisory Committee Management and Outreach | Director, Office of Diversity, Advisory Committee Management and Outreach.
| Environmental Appeals Board | Environmental Appeals Judge.
|  | Environmental Appeals Judge (3).
| Federal Facilities Enforcement Office | Director, Federal Facilities Enforcement Office.
| Office of Environmental Justice | Director, Office of Environmental Justice.
| Office of Compliance | Director, Enforcement Targeting and Data Division.
|  | Deputy Director, Office of Compliance.
|  | Director, Monitoring Assistance and Media Programs Division.
|  | Director, National Enforcement Training Institute.
|  | Director, Office of Compliance.
| Office of Criminal Enforcement, Forensics and Training | Director, Criminal Investigation Division.
|  | Assistant Director, Office of Criminal Enforcement, Forensics and Training.
|  | Director, National Enforcement Investigations Center.
|  | Director, Office of Criminal Enforcement, Forensics and Training.
|  | Deputy Director, Office of Criminal Enforcement, Forensics Training.
| Office of Federal Activities | Director, International Compliance Assurance Division.
| Office of Civil Enforcement | Director, Air Enforcement Division.
|  | Director, Office of Civil Enforcement.
|  | Deputy Director, Office of Civil Enforcement.
| Office of Site Remediation Enforcement | Deputy Director, Office of Site Remediation Enforcement.
|  | Director, Office of Site Remediation Enforcement.
| Office of Deputy General Counsel | Director, Resources Management Office.
| Office of Ground Water and Drinking Water | Director, Standards and Risk Management Division.
|  | Director, Drinking Water Protection Division.
| Office of Science and Technology | Director, Health and Ecological Criteria Division.
|  | Director, Standards and Health Protection Division.
|  | Director, Engineering and Analysis Division.
| Office of Waste Water Management | Director, Municipal Support Division.
|  | Director, Water Permits Division.
| Office of Wetlands, Oceans and Watersheds | Director, Wetlands Division.
|  | Director, Assessment and Watershed Protection Division.
|  | Director, Oceans and Coastal Protection Division.
| Office of the Assistant Administrator for Solid Waste and Emergency Response | Director, Land Revitalization Staff.
| Office of Superfund Remediation and Technology Innovation | Director, Technology Innovation and Field Services Division.
|  | Director, Resources Management Division.
|  | Director, Assessment and Remediation Division.
| Office of Resource Conservation and Recovery | Director, Materials Recovery and Waste Management Division.
|  | Director, Program Implementation and Information Division.
|  | Director, Resource Conservation and Sustainability Division.
| Office of the Assistant Administrator for Air and Radiation | Senior Policy Advisor (Agriculture).
|  | Director, Office of Policy Analysis and Review.
|  | Senior Advisor.
| Office of Air Quality Planning and Standards | Director, Sector Policies and Programs Division.
|  | Director, Health and Environmental Impacts Division.
|  | Director, Air Quality Policy Division.
|  | Director, Air Quality Assessment Division.
|  | Associate Office Director for Program Integration and International Air Quality Issues.
|  | Director, Outreach and Information Division.
|  | Deputy Director, Office of Air Quality Planning and Standards.
| Office of Transportation and Air Quality | Director, Transportation and Climate Division.
|  | Director, National Center for Advanced Technology.
|  | Director, Testing and Advanced Technology Division.
|  | Director, Assessment and Standards Division.
|  | Director, Compliance Division.
| Office of Radiation and Indoor Air | Director, Radiation Protection Division.
|  | Director, Indoor Environments Division.
|  | Deputy Director, Office of Radiation and Indoor Air.
| Office of Atmospheric Programs | Director, Climate Protection Partnership Division.
|  | Director, Climate Change Division.
|  | Director, Clean Air Markets Division.
| Office of Program Management Operations | Associate Assistant Administrator (Management).
| Office of Pesticide Programs | Director, Antimicrobials Division.
|  | Director, Field and External Affairs Division.
|  | Director, Information Technology and Resources Management Division.
|  | Director, Health Effects Division.
|  | Director, Environmental Fate and Effects Division.
|  | Director, Biological and Economic Analysis Division.
|  | Director, Registration Division.
|  | Director, Special Review and Reregistration Division.
|  | Director, Biopesticides and Pollution Prevention Division.
| Office of Pollution Prevention and Toxics | Director, Risk Assessment Division.
|  | Director, National Program Chemicals Division.
|  | Director, Pollution Prevention Division.
|  | Director, Chemical Control Division.
|  | Director, Information Management Division.
|  | Director, Economics Exposure and Technology Division.
|  | Director, Environmental Assistance Division.
| Office of the Assistant Administrator for Research and Development | Deputy Director for Management OSIM.
|  | Director, Environmental Technology Innovation Cluster Program.
|  | Chief Innovation Officer.
|  | Director for Ecology.
|  | Director, Office of Science Information Management.
| National Homeland Security Research Center | Director, National Homeland Security Research Center.
|  | Deputy Director for Management, National Homeland Security Research Center.
| Office of Program Accountability and Resource Management | Director, Office of Program Accountability and Resource Management.
| National Health and Environmental Effects Research Laboratory | Associate Director for Ecology.
|  | Associate Director for Health.
|  | Director, National Health and Environmental Effects Research Laboratory.
|  | Deputy Director for Management.
| Atlantic Ecology Division | Director, Atlantic Ecology Division.
| Western Ecology Division | Director, Western Ecology Division.
| Gulf Ecology Division | Director, Gulf Ecology Division.
| Mid-Continent Ecology Division | Director, Mid-Continent Ecology Division.
| Human Studies Division | Director, Human Studies Division.
| National Exposure Research Laboratory—NERL | Director, Microbiological and Chemical Assessment Research Division.
|  | Director, National Exposure Research Laboratory.
|  | Deputy Director for Management.
| Environmental Sciences Division | Director, Environmental Sciences Division.
| Ecosystems Research Division | Director, Ecosystems Research Division.
| Human Exposure and Atmospheric Sciences Division | Director, Human Exposure and Atmospheric Science Division.
| National Risk Management Research Laboratory | Deputy Director for Management.
|  | Director, National Risk Management Research Laboratory.
| Air Pollution Prevention and Control Division | Director, Air Pollution Prevention and Control Division.
| Ground Water Ecosystems Restoration Division | Director, Ground Water Ecosystems Restoration Division.
| Water Supply and Water Resources Division | Director, Water Supply and Water Resources Division.
| National Center for Environmental Assessment | Director, National Center for Environmental Assessment.
|  | Associate Director for Ecology.
|  | Deputy Director for Management.
| National Center for Environmental Assessment-Washington, DC | Director, National Center for Environmental Assessment.
| National Center for Environmental Assessment- Research Triangle Park, North Carolina | Director, National Center for Environmental Assessment.
| National Center for Environmental Assessment—Cincinnati, Ohio | Director, National Center for Environmental Assessment.
| National Center for Environmental Research | Director, National Center for Environmental Research.
|  | Deputy Director for Management.
| Office of Administrative and Research Support | Deputy Director, Office of Administrative and Research Support.
|  | Director, Office of Administrative and Research Support.
| Region 1- Boston, Massachusetts | Director, Office of Environmental Stewardship.
|  | Director, Office of Ecosystem Protection.
|  | Director, Office of Site Remediation Restoration.
|  | Assistant Regional Administrator for Administration and Resources Management.
|  | Director, Coastal and Ocean Policy and Programs.
| Office of Regional Counsel | Regional Counsel.
| Region 2—New York, New York | Assistant Regional Administrator for Policy and Management.
|  | Director, Office of Emergency and Remedial Response.
|  | Director, Environmental Science and Assessment Division.
|  | Director, Caribbean Environmental Protection Division.
|  | Director, Clean Air and Sustainability Division.
|  | Director, Enforcement and Compliance Assistance Division.
| Office of Regional Counsel | Regional Counsel.
| Region 3—Philadelphia, Pennsylvania | Director, Environmental Assessment and Innovation Division.
|  | Director, Land and Chemicals Division.
|  | Director, Air Protection Division.
|  | Director, Chesapeake Bay Program Office.
|  | Assistant Regional Administrator for Policy and Management.
|  | Director, Hazardous Site Cleanup Division.
|  | Director, Water Protection Division.
| Office of Regional Counsel | Regional Counsel
| Region 4—Atlanta, Georgia | Director, Water Management Division.
|  | Director, Resource Conservation and Recovery Act Division.
|  | Director, Superfund Division.
|  | Assistant Regional Administrator for Policy and Management.
|  | Director, Gulf of Mexico Program.
|  | Director, Science and Ecosystem Support Division.
|  | Director, Air, Pesticides and Toxics Management Division.
| Office of Regional Counsel | Regional Counsel.
| Region 5—Chicago, Illinois | Director, Land and Chemicals Division.
|  | Director, Great Lakes National Program Office.
|  | Director, Air and Radiation Division.
|  | Director, Water Division.
|  | Assistant Regional Administrator for Resources Management.
|  | Director, Superfund Division.
| Office of Regional Counsel | Regional Counsel.
| Region 6—Dallas, Texas | Director, Compliance Assurance and Enforcement Division.
|  | Director, Superfund Division.
|  | Director, Water Quality Protection Division.
|  | Director, Multimedia Planning and Permitting Division.
|  | Assistant Regional Administrator for Management.
| Office of Regional Counsel | Regional Counsel.
| Region 7—Kansas City, Kansas | Assistant Regional Administrator for Policy and Management.
|  | Director, Superfund Division.
|  | Director, Water, Wetlands and Pesticides Division.
|  | Director, Air and Waste Management Division.
|  | Director, Environmental Services Division.
| Office of Regional Counsel | Regional Counsel.
| Region 8—Denver, Colorado | Assistant Regional Administrator for Technical and Management Services
|  | Assistant Regional Administrator for Partnerships and Regulatory Assistance.
|  | Assistant Regional Administrator for Ecosystems Protection and Remediation.
| Office of Regional Counsel | Regional Counsel.
| Region 9—San Francisco, California | Assistant Regional Administrator for Management and Technical Services.
|  | Director, Air Division.
|  | Director, Water Division.
|  | Director, Enforcement Division.
|  | Director, Superfund Division.
|  | Director, Communities and Ecosystem Division.
|  | Director, Waste Management Division.
|  | Director, Office of Public Affairs.
| Office of Regional Counsel | Regional Counsel.
| Region 10—Seattle, Washington | Senior Advisor.
|  | Director, Office of Ecosystems, Tribal and Public Affairs.
|  | Director, Office of Environmental Cleanup.
|  | Assistant Regional Administrator for Management Programs.
|  | Director, Office of Compliance and Enforcement.
|  | Director, Office of Air, Waste and Toxics.
|  | Director, Office of Water and Watersheds.
| Office of Regional Counsel | Regional Counsel.
ENVIRONMENTAL PROTECTION AGENCY OFFICE OF THE INSPECTOR GENERAL | Environmental Protection Agency Office of the Inspector General | Assistant Inspector General for Audit.
|  | Assistant Inspector General for Congressional and Public Liaison, and Management.
|  | Assistant Inspector General for Program Evaluation.
|  | Assistant Inspector General for Homeland Security and Customer Liaison.
|  | Deputy Inspector General.
|  | Assistant Inspector General for Investigations.
|  | Assistant Inspector General for Mission Systems.
|  | Counsel to the Inspector General.
|  | Chief of Staff.
| Office of Cyber Investigation and Homeland Security | Assistant Inspector General for Cyber Investigation and Homeland Security.
EQUAL EMPLOYMENT OPPORTUNITY COMMISSION | Office of the Inspector General | Inspector General.
| Office of Field Programs | District Director (Miami).
|  | District Director (Dallas).
|  | District Director (San Francisco).
|  | District Director (Detroit).
|  | District Director (Houston).
|  | District Director (Philadelphia).
|  | District Director (Phoenix).
|  | District Director (Charlotte).
|  | District Director (San Antonio).
|  | District Director (New Orleans).
|  | District Director (Milwaukee).
|  | Program Manager.
|  | District Director (Baltimore).
|  | District Director (New York).
|  | District Director (St Louis).
|  | District Director (Chicago).
|  | District Director (Indianapolis).
|  | District Director (Atlanta).
|  | District Director (Birmingham).
|  | District Director (Cleveland).
|  | National Mediation Executive Advisor.
|  | National Legal/Enforcement Executive Advisor.
|  | District Director (Denver).
|  | District Director (Los Angeles).
|  | District Director (Memphis).
| Field Management Programs | Director, Field Management Programs
| Field Coordination Programs | Director, Field Coordination Programs.
FEDERAL COMMUNICATIONS COMMISSION | Office of Inspector General | Inspector General.
FEDERAL ENERGY REGULATORY COMMISSION | Office of Energy Projects | Director of Dam Safety and Inspection.
| Office of Administrative Litigation | Director, Legal Division.
|  | Director, Technical Division.
| Office of Enforcement | Chief Accountant and Director, Division of Financial Regulations.
FEDERAL LABOR RELATIONS AUTHORITY | Office of the Chairman | Chief Counsel.
|  | Senior Advisor.
|  | Director, Policy and Performance Management.
|  | Solicitor.
| Office of Member | Chief Counsel (2).
| Federal Service Impasses Panel | Executive Director, Federal Service Impasses Panel.
| Office of the Executive Director | Executive Director.
| Office of the General Counsel | Deputy General Counsel (2).
| Office of General Counsel Regional Offices | Regional Director, Denver.
|  | Regional Director, Boston.
|  | Regional Director, Washington, DC.
|  | Regional Director, Atlanta.
|  | Regional Director, Dallas.
|  | Regional Director, Chicago Illinois.
|  | Regional Director, San Francisco.
FEDERAL MARITIME COMMISSION | Office of the Secretary | Secretary.
| Office of Consumer Affairs and Dispute Resolution Services | Director, Office of Consumer Affairs and Dispute Resolution Services.
| Office of the General Counsel | Deputy General Counsel for Reports Opinions and Decisions.
| Office of the Inspector General | Inspector General.
| Office of the Managing Director | Director, Strategic Planning and Regulatory Review.
|  | Deputy Managing Director.
| Bureau of Certification and Licensing | Director, Bureau of Certification and Licensing.
| Bureau of Trade Analysis | Director, Bureau of Trade Analysis.
| Bureau of Enforcement | Director, Bureau of Enforcement.
FEDERAL MEDIATION AND CONCILIATION SERVICE | Office of the Director | National Representative.
|  | Chief of Staff.
| Office of the Deputy Director | Director of Field Operations.
FEDERAL RETIREMENT THRIFT INVESTMENT BOARD | Federal Retirement Thrift Investment Board | Director of Benefits.
|  | Director of Enterprise Risk Management.
|  | Chief Investment Officer.
|  | Director, Office of Enterprise Planning.
|  | Chief Technology Officer.
|  | Chief Operating Officer.
|  | Chief Financial Officer.
|  | Director of Communications and Education.
|  | Director of Resource Management.
FEDERAL TRADE COMMISSION | Office of International Affairs | Deputy Director for International Consumer Protection.
| Office of Executive Director | Deputy Executive Director.
|  | Chief Information Officer.
| Bureau of Competition | Deputy Director, Bureau of Competition.
FEDERAL TRADE COMMISSION OFFICE OF THE INSPECTOR GENERAL | Federal Trade Commission Office of the Inspector General | Inspector General.
GENERAL SERVICES ADMINISTRATION | Office of the Administrator | Senior Advisor for National Security.
| Office of Emergency Response and Recovery | Associate Administrator for Emergency Response and Recovery.
| Office of Citizen Services and Communications | Director, Federal Citizen Information Center.
| Office of the Chief People Officer | Senior Advisor.
|  | Director of Human Capital Management.
|  | Chief Human Capital Officer.
|  | Director of Human Resources Services.
|  | Deputy Chief Information Officer.
|  | Chief Information Officer.
| Office of Governmentwide Policy | Director of the Federal Acquisition Institute.
|  | Director of Governmentwide Acquisition Policy.
|  | Deputy Associate Administrator for Travel, Transportation and Asset Management.
|  | Deputy Associate Administrator for Real Property Management.
|  | Deputy Associate Administrator for Technology Strategy.
| Office of the Chief Acquisition Officer | Director of Acquisition Integrity.
|  | Deputy Chief Acquisition Officer.
|  | Director of Acquisition Systems.
| Office of the Chief Financial Officer | Director of Budget
|  | Director of Financial Policy and Operations.
|  | Chief Financial Officer.
|  | Director of Financial Management Systems.
| Public Buildings Service | Assistant Commissioner for Leasing.
|  | Assistant Commissioner for Budget and Financial Management.
|  | Assistant Commissioner for Construction Programs.
|  | Assistant Commissioner for Organizational Resources.
|  | Assistant Commissioner for National Customer Services Management.
|  | Assistant Commissioner for Real Property Asset Management.
|  | Deputy Assistant Commissioner for Real Estate Portfolio Management.
|  | Deputy Assistant Commissioner for Real Property Disposal.
|  | Assistant Commissioner for Facilities Management and Services Programs.
|  | Deputy Assistant Commissioner for Vendor Alliance and Vendor Acquisition.
|  | Director of Federal High-Performance Green Buildings.
|  | Program Executive.
| Office of the Chief Information Officer | Director of Enterprise Infrastructure.
|  | Senior Agency Information Security Officer.
|  | Director of Enterprise Management Services.
| Federal Acquisition Service | Director of Acquisition.
|  | Director of Governmentwide Acquisition Contracts and Information Technology Schedule Programs.
|  | Assistant Commissioner for Strategic Business Planning and Process Improvement.
|  | Director of Motor Vehicle Management.
|  | Director of Supply Operations.
|  | Deputy Assistant Commissioner for General Supplies and Services.
|  | Director of Travel and Transportation Services.
|  | Director of Network Services Programs.
|  | Deputy Assistant Commissioner for Integrated Technology Services.
|  | Assistant Commissioner for General Supplies and Services.
|  | Assistant Commissioner for Travel, Motor Vehicle and Card Services.
|  | Assistant Commissioner for Customer Accounts and Research.
|  | Assistant Commissioner for Acquisition Management.
|  | Assistant Commissioner for Assisted Acquisition Services.
|  | Chief Information Officer.
|  | Controller.
|  | Assistant Commissioner for Integrated Technology Services.
|  | Deputy Chief Information Officer.
| New England Region | Regional Commissioner for Public Buildings Service
|  | Regional Commissioner for Federal Acquisition Service, Region 1.
| Northeast and Caribbean Region | Regional Commissioner for Public Buildings Service.
|  | Regional Commissioner for Federal Acquisition Service.
| Mid-Atlantic Region | Regional Commissioner for Federal Acquisition Service.
|  | Regional Commissioner for Public Buildings Service.
|  | Regional Counsel.
| National Capital Region | Director of Facilities Management and Services Programs.
|  | Director of Portfolio Management.
|  | Director of Project Delivery.
|  | Director of Leasing.
|  | Principal Deputy Regional Commissioner for Public Buildings Service.
|  | Principal Deputy Regional Commissioner for Projects and Real Property Asset Management.
|  | Regional Commissioner for Federal Acquisition Service.
|  | Project Executive for Real Estate Development.
|  | Regional Commissioner for Public Buildings Service.
| Southeast Sunbelt Region | Regional Commissioner for Public Buildings Service.
|  | Regional Commissioner for Federal Acquisition Service.
|  | Deputy Regional Commissioner for Real Estate Design, Construction and Development.
| Great Lakes Region | Regional Commissioner for Federal Acquisition Service.
|  | Regional Commissioner for Public Buildings Service.
| Heartland Region | Regional Commissioner for Federal Acquisition Service.
|  | Regional Commissioner for Public Buildings Service.
| Greater Southwest Region | Regional Commissioner for Federal Acquisition Service.
| Regional Commissioner for Public Buildings Service.
| Rocky Mountain Region | Regional Commissioner for Public Buildings Service.
|  | Regional Commissioner for Federal Acquisition Service, Region 8.
| Pacific Rim Region | Assistant Regional Administrator for Federal Supply Service.
|  | Principal Deputy Regional Commissioner for Public Buildings Service.
|  | Regional Commissioner for Public Buildings Service.
|  | Assistant Regional Administrator, Federal Acquisition Service.
| Northwest/Arctic Region | Regional Commissioner for Public Buildings Service.
|  | Regional Commissioner for Federal Acquisition Service, Region 10.
GENERAL SERVICES ADMINISTRATION OFFICE OF THE INSPECTOR GENERAL | General Services Administration Office of the Inspector General | Assistant Inspector General for Administration.
|  | Counsel to the Inspector General.
|  | Assistant Inspector General for Auditing.
|  | Deputy Assistant Inspector General for Real Property Audits.
|  | Deputy Inspector General.
|  | Assistant Inspector General for Investigations.
|  | Deputy Assistant Inspector General for Investigations.
|  | Deputy Assistant Inspector General for Acquisition Programs Audits.
DEPARTMENT OF HEALTH AND HUMAN SERVICES | Office of Security and Strategic Information | Associate Director for Strategic Information.
|  | Director, Intelligence and Counterintelligence.
|  | Associate Director for Personnel and Classified Information Security.
| Office of the Assistant Secretary for Administration | Director, Atlanta Human Resources Center.
| Office of the Assistant Secretary for Financial Resources | Director, Office of Small and Disadvantaged Business Utilization.
| Office of the Deputy Assistant Secretary for Finance | Associate Deputy Assistant Secretary, Finance.
|  | Deputy Assistant Secretary, Finance.
| Office of the Deputy Assistant Secretary for Information Resources Management | Deputy Chief Information Officer.
| Office of the Assistant Secretary for Planning and Evaluation | Associate Deputy Assistant Secretary for Planning and Evaluation (Health Services Policy).
| Office of the Assistant Secretary for Health | Director, Office of Human Immunodeficiency Virus/Acquired Immunodeficiency Syndrome Policy
|  | Director, Office of Research Integrity.
| Associate General Counsel Divisions | Deputy Associate General Counsel for Claims and Employment Law.
|  | Deputy Associate General Counsel, Business and Administrative Law Division.
|  | Associate General Counsel, General Law Division.
| Office of the Inspector General | Principal Deputy Inspector General.
|  | Deputy Inspector General for Management and Policy.
|  | Deputy Inspector General for Legal Affairs.
| Office of the Deputy Inspector General for Investigations | Deputy Inspector General for Investigations.
|  | Assistant Inspector General for Investigations.
|  | Assistant Inspector General for Investigations.
|  | Assistant Inspector General for Investigative Operations.
| Office of the Deputy Inspector General for Audit Services | Assistant Inspector General for Audit Management and Policy.
|  | Deputy Inspector General for Audit Services.
|  | Assistant Inspector General for Medicare and Medicaid Service Audits.
|  | Assistant Inspector General for Grants and Internal Activities.
|  | Assistant Inspector General for Financial Management and Regional Operations.
| Office of the Deputy Inspector General for Evaluation and Inspections | Deputy Inspector General for Evaluation and Inspections.
| Program Support Center | Deputy Assistant Secretary for Program Support.
|  | Director, Information Systems Management Service.
| Office of Financial Management Service | Director, Financial Management Service.
| Office of Program Support | Director, Office of Financial Management.
| Office of the Actuary | Director, Medicare and Medicaid Cost Estimates Group.
|  | Director, Office of the Actuary (Chief Actuary).
|  | Director, National Health Statistics Group.
|  | Director, Parts C and D Actuarial Group.
| Center for Medicare | Director, Medicare Contractor Management Group.
| Center for Program Integrity | Director, Medicaid Integrity Group.
|  | Director, Medicare Program Integrity Group.
| Office of Acquisitions and Grants Management | Director, Office of Acquisitions and Grants Management.
|  | Deputy Director, Office of Acquisition and Grants Management.
| Office of Information Services | Director, Office of Information Services (Chief Information Officer).
|  | Deputy Director, Office of Information Services.
|  | Deputy Director, Office of Information Services.
| Office of Financial Management | Director Office of Financial Management.
|  | Deputy Director Office of Financial Management.
|  | Director, Financial Services Group.
|  | Director, Accounting Management Group.
| Office of Policy, Planning, and Budget | Associate Administrator for Policy and Programs Coordinator.
| Center for Mental Health Services | Director, Division of State and Community Systems Development.
|  | Director, Center for Mental Health Services.
| Centers for Disease Control and Prevention | Director, Procurement and Grants Office.
|  | Director, Information Technology Services Office.
|  | Chief Financial Officer.
|  | Director, Buildings and Facilities Office.
|  | Issues Analysis and Coordination Officer.
|  | Chief Management Officer, Office of the Director.
|  | Chief Learning Officer.
| National Institute for Occupational Safety and Health | Deputy Director for Management.
| Office of Chief Counsel | Associate Deputy Chief Counsel for Drugs and Biologics.
|  | Deputy Chief Counsel for Program Review.
|  | Associate Deputy Chief Counsel for Devices, Foods and Veterinary Medicine.
| Office of Management | Director, Office of Acquisitions and Grants Services.
| Office of Regulatory Affairs | Director, Office of Criminal Investigations.
|  | Regional Food and Drug Director, Southwest Region.
|  | Regional Food and Drug Director, Southeast Region.
|  | Regional Food and Drug Director, Northeast Region.
|  | District Food and Drug Director, Los Angeles District.
|  | Regional Food and Drug Director, Central Region.
|  | Deputy Director for Investigations.
|  | District Food and Drug Director, New York District.
|  | Associate Commissioner for Regulatory Affairs.
|  | Associate Director, Investigations.
|  | Deputy Associate Commissioner for Regulatory Affairs.
| Center for Biologics Evaluation and Research | Director, Office of Compliance and Biologics Quality.
|  | Associate Director for Compliance and Biologic Quality.
| Center for Drug Evaluation and Research | Director, Office of Generic Drugs.
|  | Senior Advisor for Policy.
|  | Director, Office of New Drug Quality Assessment.
|  | Director, Office of Management.
|  | Director, Office of Epidemiology and Biostatistics.
|  | Director, Office of Compliance.
|  | Director, Division of Medical Imaging Surgical and Dental Products.
| Center for Devices and Radiological Health | Director, Office of System and Management.
|  | Director, Office of Compliance.
|  | Director, Office of Device Evaluation.
|  | Director, Office of Science and Technology.
| Center for Food Safety and Applied Nutrition | Director, Office of Seafood.
|  | Director, Office of Regulations and Policy.
|  | Director, Office of Plant and Dairy Foods and Beverages.
|  | Director, Office of Field Programs.
|  | Director, Office of Premarket Approval.
| Center for Veterinary Medicine | Director, Office of Science.
|  | Director, Office of Surveillance and Compliance.
| Office of Operations | Director, Office of Human Resources.
|  | Director, Office of Budget.
| Special Programs Bureau | Associate Administrator, Special Programs Bureau.
| HIV/Aids Bureau | Director, Office of Science and Epidemiology.
| Indian Health Service | Director, Office of Environmental Health and Engineering.
| National Institutes of Health | Director, Office of Research Information Systems.
|  | Associate Director for Management.
|  | Director.
|  | Associate Director for Administrative Management.
| Office of the Director | Director, Office of Contracts Management.
|  | Director, Office of Financial Management.
|  | Associate Director for Extramural Affairs.
|  | Director, Office of Medical Applications of Research.
|  | Associate Director for Disease Prevention.
|  | Associate Director for Administration.
|  | Director, Office of Policy for Extramural Research Administration.
|  | Director, Office of Reports and Analysis.
|  | Senior Advisor for Policy.
|  | Scientific Advisor for Capacity Development.
|  | Deputy Director for Science, Outreach, and Policy.
|  | Director, Office of Strategic Planning for Administration.
|  | Senior Policy Officer (Ethics).
|  | Special Advisor to the Director.
|  | Associate Director for Security and Emergency Response.
|  | Director, Office of Research Facilities Development and Operations.
| National Heart, Lung and Blood Institute | Director, Division of Extramural Affairs.
|  | Director, Office of Biostatics Research.
|  | Deputy Director, Division of Epidemiology and Clinical Application.
|  | Deputy Director, Division of Heart Vascular Diseases.
|  | Director, National Center for Sleep Disorders.
|  | Associate Director for International Programs.
|  | Director, Office of Health Education, Communications, and Science Policy.
|  | Director, Division of Heart and Vascular Diseases.
|  | Director, Division of Blood Diseases and Resources.
|  | Director, Division of Lung Diseases.
|  | Director, Epidemiology and Biometry Program.
| Intramural Research | Chief, Metabolic Regulation Section.
|  | Chief, Macromolecules Section.
|  | Chief, Laboratory of Biophysical Chemistry.
|  | Chief, Laboratory of Cardiac Energetics.
|  | Chief, Laboratory of Biochemical Genetics.
|  | Chief, Laboratory of Kidney and Electrolyte Metabolism.
|  | Chief, Intermediary Metabolism and Bioenergetics Section.
|  | Chief, Laboratory of Biochemistry.
| National Cancer Institute | Associate Director for Budget and Financial Management.
|  | Deputy Director for Administrative Operations.
|  | Associate Director, Referral Review and Program Coordination.
|  | Associate Director, Cancer Diagnosis Program.
|  | Deputy Director for Management.
|  | Associate Director for Intramural Management.
|  | Associate Director for Extramural Management.
| Division of Cancer Biology, Diagnosis and Centers | Chief, Laboratory of Biochemistry Intramural Research Program.
|  | Chief, Microbial Genetics and Biochemistry Section, Laboratory of Biochemistry.
|  | Chief, Cell Mediated Immunity Section.
|  | Chief, Dermatology Branch, Intramural Research Program.
|  | Chief, Laboratory of Tumor and Biological Immunology, Intramural Research Programs.
|  | Associate Director, Extramural Research Program.
|  | Associate Director, Centers Training and Resources Program.
|  | Director, Division of Cancer Biology Diagnosis and Centers.
|  | Deputy Director, Division of Cancer Biology Diagnosis and Centers.
| Division of Cancer Etiology | Director, Division of Cancer Etiology.
|  | Chief, Laboratory of Experimental Pathology.
|  | Chief, Laboratory of Biology.
|  | Chief, Laboratory of Molecular Carcinogenesis.
| Division of Cancer Prevention and Control | Associate Director, Early Development and Conchology Program.
|  | Deputy Director, Division of Cancer Prevention and Control.
|  | Associate Director, Surveillance Research Program.
| Division of Extramural Activities | Deputy Director, Division of Extramural Activities.
|  | Director, Division of Extramural Activities.
| Division of Cancer Treatment | Chief, Radiation Conchology Branch.
|  | Associate Director, Cancer Therapy Evaluation Program.
| National Institute of Diabetes and Digestive and Kidney Diseases | Director, Division Kidney Urologic and Hematologic Diseases.
|  | Deputy Director for Management and Operations.
|  | Director, Division of Extramural Activities.
|  | Associate Director for Management (2).
|  | Chief, Laboratory of Molecular and Cellular Biology.
| Intramural Research | Chief, Oxidation Mechanisms Section Laboratory of Bioorganic Biochemistry.
|  | Chief, Laboratory of Bio-Organic Chemistry.
|  | Chief, Laboratory of Neuroscience, National Institute of Diabetes and Digestive and Kidney Diseases.
|  | Chief, Section Carbohydrates Laboratory of Chemistry/National Institute of Diabetes and Digestive and Kidney Diseases.
|  | Chief, Section on Molecular Biophysics.
|  | Clinical Director and Chief, Kidney Disease Section.
|  | Chief, Section on Metabolic Enzymes.
|  | Chief, Laboratory of Biochemistry and Metabolism.
|  | Chief, Laboratory of Medicinal Chemistry.
|  | Chief, Morphogenesis Section.
|  | Chief, Theoretical Biophysics Section.
|  | Chief, Section on Molecular Structure.
|  | Chief, Section on Physical Chemistry.
|  | Chief, Section on Biochemical Mechanisms.
| National Institute of Arthritis and Musculoskeletal and Skin Diseases | Deputy Director.
|  | Director, Extramural Program.
|  | Associate Director for Management and Operations.
| National Library of Medicine | Director, Lister Hill National Center for Biomedical Community.
|  | Associate Director for Extramural Programs.
|  | Deputy Director for Research and Education.
|  | Director, Information Systems.
|  | Associate Director for Health and Information Programs Development.
|  | Deputy Director, Lister Hill National Center for Biomedical Commissioners.
|  | Associate Director for Administrative Management.
|  | Associate Director for Extramural Programs.
|  | Associate Director for Library Operations.
|  | Deputy Director, National Library of Medicine.
|  | Director National Center for Biotechnology Information.
| National Institutes of Allergy and Infectious Diseases | Director, Office If Communications and Government Relations.
|  | Chief, Laboratory of Parasitic Diseases.
|  | Chief, Laboratory of Malaria Research.
|  | Head Epidemiology Section.
|  | Director, Division of Intramural Research.
|  | Director, Division of Allergy/Immunology/Transplantation.
|  | Director, Division of Microbiology/Infectious Diseases.
|  | Chief, Laboratory of Molecular Microbiology.
|  | Chief, Laboratory of Microbial Structure and Function.
|  | Director, Division of Extramural Activities.
|  | Chief, Laboratory of Immunogenetics.
|  | Chief, Laboratory of Infectious Diseases.
|  | Head, Lymphocyte Biology Section.
|  | Chief, Biological Resources Branch.
|  | Director, Division Acquired Immunodeficiency Syndrome.
|  | Deputy Chief, Laboratory of Immunology and Head Lymphocyte Biology Section.
|  | Deputy Director, Division of Acquired Immunodeficiency.
| National Institute on Aging | Associate Director, Biology of Aging Program.
|  | Scientific Director, Gerontology Research Center.
|  | Director of Behavioral and Social Research Program.
|  | Director of Neuroscience and Neuropsychology of Aging Program.
|  | Director of Management.
|  | Associate Director, Epidemiology, Demography, and Biometry Program.
|  | Director of Office of Extramural Affairs.
|  | Clinical Director and Chief Clinical Physiology Branch.
|  | Associate Director, Office of Planning, Analysis and International Activities.
| National Institutes of Child Health and Human Development | Director, Center for Research for Mothers and Children.
|  | Chief, Endocrinology and Reproduction Research Branch.
|  | Chief, Laboratory of Comparative Ethology.
|  | Director, Center for Population Research.
|  | Chief, Laboratory of Molecular Genetics.
|  | Associate Director for Administration.
|  | Director, National Center for Medical Rehabilitation Research.
|  | Chief, Section on Growth Factors.
|  | Chief, Laboratory of Mammalian Genes and Development.
|  | Chief, Section on Microbial Genetics.
|  | Chief, Section Neuroendocrinology.
|  | Chief, Section on Molecular Endocrinology.
|  | Associate Director for Prevention Research.
| National Institute of Dental and Craniofacial Research | Associate Director for Program Development.
|  | Associate Director for International Health.
|  | Associate Director for Management.
|  | Associate Director for Management.
|  | Director, Extramural Program.
|  | Chief, Laboratory of Immunology.
| National Institutes of Environmental Health Sciences | Associate Director for Management.
|  | Head, Mutagenesis Section.
|  | Head, Mammalian Mutagenesis Section.
|  | Chief, Laboratory of Pulmonary Pathobiology.
|  | Senior Scientific Advisor.
|  | Director, National Institute of Environmental Health Science.
|  | Chief, Laboratory of Molecular Carcinogenesis.
|  | Director, Environmental Toxicology Program.
| National Institutes of General Medical Sciences | Deputy Director, National Institute of General Medical Sciences.
|  | Director, Division of Pharmacology, Physiology, and Biological Chemistry.
|  | Director, Minority Opportunities In Research Program Branch.
|  | Associate Director for Administration and Operations.
|  | Director, Genetics Program.
|  | Director, Biophysics Physiological Sciences Program Branch.
|  | Associate Director for Extramural Activities.
| National Institutes of Neurological Disorders and Stroke | Chief, Laboratory of Molecular and Cellular Neurobiology.
|  | Director, Basic Neuroscientist Program/Chief/Laboratory of Neurochemistry.
|  | Associate Director for Administration.
|  | Director, Division of Fundamental Neurosciences.
| Intramural Research | Chief, Development and Metabolic Neurology Branch.
|  | Chief, Brain Structural Plasticity Section.
|  | Chief, Laboratory of Neurobiology.
|  | Chief, Laboratory of Neura Control.
|  | Chief, Stroke Branch.
|  | Chief, Laboratory of Central Nervous System Studies.
|  | Deputy Chief, Laboratory of Central Nervous System Studies.
|  | Chief, Neuroimaging Branch.
| National Eye Institute | Chief, Laboratory of Sensorimotor Research.
|  | Chief, Laboratory of Molecular and Development Biology.
|  | Chief, Laboratory of Retinal Cell and Molecular Biology.
| National Institutes on Deafness and Other Communication Disorders | Director, Division of Extramural Research.
|  | Associate Director for Administration.
|  | Chief, Laboratory of Cellular Biology.
|  | Director, Division of Human Communication.
| National Institutes of Health Clinical Center | Deputy Director for Management and Operations.
|  | Chief Operating Officer.
|  | Associate Director for Planning.
|  | Associate Chief, Positron Emission Tomography and Radiochemistry.
|  | Chief Financial Officer.
| Center for Information Technology | Associate Director Office of Computing Resources Services.
|  | Director, Division of Computer System Services.
|  | Senior Advisor to Director, Center for Information Technology.
|  | Director, Center for Information Technology and Chief Information Officer.
|  | Chief, Computer Center Branch.
|  | Deputy Director.
| John E Fogarty International Center | Deputy Director, Fogarty International Center.
|  | Associate Director for International Advanced Studies.
|  | Special Advisor to the Fogarty International Center Director.
National Center for Research Resources | Director, General Clinical Research Center for Research Resources.
|  | Associate Director for Comparative Medicine.
|  | Associate Director for Research Infrastructure.
|  | Deputy Director, National Center for Research Resources.
|  | Associate Director for Biomedical Technology.
|  | Director, National Center for Research Resources.
| Center for Scientific Review | Director, Division of Physiological Systems.
|  | Director, Division of Biologic Basis of Disease.
|  | Associate Director for Referral and Review.
|  | Senior Scientific Advisor.
|  | Director, Division of Molecular and Cellular Mechanisms.
|  | Director, Division of Clinical and Population-Based Studies.
|  | Associate Director for Statistics and Analysis.
| National Institute of Nursing Research | Deputy Director/Director, Division of Extramural Activities.
|  | Director National Center for Nursing Research.
| National Human Genome Research Institute | Director, Office of Population Genomics.
|  | Chief, Laboratory of Genetic Disease Research National Center for Human Genome Research Institute.
|  | Director, Division of Intramural Research National Center Human Genome Research.
|  | Deputy Director.
|  | Chief, Diagnosis Development Branch National Center Human Genome Research Institute.
|  | Associate Director for Management.
| National Institute on Drug Abuse | Senior Advisor and Counselor for Special Initiatives.
|  | Chief, Neuroscience Research Branch.
|  | Director, Medications Development Division.
|  | Associate Director for Clinical Neuroscience and Medical Affairs, Division of Treatment Research and Development.
|  | Director Division of Clinical Research.
|  | Director, Office of Extramural Program Review.
|  | Associate Director for Management and Operations.
| National Institute of Mental Health | Associate Director for Special Populations.
|  | Associate Director for Prevention.
|  | Executive Officer, National Institute of Mental Health.
|  | Chief, Neuropsychiatry Branch.
|  | Director, Division of Neuroscience and Behavioral Scientist.
|  | Director, Division of Mental Disorders, Behavioral Research and Acquired Immunodeficiency Syndrome.
|  | Director, Office on Acquired Immunodeficiency Syndrome.
|  | Director, Division of Services and Intervention Research.
|  | Chief, Section on Clinical and Experimental Neuropsychology.
|  | Chief, Section on Cognitive Neuroscience.
|  | Deputy Director, National Institute of Mental Health.
|  | Chief, Section on Histopharmacology.
|  | Director, Office of Legislative Analysis and Coordinator.
|  | Chief, Laboratory of Clinical Science.
|  | Chief, Child Psychiatry Branch.
|  | Chief, Biological Psychiatry Branch.
| National Center for Advancing Translational Sciences | Associate Director for Administration.
| National Institute on Alcohol Abuse and Alcoholism | Director, Division of Basic Research.
|  | Associate Director for Administration.
| Agency for Healthcare Research and Quality | Executive Officer.
DEPARTMENT OF HEALTH AND HUMAN SERVICES OFFICE OF THE INSPECTOR GENERAL | Department of Health and Human Services Office of the Inspector General | Principal Deputy Inspector General.
| Office of Counsel to the Inspector General | Assistant Inspector General for Legal Affairs.
|  | Chief Counsel to the Inspector General.
| Office of Audit Services | Assistant Inspector General for Medicare and Medicaid Service Audits.
|  | Deputy Inspector General for Audit Services.
|  | Assistant Inspector General for Audit Management and Policy.
|  | Assistant Inspector General for Audit Services.
|  | Assistant Inspector General for Financial Management and Regional Operations.
| Office of Evaluation and Inspections | Assistant Inspector General for Evaluation and Inspections.
|  | Deputy Inspector General for Evaluation and Inspections.
| Office of Investigations | Assistant Inspector General for Investigations.
|  | Assistant Inspector General for Investigations.
|  | Assistant Inspector General for Investigations.
|  | Deputy Inspector General for Investigations.
| Office of Management and Policy | Assistant Inspector General for Management and Policy (Chief Operating Officer).
|  | Assistant Inspector General for Information Technology (Chief Information Officer).
|  | Deputy Inspector General for Management and Policy.
DEPARTMENT OF HOMELAND SECURITY | Ombudsman, Citizenship and Immigration Services | Deputy Director, Ombudsman.
| Office of the Executive Secretariat | Deputy Executive Secretary, Operations and Administration.
| Office of Operations Coordination and Planning Directorate | Senior Department of Homeland Security Advisor to the Commander, U.S. Northern Command/North American Aerospace Defense Command.
| Office of the General Counsel | Assistant General Counsel for Acquisition and Procurement.
|  | Deputy Associate General Counsel for General Law.
|  | Associate General Counsel for Ethics.
| Office for Civil Rights and Civil Liberties | Director, Civil Rights and Civil Liberties Programs Division.
|  | Deputy Civil Rights and Civil Liberties Officer, Equal Employment Opportunity and Diversity Director.
|  | Deputy Civil Rights and Civil Liberties Officer, Programs and Compliance.
| Domestic Nuclear Detection Office | Assistant Director, Architecture and Plans Directorate.
|  | Assistant Director, National Technical Nuclear Forensics Center.
|  | Assistant Director, Operations Support Directorate.
|  | Deputy Director.
|  | Assistant Director, Transformational and Applied Research Directorate.
|  | Chief of Staff.
|  | Assistant Director, Product Acquisition and Deployment Directorate.
| Office of the Assistant Secretary for Policy | Associate Director, Identity Management.
| U.S. Citizenship and Immigration Services | Deputy Director, Service Center, Laguna Niguel, California.
|  | Deputy Director, Service Center, Dallas, Texas.
|  | Director, Los Angeles Asylum Office.
|  | Associate Director, Service Center Operations.
|  | Deputy Associate Director, Refugee, Asylum, and International Operations.
|  | Associate Director, Enterprise Services Division.
|  | Chief, Office of Security and Integrity.
|  | District Director, Field Services, Atlanta, Georgia.
|  | District Director, Field Services, Newark, New Jersey.
|  | District Director, Field Services, Tampa, Florida.
|  | Regional Director, Southeast Region.
|  | District Director, Field Services, San Francisco California.
|  | Deputy General Counsel.
|  | Deputy Chief Information Officer.
|  | Deputy Associate Director, Enterprise Services Division.
|  | District Director, Field Services, New York, New York.
|  | Chief, Asylum Division.
|  | Chief, Human Capital and Training.
|  | Chief, Immigrant Investor Program.
|  | Deputy Associate Director, Service Center Operations.
|  | Associate Director, Customer Service and Public Engagement.
|  | Deputy Chief Counsel for Field Management.
|  | Deputy Director, Office of Security and Integrity.
|  | Chief, Office of Transformation Coordination.
|  | Deputy Associate Director, Office of Management.
|  | Deputy Chief, Office of Transformation Coordination.
|  | District Director, Field Services, Chicago, Illinois.
|  | District Director, Field Services, Boston, Massachusetts.
|  | Chief, Verification Division.
|  | Chief, Administrative Appeals.
|  | Associate Director, Field Operations.
|  | Deputy Director, Service Center, Saint Albans, Vermont.
|  | Deputy Director, Service Center, Lincoln, Nebraska.
|  | Chief, International Operations.
|  | Director, National Records Center.
|  | District Director, Field Services, Los Angeles, California.
|  | Director, National Benefits Center.
|  | Chief, Office of Administration.
|  | District Director, Field Services, Miami, Florida.
|  | Chief Financial Officer.
|  | Northeast Regional Director (Burlington, Vermont).
|  | Western Regional Director (Laguna Niguel, California).
|  | Central Regional Director (Dallas, Texas).
|  | Director, Vermont Service Center, Saint Albans, Vermont.
|  | Director, Service Center, Dallas, Texas.
|  | Director, Service Center, Laguna Niguel, California.
|  | Director, Service Center, Lincoln, Nebraska.
|  | Associate Director, Office of Management.
|  | Chief Information Officer.
|  | Chief, Performance and Quality.
|  | Director, Office of Refugee Affairs.
|  | Deputy Associate Director, Office of Field Operations.
|  | Deputy Associate Director, Customer Service and Public Engagement.
|  | Associate Director, Fraud Detection and National Security.
|  | Chief, Intake and Document Production.
|  | Deputy Associate Director, Fraud Detection and National Security.
|  | Associate Director, Refugee, Asylum and International Operations.
| United States Secret Service | Deputy Assistant Director, Office of Administration.
|  | Special Agent In Charge, Paris Field Office.
|  | Special Agent In Charge, Information Resources and Management.
|  | Assistant Director, Office of Strategic Intelligence and Information.
|  | Assistant Director—Office of Government and Public Affairs.
|  | Special Agent In Charge, Protective Intelligence and Assessment Division.
|  | Special Agent In Charge, Rome Field Office.
|  | Special Agent In Charge, Rowley Training Center.
|  | Special Agent In Charge, Criminal Investigative Division.
|  | Chief of Staff.
|  | Deputy Assistant Director, Office of Government and Public Affairs.
|  | Chief Financial Officer.
|  | Deputy Assistant Director, Office of Protective Operations.
|  | Deputy Assistant Director, Office of Investigations.
|  | Special Agent In Charge, Philadelphia Field Office.
|  | Deputy Assistant Director, Protective Operations.
|  | Special Agent In Charge, Chicago Field Office.
|  | Chief Technology Officer.
|  | Deputy Assistant Director, Office of Investigations.
|  | Special Agent In Charge, Los Angeles Field Office.
|  | Component Acquisition Executive.
|  | Special Agent In Charge, Washington Field Office.
|  | Deputy Assistant Director, Special Operations Division.
|  | Special Agent In Charge, Honolulu Field Office.
|  | Special Agent In Charge, Atlanta Field Office.
|  | Deputy Special Agent In Charge, Vice Presidential Protective Division.
|  | Chief Information Officer.
|  | Deputy Special Agent In Charge (White House Complex).
|  | Deputy Assistant Director, Technical Development and Mission Support.
|  | Deputy Assistant Director, Rowley Training Center.
|  | Special Agent In Charge, Houston Field Office.
|  | Deputy Assistant Director, Investigations.
|  | Deputy Assistant Director, Human Resources and Training.
|  | Deputy Special Agent In Charge, Presidential Protective Division.
|  | Deputy Assistant Director, Administration.
|  | Special Agent In Charge (Dignitary Protective Division).
|  | Special Agent In Charge, Dallas Field Office.
|  | Special Agent In Charge, San Francisco Field Office.
|  | Chief Counsel.
|  | Special Agent In Charge, Technical Security Division.
|  | Special Agent In Charge, Vice Presidential Protective Division.
|  | Assistant Director, Human Resources and Training.
|  | Special Agent In Charge, New York Field Office.
|  | Special Agent In Charge, Presidential Protective Division.
|  | Assistant Director, Office of Professional Responsibility.
|  | Assistant Director, Office of Administration.
|  | Assistant Director, Office of Technical Development and Mission Support.
|  | Assistant Director, Protective Operations.
|  | Assistant Director, Investigations.
|  | Deputy Director, United States Secret Service.
|  | Director, United States Secret Service.
|  | Deputy Assistant Director, Technical Development and Support Mission.
|  | Deputy Chief Counsel/Principal Ethics Official.
|  | Special Agent In Charge, Miami Field Office.
|  | Deputy Assistant Director, Strategic Intelligence and Information.
| United States Coast Guard | Director, Global Maritime Operational Threat Response Coordination Center.
|  | Director, National Pollution Funds Center.
|  | Deputy Assistant Commandant for Intelligence and Criminal Investigations.
|  | Deputy Assistant Commandant for Acquisition/Director of Acquisition Services.
|  | Senior Procurement Executive/Head of Contracting Activity.
|  | Director, Coast Guard Investigative Service.
|  | Deputy Assistant Commandant for Command, Control, Communications, Computers, and Information Technology and Deputy Chief Information Officer (2).
|  | Chief Procurement Law Counsel and Chief Trial Attorney.
|  | Deputy Chief Financial Officer.
|  | Deputy Director of Acquisition Programs.
|  | Director of Financial Operations/Comptroller.
|  | Director, Incident Management and Preparedness Policy.
|  | Director, Marine Transportation System Management.
| Office of the Under Secretary for National Protection and Programs Directorate | Senior Advisor, Office of Infrastructure Protection.
|  | Assistant Director, Program Integration and Mission Services, Office of Biometric Identity Management.
|  | Chief Technology Officer, Cyber Security and Communications.
|  | Director, Human Resources Management.
|  | Director, Office of Compliance and Security.
|  | Chief Technology Officer, Office of Biometric Identity Management.
|  | Director, National Cyber security and Communications Integration Center.
|  | Director, Network Security Deployment.
|  | Deputy Director, National Cyber security and Communications Integration Center.
|  | Assistant Director of Field Operations (Central), Federal Protective Services.
|  | Assistant Director of Field Operations (West), Federal Protective Services.
|  | Assistant Director of Operations, Federal Protective Services.
|  | Senior Counselor to the Under Secretary for National Protection and Programs Directorate.
|  | Deputy Director, Office of Emergency Communications.
|  | Director, Stakeholder Engagement and Cyber Infrastructure Resilience Division.
|  | Deputy Director, Federal Network Resilience.
|  | Director, Federal Network Security.
|  | Deputy Director, National Cyber security Center.
|  | National Protection and Programs Directorate (NPPD) Chief Information Officer.
|  | Deputy Director, Infrastructure Security Compliance.
|  | Director, Budget, Finance and Acquisition.
|  | Director, Infrastructure Security Compliance.
|  | Director, Sector Outreach and Programs Division.
|  | Deputy Assistant Secretary for Cyber Security.
|  | Assistant Director for Field Operations (East), Federal Protective Service.
|  | Director, Management Services.
|  | Director, Office of Emergency Communications.
|  | Deputy Director, Office of Biometric Identity Management.
|  | Director, Federal Network Resilience.
|  | Director, Protective Security Coordination.
|  | Director, Federal Protective Service.
|  | Director, Budget and Financial Administration.
|  | Senior Advisor for Regulatory Policies.
|  | Assistant Director of Risk Management, Federal Protective Service.
|  | Assistant Director of Risk Management.
|  | Director, Strategy and Policy/Cyber security Coordination.
|  | Assistant Director, Office of Training and Career Development, Federal Protective Service.
|  | Assistant Director, Office of Resource Management, Federal Protective Service.
|  | Director, Enterprise Performance Management.
|  | Principal Deputy Assistant Secretary for Infrastructure Protection.
| Office of the Under Secretary for Intelligence and Analysis | Director, Cyber, Infrastructure and Science Division.
|  | Deputy Director, Office of Analysis.
|  | Senior Advisor for Strategic Cyber Security Management.
|  | Principal Deputy Counter Terrorism Coordinator.
|  | Director, Border Security Division.
|  | Director, Information Sharing and Intelligence Enterprise Management Division.
|  | Director, Mission Support Division.
|  | Director for Strategy, Plans, and Policy.
|  | Deputy Director, Office of Enterprise and Mission Support.
|  | Director, Operations, State and Local Program Office.
|  | Principal Deputy Director, Terrorist Screening Center.
|  | Director, Collection Requirements Division.
|  | Chief of Staff.
|  | Director, Border Intelligence Fusion Section.
| Assistant Secretary for Health Affairs and Chief Medical Officer | Principal Deputy Assistant Secretary for Health Affairs/Deputy Chief Medical Officer.
|  | Associate Chief Medical Officer.
|  | Deputy Director, Health Threats Resilience
| U.S. Immigration and Customs Enforcement | Special Agent In Charge, Miami.
|  | Special Agent In Charge, Los Angeles.
|  | Deputy Director, El Paso Intelligence Center (Epic).
|  | Senior Advisor, Office of International Affairs.
|  | Component Acquisition Executive.
|  | Director, Facilities and Asset Administration.
|  | Director, Federal Export Enforcement Coordination Center.
|  | Special Agent In Charge, San Juan, Puerto Rico.
|  | Senior Policy Administrator, Brussels.
|  | Senior Management Counsel.
|  | Special Agent In Charge, El Paso.
|  | Special Agent In Charge, Phoenix.
|  | Special Agent In Charge, Newark, New Jersey.
|  | Special Agent In Charge, Tampa, Florida.
|  | Special Agent In Charge, Saint Paul, Minnesota.
|  | Field Office Director, Office of Enforcement and Removal Operations, New York City, New York.
|  | Field Office Director, Office of Enforcement and Removal Operations, Los Angeles, California.
|  | Field Office Director, Office of Enforcement and Removal Operations, Phoenix, Arizona.
|  | Deputy Assistant Director, Domestic Operations.
|  | Assistant Director for Detention Oversight and Inspections.
|  | Chief Counsel for Los Angeles.
|  | Chief Counsel for Miami.
|  | Field Office Director, Office of Enforcement and Removal Operations, Miami, Florida.
|  | Field Office Director, Office of Enforcement and Removal Operations, San Antonio, Texas.
|  | Field Office Director, Office of Enforcement and Removal Operations, San Diego, California.
|  | Director, Office of Training and Development.
|  | Division Director for Investigations, Office of Professional Responsibility.
|  | Deputy Director, Office of Professional Responsibility.
|  | Executive Director, State and Local Coordination.
|  | Assistant Director, Enforcement and Removal Operations, Field Operations.
|  | Special Agent In Charge, San Francisco.
|  | Special Agent In Charge, Dallas.
|  | Director, Office of Professional Responsibility.
|  | Special Agent In Charge, Houston.
|  | Special Agent In Charge, Chicago.
|  | Director, Intelligence, Homeland Security Investigations.
|  | Director, International Affairs.
|  | Deputy Assistant Director (Financial, Narcotics and Public Safety).
|  | Special Agent In Charge, Seattle.
|  | Director, Office of Enforcement and Removal Operations.
|  | Director of Enforcement and Litigation.
|  | Deputy Assistant Director, Mission Support.
|  | Deputy Director, Office of Detention Policy and Planning.
|  | Special Agent In Charge, Buffalo, New York.
|  | Special Agent In Charge, Philadelphia, Pennsylvania.
|  | Special Agent In Charge, Boston, Massachusetts.
|  | Special Agent In Charge, San Diego.
|  | Special Agent In Charge, San Antonio.
|  | Special Agent In Charge, New Orleans.
|  | Assistant Director, Homeland Security Investigative Programs.
|  | Special Agent In Charge, Denver.
|  | Director, Intellectual Property Enforcement Operations.
|  | Assistant Director, Enforcement and Removal Operations, Law Enforcement Systems and Analysis Division.
|  | Deputy Chief Information Officer.
|  | Special Agent In Charge, Detroit.
|  | Executive Director, Law Enforcement Information Sharing Initiative.
|  | Deputy Assistant Director, Office of Enforcement and Removal Operations, Field Operations.
|  | Assistant Director, Operations.
|  | Deputy Assistant Director, Homeland Security Investigative Services.
|  | Deputy Director, Enforcement and Removal Operations.
|  | Deputy Principal Legal Advisor for Headquarters.
|  | Deputy Principal Legal Advisor for Field Operations.
|  | Chief Counsel, New York.
|  | Deputy Director, Medical Affairs, Office of Enforcement and Removal Operations.
|  | Assistant Director, Enforcement and Removal Operations, Custody Operations Division.
|  | Assistant Director, Operations Support, Office of Enforcement and Removal Operations.
|  | Deputy Chief Financial Officer.
|  | Deputy Director, International Affairs.
|  | Special Agent In Charge, Washington, DC.
|  | Special Agent In Charge, Atlanta.
|  | Director, Financial Management.
|  | Assistant Director, Management, Office of Enforcement and Removal Operations.
|  | Chief Financial Officer.
|  | Director, Office of Procurement.
|  | Assistant Director for Secure Communities and Enforcement, Office of Enforcement and Removal Operations.
|  | Executive Director, Management and Administration.
|  | Chief Information Officer.
|  | Director, Budget and Program Performance.
|  | Deputy Assistant Director, Critical Infrastructure, Protection, and Fraud.
|  | Assistant Director, Diversity and Civil Rights.
|  | Deputy Assistant Secretary for Immigration and Customs Enforcement.
|  | Assistant Director, Human Resources Management.
|  | Deputy Principal Legal Advisor.
|  | Director, Office of Homeland Security Investigations.
|  | Deputy Director, Office of Homeland Security Investigations.
|  | Special Agent In Charge, New York.
|  | Deputy Assistant Director, National Security Investigations.
| U.S. Customs and Border Protection | Chief Patrol Agent, El Centro, California.
|  | Deputy Chief Patrol Agent, San Diego.
|  | Executive Director, Program Management Office.
|  | Director of Operations, Northern Region, Detroit, Office of Customs and Border Protection (CBP) Air and Marine.
|  | Director of Operations, Southeastern Region, Miami, Florida, Office of Customs and Border Protection (CBP) Air and Marine.
|  | Director, Air and Marine Operations Center, Riverside, Office of Customs and Border Protection (CBP) Air and Marine.
|  | Executive Director, Intelligence and Targeting.
|  | Director of Operations, Southwest Border, Office of Customs and Border Protection (CBP) Air and Marine.
|  | Executive Director, Passenger Systems Program Office.
|  | Executive Director, National Air Security Operations, Office of Customs and Border Protection (CBP) Air and Marine.
|  | Executive Director, Training, Safety and Standards.
|  | Executive Director, Human Resources Operations, Programs and Policy.
|  | Executive Director, Commercial Targeting and Enforcement.
|  | Executive Director, Financial Operations.
|  | Port Director, Laredo.
|  | Deputy Assistant Commissioner, Intelligence and Investigative Liaison.
|  | Chief, Operations Planning and Analyses Division.
|  | Director of Operations, Air and Marine.
|  | Associate Chief Counsel, Enforcement.
|  | Director, Field Operations, El Paso.
|  | Chief Patrol Agent, San Diego.
|  | Chief Patrol Agent, El Paso.
|  | Director, Field Operations, San Francisco.
|  | Chief Patrol Agent, Laredo Sector.
|  | Chief, Border Patrol.
|  | Deputy Assistant Commissioner, Air and Marine.
|  | Director, Field Operations, San Diego.
|  | Director, Field Operations, Laredo.
|  | Director, Field Operations, Houston.
|  | Director, Field Operations, Los Angeles.
|  | Director, Field Operations, Chicago.
|  | Director, Field Operations, Miami.
|  | Port Director, Miami International Airport.
|  | Port Director, Newark.
|  | Principal Executive for Program Development.
|  | Director, Field Operations, New York.
|  | Director, Field Operations, Atlanta.
|  | Chief, Southwest Border Division.
|  | Executive Director, Enterprise Networks and Technology Support.
|  | Executive Director, Mission Support.
|  | Chief Patrol Agent, Rio Grande Valley.
|  | Deputy Assistant Commissioner, Information and Technology.
|  | Port Director, El Paso.
|  | Port Director, Los Angeles/Long Beach Seaport.
|  | Chief Patrol Agent, Tucson.
|  | Executive Director, Customs and Border Protection (CBP) Basic Training.
|  | Executive Director, Procurement.
|  | Assistant Commissioner, Administration.
|  | Executive Director, Mission Support.
|  | Executive Director, Agriculture Programs and Trade Liaison.
|  | Port Director, Los Angeles Airport.
|  | Director, Field Operations, Boston.
|  | Deputy Assistant Commissioner, Administration.
|  | Executive Director, Regulations and Rulings.
|  | Executive Director, Regulatory Audit.
|  | Assistant Commissioner, Office of International Trade.
|  | Assistant Commissioner, Training and Development.
|  | Executive Director, Facilities Management and Engineering.
|  | Executive Director, Labor and Employee Relations.
|  | Deputy Assistant Commissioner, Human Resources Management.
|  | Assistant Commissioner, Human Resources Management.
|  | Deputy Commissioner.
|  | Deputy Chief Counsel.
|  | Executive Director, Planning, Program Analysis and Evaluation.
|  | Port Director, JFK Airport.
|  | Deputy Chief Patrol Agent, El Paso.
|  | Assistant Commissioner, Technology Innovation and Acquisition.
|  | Deputy Chief Patrol Agent, Rio Grande Valley.
|  | Assistant Commissioner, International Affairs.
|  | Director, National Targeting Center (Passenger).
|  | Executive Director, Programming.
|  | Deputy Joint Field Commander, Arizona, Joint Operations Directorate.
|  | Joint Field Commander, Arizona, Joint Operations Directorate.
|  | Assistant Commissioner, Intelligence and Investigative Liaison.
|  | Executive Director, Automated Commercial Environment (ACE) Business Office.
|  | Executive Director, Acquisition Management.
|  | Executive Director, Joint Operations Directorate.
|  | Director, Border Enforcement Coordination Cell, El Paso.
|  | Deputy Assistant Commissioner, International Affairs.
|  | Executive Director, Diversity and Civil Rights.
|  | Port Director, San Ysidro.
|  | Deputy Chief Patrol Agent, Tucson.
|  | Deputy Assistant Commissioner, Office of Training and Development.
|  | Director, Field Operations, Buffalo.
|  | Director, Field Operations, Detroit.
|  | Director, Field Operations, Seattle.
|  | Executive Director, Operations.
|  | Deputy Chief, Border Patrol.
|  | Deputy Assistant Commissioner, Field Operations.
|  | Assistant Commissioner, Field Operations.
|  | Executive Director, Laboratories and Scientific Services.
|  | Assistant Commissioner, Information and Technology.
|  | Deputy Director, Procurement.
|  | Executive Director, Budget.
|  | Executive Director, Trade Policy and Programs.
|  | Deputy Assistant Commissioner, Technology Innovation and Acquisition.
|  | Executive Director, Mission Support, Office of Customs and Border Protection (CBP) Air and Marine.
|  | Chief, Northern Border and Coastal Division.
|  | Deputy Assistant Commissioner, Internal Affairs.
|  | Executive Director, Enterprise Data Management and Engineering.
|  | Executive Director, Targeting and Analysis Systems.
|  | Executive Director, Field Support.
|  | Executive Director, Cargo Systems Programs Office.
|  | Deputy Chief, Southwest Border Division.
|  | Chief Patrol Agent, Yuma, Arizona.
|  | Executive Director, Admissibility and Passenger Programs.
|  | Chief Patrol Agent, Del Rio.
|  | Assistant Commissioner, Air and Marine.
|  | Deputy Director, Policy and Planning.
|  | Executive Director, Cargo and Conveyance Security.
|  | Director, Field Operations, Tucson.
|  | Port Director, San Francisco.
|  | Executive Director, National Targeting Center.
|  | Deputy Assistant Commissioner, International Trade.
|  | Assistant Commissioner, Internal Affairs.
|  | Director, Field Operations, San Juan.
|  | Associate Chief Counsel, Los Angeles.
|  | Associate Chief Counsel, Houston.
|  | Associate Chief Counsel, Chicago.
|  | Associate Chief Counsel, New York.
|  | Associate Chief Counsel, Southeast.
|  | Associate Chief Counsel for Ethics, Labor, and Employment.
|  | Associate Chief Counsel, Trade, Tariffs and Legislation.
| Federal Law Enforcement Training Center | Deputy Director, Federal Law Enforcement Training Center.
|  | Director, Federal Law Enforcement Training Center.
|  | Assistant Director, Administration.
|  | Assistant Director (Centralized Training Management Directorate).
|  | Assistant Director (Glynco Training Directorate).
|  | Assistant Director, Chief Financial Officer (2).
|  | Assistant Director (Information Technology Directorate).
|  | Assistant Director (Field Training Directorate).
|  | Assistant Director, Washington Office.
|  | Chief Counsel.
Federal Emergency Management Agency | Director, Grants Operations Division.
|  | Chief, Risk Reduction Branch (Mitigation).
|  | Deputy Associate Administrator for Mitigation, Federal Insurance and Mitigation.
|  | Deputy Chief Financial Officer.
|  | Deputy Assistant Administrator, National Preparedness Directorate.
|  | Deputy Regional Administrator, Region IV, Atlanta.
|  | Deputy Associate Administrator, Management and Performance Improvement.
|  | Deputy Principal Legal Advisor for Management.
|  | Director, National Disaster Recovery Planning Division.
|  | Chief, Enterprise Business Unit.
|  | Chief Security Officer.
|  | Chief Technology Officer.
|  | Senior Counselor to the Administrator and International Relations Officer.
|  | Director, Emergency Communication Division.
|  | Chief Administrative Officer.
|  | Deputy Associate Administrator, Policy and Strategy.
|  | Director, Technology Hazards Division.
|  | Director, Financial Management Division.
|  | Deputy Assistant Administrator, Grants Program.
|  | Deputy Chief Counsel.
|  | Superintendent, Center for Domestic Preparedness.
|  | Deputy Regional Administrator, Region IV, Atlanta.
|  | Director, National Preparedness Assessment Division.
|  | Deputy Director, External Affairs.
|  | Executive Director for Readiness.
|  | Deputy Executive Administrator, Mount Weathers Emergency Operations Center.
|  | Deputy Assistant Administrator for Response.
|  | Director, Office of Federal Disaster Coordination.
|  | Director, Acquisition Operations Division.
|  | Director, Acquisition Programs and Planning Division.
|  | Deputy Associate Administrator, Mission Support Bureau.
|  | Chief Procurement Officer.
|  | Director, National Exercise Division.
|  | Chief Financial Officer.
|  | Planning Division Director, Office of Response and Recovery.
|  | Deputy Chief Component Human Capital Officer.
|  | Deputy Associate Administrator for Insurance, Federal Insurance and Mitigation.
|  | Director, National Processing Service Center.
| Office of the Chief Security Officer | Chief Security Officer.
|  | Chief Personnel Security Officer.
|  | Deputy Chief Security Officer.
|  | Chief, Counterintelligence and Investigations.
| Office of the Chief Financial Officer | Director, Office of Budget.
|  | Director, Resource Management Transformation Office.
|  | Director, Financial Management.
|  | Director, Program Analysis and Evaluation.
|  | Deputy Director, Financial Management.
|  | Director, Departmental General Accounting Office/Inspector General (GAO/IG) Liaison Office.
|  | Director, Financial Risk Management and Assurance.
| Office of the Chief Procurement Officer | Chief Procurement Officer.
|  | Deputy Chief Procurement Officer.
|  | Director, Enterprise Acquisition and Information Technology.
|  | Executive Director, Office of Procurement Operations.
|  | Director, Procurement Policy and Oversight.
|  | Director, Oversight and Strategic Support.
|  | Director, Policy and Acquisition Workforce.
|  | Executive Director, Program Accountability and Risk Management Office.
| Office of the Chief Human Capital Officer | Executive Director, Human Resources Management and Services.
|  | Executive Director, Policy and Programs.
|  | Deputy Chief Human Capital Officer.
|  | Executive Director, Human Capital Business Systems.
|  | Executive Director, Diversity and Inclusion.
|  | Deputy Chief Learning Officer.
| Office of the Chief Information Officer | Director, Enterprise Business Management Office.
|  | Senior Advisor, Chief Information Officer.
|  | Director, Enterprise System Development Office.
|  | Executive Director, Customer Relationship Management Division.
|  | Deputy Chief Information Officer.
|  | Executive Director, Information Sharing.
|  | Executive Director, Office of Applied Technology (Chief Technology Officer).
|  | Executive Director, Information Technology Services Office.
|  | Executive Director, Chief Information Security Officer.
|  | Deputy Executive Director, Information Technology Services Office.
| Office of the Chief Readiness Support Officer | Deputy Chief Readiness Support Officer.
|  | Director, Safety and Environmental Programs.
|  | Director, Headquarters Management and Development.
|  | Director of Asset and Logistics Management.
|  | Deputy Chief Readiness Support Officer, Operations Support.
| Office of the Under Secretary for Science and Technology | Director, Office for Interoperability and Compatibility.
|  | Director, Office of National Laboratories.
|  | Director, Explosives Division.
|  | Director, Infrastructure Protection and Disaster Management Division.
|  | Director, Finance and Budget Division.
|  | Deputy Director, Homeland Security Advanced Research Projects Agency.
|  | Director, Chemical Biological Defense Division.
|  | Director, Borders and Maritime Security Division.
|  | Director, Test and Evaluations and Standards Office.
|  | Director, Interagency Office.
|  | Deputy Director, Office of National Laboratories.
|  | Director, Cyber Security Division.
|  | Director, Research and Development Partnerships.
|  | Director, Homeland Security Advanced Research Projects Agency.
|  | Director, Acquisition Support and Operations Analysis Division.
DEPARTMENT OF HOMELAND SECURITY OFFICE OF THE INSPECTOR GENERAL | Department of Homeland Security Office of the Inspector General | Assistant Inspector General for Management.
|  | Assistant Inspector General, Investigations.
|  | Chief Operating Officer.
|  | Deputy Assistant Inspector General for Investigations.
|  | Deputy Assistant Inspector General, Investigations.
|  | Deputy Assistant Inspector General, Audits.
|  | Deputy Assistant Inspector General, Investigations.
|  | Deputy Inspector General.
|  | Assistant Inspector General , Audits.
|  | Assistant Inspector General, Information Technology Audits.
|  | Assistant Inspector General, Inspections.
|  | Assistant Inspector General for Emergency Management Oversight.
|  | Deputy Assistant Inspector General, Emergency Management Oversight.
|  | Deputy Assistant Inspector General, Audits.
|  | Counsel to the Inspector General.
DEPARTMENT OF HOUSING AND URBAN DEVELOPMENT | Office of the Secretary | Director, Office of Hearings and Appeals.
| Office of the Deputy Secretary | Chief Disaster and National Security Officer.
| Office of Strategic Planning and Management | Director, Office of Departmental Grants Management and Oversight.
| Office of the Administration | Chief Learning Officer.
|  | Deputy Chief Human Capital Officer.
| Office of the Chief Human Capital Officer | Director, Office of Human Capital Services.
| Office of the Chief Financial Officer | Assistant Chief Financial Officer for Accounting.
|  | Deputy Chief Financial Officer.
|  | Assistant Chief Financial Officer for Budget.
|  | Deputy Assistant Chief Financial Officer for Budget.
|  | Assistant Chief Financial Officer for Financial Management.
| Office of the Chief Information Officer | Deputy Chief Information Officer—Office of Customer Relationship and Performance Management.
| Office of the Chief Procurement Officer | Deputy Chief Procurement Officer.
| Office of Community Planning and Development | Deputy Assistant Secretary for Special Needs Programs.
| Office of Departmental Equal Employment Opportunity | Director, Office of Departmental Equal Employment Opportunity.
| Office of the General Counsel | Director, Departmental Enforcement Center.
|  | Senior Counsel (Appeals, Odeeo Advice and Special Projects).
|  | Associate General Counsel for Program Enforcement.
| Government National Mortgage Association | Senior Vice President, Office of Program Operations.
|  | Senior Vice President for Mortgage-Backed Securities.
|  | Senior Vice President, Office of Enterprise Data and Technology Solutions.
|  | Senior Vice President and Chief Risk Officer.
|  | Senior Vice President, Office of Finance.
|  | Senior Vice President, Office of Capital Markets.
| Office of Housing | Deputy Assistant Secretary for Finance and Budget.
|  | Director, Office of Program Systems Management.
|  | Housing Federal Housing Administration Deputy Comptroller.
|  | Housing Federal Housing Administration-Comptroller.
| Office of Policy Development and Research | Associate Deputy Assistant Secretary for Policy Development.
|  | Chief of Staff to the Deputy Secretary.
| Office of Public and Indian Housing | Deputy Assistant Secretary for Public Housing Investments.
|  | Director, Office of Housing Voucher Programs.
|  | Deputy Assistant Secretary for the Real Estate Assessment Center.
|  | Director for Budget and Financial Management.
|  | Deputy Assistant Secretary for Budget and Administration.
|  | General Deputy Assistant Secretary for Public and Indian Housing.
DEPARTMENT OF HOUSING AND URBAN DEVELOPMENT OFFICE OF THE INSPECTOR GENERAL | Department of Housing and Urban Development Office of the Inspector General | Counsel to the Inspector General.
|  | Deputy Assistant Inspector General for Audit (Field Operations).
|  | Deputy Assistant Inspector General for Investigation (Field Operations).
|  | Deputy Assistant Inspector General for Information Technology.
|  | Assistant Inspector General for Office of Evaluation (OE).
|  | Assistant Inspector General for Office of Management and Technology.
|  | Assistant Inspector General for Audit.
|  | Deputy Inspector General.
|  | Assistant Inspector General for Investigation.
|  | Deputy Assistant Inspector General for Investigation (Headquarters Operations).
|  | Deputy Assistant Inspector General for Audit—Special Operations.
DEPARTMENT OF THE INTERIOR | Office of the Solicitor | Associate Solicitor for Administration..
|  | Designated Agency Ethics Official.
| Assistant Secretary—Policy, Management and Budget | Director, Office of Financial Management and Deputy Chief Financial Officer.
|  | Director, Office of Law Enforcement and Security.
|  | Management Initiatives and Transformation Director.
|  | Director, Office of Emergency Management.
|  | Deputy Director, Office of Financial Management.
|  | Deputy Assistant Secretary—Budget, Finance, Performance and Acquisition.
|  | Deputy Assistant Secretary—Human Capital and Diversity.
|  | Chief Division of Budget and Program Review.
|  | Deputy Assistant Secretary—Law Enforcement, Security and Emergency Management.
|  | Director, Office of Human Resources.
|  | Chief, Budget Administration and Departmental Management.
| Office of Natural Resources Revenue Management | Deputy Director, Office of Natural Resources Revenue Management.
|  | Program Director for Financial and Program Management.
|  | Program Director for Audit and Compliance Management.
|  | Program Director for Coordination, Enforcement, Valuation and Appeals.
| Office of Hearings and Appeals | Director, Office of Hearings and Appeals.
| United States Fish and Wildlife Service | Chief, Office of Law Enforcement.
| National Park Service | Financial Advisor (Comptroller).
|  | Associate Director Interpretation and Education.
| Field Offices | Park Manager (Superintendent).
|  | Park Manager.
|  | Director, Safety, Security, and Law Enforcement.
|  | Director, Management Services Office.
| United States Geological Survey | Associate Director for Energy, Minerals and Environmental Health.
|  | Associate Director for Administrative Enterprise Information.
|  | Deputy Director, United States Geological Survey.
|  | Associate Director for Human Capital.
|  | Associate Chief Biologist for Information.
|  | Associate Director for Communications and Publishing.
|  | Associate Director for Budget, Planning, and Integration.
|  | Chief, Geospatial Information, Integration and Analysis.
|  | Associate Director for Natural Hazards.
|  | Associate Director for Climate Variability and Land Use Change.
|  | Associate Director for Water.
|  | Associate Director for Core Science Systems.
|  | Director, Office of Science Quality and Integrity.
|  | Associate Director for Ecosystems.
|  | Chief Scientist for Hydrology.
|  | Director, Earth Resources Observation and Science Center and Space Policy Advisor.
| Field Offices | Regional Director—Northwest.
|  | Regional Director—Southwest.
|  | Regional Executive—South Central.
|  | Regional Director—Northeast.
|  | Regional Director—Alaska.
|  | Regional Director—Pacific.
|  | Regional Director—Southeast.
|  | Regional Director—Midwest.
| Bureau of Land Management | Assistant Director, Human Capital Management.
| Field Offices | Director, National Operations Center.
|  | Deputy Assistant Director, Fire and Aviation At National Interagency Fire Center (NIFC).
|  | Regional Director.
|  | Regional Director Mid Continent Regionaloordinating Center.
| Bureau of Ocean Energy Management | Strategic Resources Chief.
| Assistant Secretary—Indian Affairs | Director of Human Capital Management.
DEPARTMENT OF THE INTERIOR OFFICE OF THE INSPECTOR GENERAL | Office of the Inspector General | Chief of Staff (2).
|  | Associate Inspector General for Communication.
|  | Deputy Inspector General.
| Office of General Counsel | General Counsel.
| Office of Recovery and Accountability | Assistant Inspector General for Recovery Oversight.
| Office of Investigations | Assistant Inspector General for Investigations.
| Office of Management | Deputy Assistant Inspector General for Management.
|  | Assistant Inspector General for Management.
| Office of Information Technology | Assistant Inspector General for Information Technology.
| Office of Audits, Inspections, and Evaluations | Assistant Inspector General for Audits, Inspections, and Evaluations.
|  | Deputy Assistant Inspector General for Compliance and Finance.
DEPARTMENT OF JUSTICE | Office of the Deputy Attorney General | Chief, Professional Misconduct Review Unit.
| Office of the Legal Counsel | Special Counsel (2).
| Office of Professional Responsibility | Deputy Counsel on Professional Responsibility. Counsel on Professional Responsibility.
| Justice Management Division | Director, Facilities and Administrative Services Staff.
|  | Deputy Assistant Attorney General, Policy, Management, and Planning.
|  | Assistant Attorney General for Administration.
|  | Director Library Staff. Deputy Assistant Attorney General for Human Resources and Administration. Director, Asset Forfeiture Management Staff. Deputy Assistant Attorney General (Controller). Director Finance Staff. Deputy, Chief Information Officer for E-Government Services Staff.
|  | Director, Office of Attorney Recruitment and Management. Director, Equal Employment Opportunity Staff. General Counsel. Director Procurement Services Staff. Deputy Assistant Attorney General for Information Resources Management/Chief Information Officer. Senior Policy Advisor.
|  | Director, Debt Collection Management Staff.
|  | Director, Budget Staff.
|  | Deputy Director, Budget Staff, Operations and Funds Control.
|  | Director, Departmental Ethics Office.
|  | Director, Enterprise Solutions Staff.
|  | Director, Information Technology Security Staff (ITSS).
|  | Chief Technology Officer.
|  | Deputy Chief Information Officer.
|  | Special Assistant for Offices, Boards and Divisions, IT Solutions.
|  | Director Information Technology Security Services.
|  | Deputy Director, Human Resources.
|  | Deputy Director, Auditing, Finance Staff.
|  | Deputy Director, Budget Staff, Programs and Performance.
|  | Director, Operations Services Staff.
|  | Director, Information Technology Policy and Planning Staff.
|  | Director, Security and Emergency Planning Staff.
|  | Director, Human Resources.
| Professional Responsibility Advisory Office | Director, Professional Responsibility Advisory Office.
| Federal Bureau of Prisons | Senior Deputy Assistant Director, Program Review Division.
|  | Warden, Federal Correctional Institution, Fairton, New Jersey.
|  | Warden, Federal Detention Center, Miami, Florida.
|  | Warden, Federal Correctional Institution, El Reno, Oklahoma.
|  | Senior Deputy Assistant Director, Administration Division.
|  | Warden, Federal Transfer Center, Oklahoma City, Oklahoma.
|  | Warden, Federal Correctional Complex, Allenwood, Pennsylvania.
|  | Warden, Federal Medical Center, Carswell, Texas.
|  | Warden, Federal Correctional Complex, Oakdale, Louisiana.
|  | Warden, Metropolitan Detention Center, Brooklyn, New York.
|  | Warden, Federal Correctional Institution, Otisville, New York.
|  | Warden, Federal Correctional Institution, Beckley, West Virginia.
|  | Warden, Federal Correctional CROW>omplex, Coleman, Florida.
|  | Warden, Federal Correctional Complex, Beaumont, Texas.
|  | Senior Deputy Assistant Director, Information, Policy, and Public Affairs Division.
|  | Senior Deputy Assistant Director for Administration.
|  | Warden, Metropolitan Correctional Center, New York, New York.
|  | Warden, United States Penitentiary, Atwater, California.
|  | Warden, United States Penitentiary, Lee, Virginia.
|  | Senior Counsel, Office of General Counsel.
|  | Warden, United States Penitentiary, Big Sandy, Kentucky.
|  | Warden, United States Penitentiary-High, Florence, Colorado.
|  | Warden, Federal Correctional Complex, Florence, Colorado.
|  | Senior Deputy Assistant Director, Administration Division.
|  | Assistant Director, Reentry Services Division.
|  | Warden, Federal Correctional Complex, Yazoo City, Mississippi.
|  | Warden, United States Penitentiary, Hazelton, West Virginia.
|  | Warden, Federal Correction Complex, Petersburg, Virginia.
|  | Warden, United States Penitentiary, McCreary, Kentucky.
|  | Senior Deputy Assistant Director, Information, Policy, and Public Affairs Division.
|  | Warden, Federal Correctional Institution, Berlin, NH.
|  | Senior Deputy General Counsel, OGC.
|  | Senior Deputy Assistant Director, Information, Policy and Public Affairs.
|  | Senior Deputy Assistant Director, Health Services Division.
|  | Senior Deputy Assistant Director, Industries, Education and Vocational Training Division.
|  | Warden, Federal Correctional Institution, McDowell, WV.
|  | Warden, Federal Correctional Institution, Mendota, CA.
|  | Warden, Federal Correctional Institution, Herlong, California.
|  | Warden, Federal Correctional Institution, Ray Brook, New York.
|  | Warden, Federal Correctional Institution, Williamsburg, South Carolina.
| Warden, Federal Correctional Institution, Bennettsville, South Carolina
|  | Warden, Federal Correctional Institution, Manchester, Kentucky.
|  | Warden, Federal Correctional Institution, Gilmer, West Virginia.
|  | Warden, Federal Correctional Institution, Sheridan, Oregon.
|  | Warden, Federal Correctional Institution, Memphis, Tennessee.
|  | Warden, Metropolitan Detention Center, Guaynabo, Puerto Rico.
|  | Warden, Federal Correctional Institution, Three Rivers, Texas.
|  | Warden, Federal Correctional Institution, Schuylkill, Pennsylvania.
|  | Warden, Federal Correctional Institution, Pekin, Illinois.
|  | Warden, Federal Correctional Institution, Oxford, Wisconsin.
|  | Warden, Federal Correctional Institution, McKean, Pennsylvania.
|  | Warden, Federal Correctional Institution, Greenville, Illinois.
|  | Warden, Federal Correctional Institution, Estill, South Carolina.
|  | Warden, Federal Correctional Institution, Cumberland, Maryland.
|  | Warden, United States Penitentiary, Tucson, Arizona.
|  | Warden, United States Penitentiary Coleman-I, Coleman, Florida.
|  | Senior Deputy Assistant Director (Correctional Program Officer).
|  | Warden, Federal Correctional Complex, Forrest City, Arkansas.
|  | Warden, United States Penitentiary, Canaan, Pennsylvania.
|  | Warden, Federal Correctional Complex, Victorville, California.
|  | Warden, United States Penitentiary, Pollock, Louisiana.
|  | Warden, Federal Correctional Institution, Jessup, Georgia.
|  | Warden Federal Correctional Complex, Butner, North Carolina.
|  | Warden Federal Correctional Complex, Terre Haute, Indiana.
|  | Assistant Director, Industries, Education, and Vocational Training Division.
|  | Warden, United States Penitentiary, Marion Illinois.
|  | Warden, Federal Medical Center, Lexington, Kentucky.
|  | Warden, United States Medical Center Federal Prisoners, Springfield, Missouri.
|  | Warden, Federal Correctional Complex, Lompoc, California.
|  | Warden, United States Penitentiary, Lewisburg, Pennsylvania.
|  | Warden, United States Penitentiary, Leavenworth, Kansas.
|  | Warden, United States Penitentiary, Atlanta, Georgia.
|  | Regional Director, South Central Region.
|  | Regional Director, Western Region.
|  | Regional Director, North Central Region.
|  | Regional Director, Southeast Region.
|  | Warden, Federal Correctional Institution, Fort Dix, New Jersey.
|  | Warden, Federal Correctional Institution, Talladega, Alabama.
|  | Deputy Director.
|  | Regional Director Middle Atlantic Region.
|  | Warden, Federal Medical Center, Rochester, Minnesota.
|  | Warden, Federal Correctional Institution, Phoenix, Arizona.
|  | Senior Deputy Assistant Director, Correctional Programs Division.
|  | Assistant Director for Human Resources Management.
|  | Warden, Federal Correctional Institution, Marianna, Florida.
|  | Regional Director, Northeast Region.
|  | Assistant Director, Office of General Counsel.
|  | Assistant Director Correctional Programs Division.
|  | Assistant Director for Administration.
|  | Warden, Metropolitan Detention Center, Los Angeles, California.
|  | Warden, Federal Medical Center, Devens, Massachusetts.
|  | Warden, Federal Correctional Institution, Edgefield, South Carolina.
| Executive Office for Immigration Review | Assistant Director for Administration.
|  | Vice Chairman, Board of Immigration Appeals.
|  | Chief Administrative Hearing Officer.
|  | Associate Director.
|  | General Counsel.
|  | Chairman, Board of Immigration Appeals.
|  | Deputy Chief Immigration Judge.
|  | Chief Immigration Judge.
| Criminal Division | Senior Litigation Counsel, Public Integrity Section.
|  | Deputy Chief, Organized Crime and Gang Section.
|  | Chief, Human Rights and Special Prosecutions Section.
|  | Chief Narcotic and Dangerous Drug Section.
|  | Chief Public Integrity Section.
|  | Chief Fraud Section.
|  | Counselor for Transnational Organized Crime and International Affairs.
|  | Chief, Computer Crime and Intellectual Property Section.
|  | Senior Litigation Counsel, Public Integrity Section.
|  | Chief, Appellate Section.
|  | Chief, Organized Crime and Gang Section.
|  | Deputy Chief Public Integrity Section.
|  | Chief, Asset Forfeiture and Money Laundering Section.
|  | Deputy Chief for Litigation.
|  | Executive Officer.
|  | Deputy Chief, Appellate Section.
|  | Director, International Criminal Investigative Training Assistance Program.
|  | Chief, Child Exploitation and Obscenity Section.
|  | Deputy Chief for Organized Crime and Gang Section.
|  | Senior Counsel to the Assistant Attorney General.
|  | Senior Counsel for Cybercrime.
|  | Director, Office of Overseas Prosecutorial Development, Assistance, and Training.
|  | Deputy Chief, Narcotic and Dangerous Drug Section.
|  | Deputy Chief, Computer Crime and Intellectual Property Section.
|  | Deputy Chief, Asset Forfeiture and Money Laundering Section.
| National Security Division | Chief, Operations Section.
|  | Deputy Assistant Attorney General, FISA Operations and Intelligence Oversight.
|  | Executive Officer.
|  | Deputy Chief, Counterterrorism Section.
|  | Deputy Chief, Operations Section.
|  | Chief, Oversight Section.
|  | Deputy Chief Terrorism and Violent Crime, Counterterrorism Section.
|  | Chief, Appellate Unit.
|  | Director, FOIA and Declassification Program.
Deputy Chief, Counterespionage Section.
|  | Special Counsel for National Security (2).
| Executive Office for United States Attorneys | Chief Financial Officer.
Deputy Director for Administration and Management.
|  | General Counsel.
|  | Counsel, Legal Programs and Policy
|  | Deputy Director.
|  | Associate Director, Office of Legal Education.
|  | Deputy Director for Operations.
|  | Chief, Information Officer.
|  | Chief Human Resources Officer.
| United States Marshals Service | Assistant Director for Prisoner Operations.
|  | Assistant Director, Tactical Operations
|  | Associate Director, Administration
|  | Associate Director, Operations.
|  | Federal Detention Trustee.
|  | Assistant Director, Information Technology.
|  | Assistant Director Office of Inspection.
|  | Director, Justice Prisoner and Alien Transportation System.
|  | Assistant Director Judicial Security.
|  | Deputy Assistant Director Acquisition and Procurement.
|  | Assistant Director, Investigative Operations.
|  | Assistant Director, Justice Prisoner and Alien Transportation System.
|  | Assistant Director, Training.
|  | Assistant Director, Human Resources.
|  | Assistant Director, Financial Services.
|  | Assistant Director, Witness Security.
|  | Assistant Director, Management Support.
|  | Assistant Director, Asset Forfeiture.
|  | Assistant Director, Judicial Security.
|  | Deputy Director.
| Bureau of Alcohol, Tobacco, Firearms and Explosives | Deputy Assistant Director, Office of Professional Responsibility and Security Operations.
|  | Special Agent In Charge, Houston.
|  | Special Agent In Charge, Washington DC.
|  | Special Agent In Charge, New York.
|  | Special Agent In Charge, Los Angeles.
|  | Deputy Assistant Director, Field Operations—West.
|  | Special Agent In Charge, San Francisco.
|  | Deputy Assistant Director, Forensic Services.
|  | Assistant Director, Science and Technology.
|  | Deputy Assistant Director for Information Technology and Deputy Chief Information Officer.
|  | Assistant Director, Management and Chief Financial Officer.
|  | Deputy Assistant Director, Management.
|  | Assistant Director, Office of Professional Responsibility and Security Operations.
|  | Assistant Director, Training and Professional Development.
|  | Deputy Assistant Director, Human Resources and Professional Development.
|  | Deputy Assistant Director, Enforcement Programs and Services.
|  | Assistant Director, Enforcement Programs and Services.
|  | Deputy Assistant Director, Field Operations-Central.
|  | Assistant Director, Field Operations.
|  | Deputy Director.
|  | Senior Advisor to the Director.
|  | Deputy Assistant Director, Field Operations (Programs).
|  | Deputy Assistant Director, Industry Operations.
|  | Chief, Special Operations Division.
|  | Deputy Director, Terrorist Explosive Device Analytical Center.
|  | Special Agent In Charge, Denver.
|  | Special Agent In Charge, Newark.
|  | Special Agent In Charge, Baltimore.
|  | Special Agent In Charge, New Orleans.
|  | Special Agent In Charge, Columbus.
|  | Special Agent In Charge, Tampa.
|  | Special Agent In Charge, Seattle.
|  | Special Agent In Charge, Louisville.
|  | Special Agent In Charge, Detroit.
|  | Special Agent In Charge, Charlotte.
|  | Special Agent In Charge, Miami.
|  | Special Agent In Charge, Phoenix.
|  | Special Agent In Charge, Philadelphia.
|  | Special Agent In Charge, Kansas City.
|  | Special Agent In Charge, Chicago.
|  | Special Agent In Charge, Boston.
|  | Special Agent In Charge, Atlanta.
|  | Special Agent In Charge, Saint Paul.
|  | Deputy Assistant Director, Office of Public and Governmental Affairs.
|  | Assistant Director, Office of Public and Governmental Affairs.
|  | Deputy Assistant Director, Office of Strategic Intelligence and Information.
|  | Assistant Director, Office of Strategic Intelligence and Information.
|  | Special Agent In Charge, Dallas.
|  | Special Agent In Charge, Nashville.
|  | Deputy Assistant Director, Industry Operations.
|  | Deputy Assistant Director, Field Operations-East.
| Antitrust Division | Executive Officer.
|  | Director, Economic Enforcement.
|  | Chief, Telecommunications and Media Section.
| Civil Division | Director, Office of Management Programs.
|  | Appellate Litigation Counsel.
|  | Special Immigration Counsel.
|  | Deputy Branch Director, Federal Programs.
|  | Deputy Branch Director.
|  | Deputy Director, Appellate Staff.
|  | Deputy Director, Commercial Litigation Branch.
|  | Deputy Director, Office of Immigration Litigation, Appellate Section.
|  | Special Litigation Counsel, Aviation and Admiralty Section.
|  | Director, Foreign Litigation Section.
|  | Deputy Branch Director, Federal Programs.
|  | Deputy Director, Commercial Litigation Branch.
|  | Deputy Director Appellate Branch.
|  | Director, Consumer Protection Branch.
|  | Deputy Branch Director, Federal Programs.
|  | Deputy Director, Commercial Litigation Branch.
| Environment and Natural Resources Division | Deputy Section Chief, Natural Resources Section.
|  | Executive Officer.
|  | Chief, Environmental Crimes Section.
|  | Senior Litigation Counsel.
|  | Chief, Wildlife and Marine Resources Section.
|  | Chief, Natural Resources Section.
|  | Chief, Environmental Enforcement Section.
|  | Chief, Land Acquisition Section.
|  | Chief-Appellate Section.
|  | Chief, Indian Resources Section.
|  | Chief, Environmental Defense Section.
|  | Deputy Chief, Environmental Enforcement Section.
|  | Deputy Chief, Environmental Enforcement Section.
|  | Deputy Chief, Environmental Enforcement Section.
|  | Deputy Chief, Natural Resources Section.
|  | Deputy Chief, Appellate Section.
|  | Deputy Chief, Environmental Defense Section.
| Tax Division | Senior Litigation Counsel.
|  | Chief, Civil Trial Section, Western Region.
|  | Chief, Civil Trial Section, Southwestern Region.
|  | Executive Officer.
|  | Chief, Office of Review.
|  | Chief, Criminal Enforcement Section, Western Region.
|  | Chief, Appellate Section.
|  | Chief, Court of Federal Claims Section.
|  | Chief, Civil Trial Section, Central Region.
|  | Chief, Civil Trial Section, Northern Region.
|  | Chief, Civil Trial Section, Southern Region.
|  | Chief, Criminal Enforcement Section, South Region.
|  | Special Litigation Counsel.
|  | Chief, Criminal Enforcement Section, North Region.
|  | Chief, Criminal Appeals and Tax Enforcement Policy Section.
|  | Chief, Civil Trial Section, Eastern Region.
| Civil Rights Division | Chief, Policy Strategy Section.
|  | Executive Officer.
| Executive Office for Organized Crime Drug Enforcement Task Forces | Executive Director, Organized Crime Drug Enforcement Task Forces.
| Office of Justice Programs | Director, Office of Audit, Assessment and Management.
|  | Director, Office of Administration.
|  | Deputy Chief Financial Officer.
|  | Chief Financial Officer.
|  | Deputy Director, Office for Victims of Crime.
| National Institute of Justice | Deputy Director, National Institute of Justice.
| Office of the Inspector General | Deputy Assistant Inspector General for Investigation.
|  | Deputy Assistant Inspector General for Audit.
|  | Director, Office of Oversight and Review.
|  | General Counsel.
|  | Assistant Inspector General for Management and Planning.
|  | Assistant Inspector General for Investigation.
|  | Assistant Inspector General for Audit.
|  | Assistant Inspector General, Evaluation and Inspections Division.
|  | Deputy Inspector General.
| Office of Tribal Justice | Director.
DEPARTMENT OF JUSTICE OFFICE OF THE INSPECTOR GENERAL | Audit Division | Deputy Assistant Inspector General, Audit Division.
|  | Assistant Inspector General, Audit Division.
| Evaluation and Inspections Division | Assistant Inspector General, Evaluation and Inspections Division.
| Front Office | General Counsel.
|  | Deputy Inspector General.
| Investigations Division | Deputy Assistant Inspector General, Investigations Division.
|  | Assistant Inspector General, Investigations Division.
| Management and Planning Division | Assistant Inspector General, Management and Planning Division.
| Oversight and Review Division | Assistant Inspector General, Oversight and Review Division.
DEPARTMENT OF LABOR | Office of the Secretary | Deputy National Director Regional Operations.
|  | Deputy National Director Regional Operations.
| Women's Bureau | Deputy Director, Women's Bureau.
| Office of the Inspector General | Assistant Inspector General for Inspections and Special Investigations.
|  | Deputy Assistant Inspector General for Labor Racketeering.
|  | Deputy Assistant Inspector General for Audit.
|  | Assistant Inspector General for Audit.
|  | Counsel to the Inspector General.
|  | Deputy Inspector General.
|  | Assistant Inspector General for Investigations.
|  | Assistant Inspector General for Management and Policy.
| Office of Public Affairs | Senior Managing Director.
|  | Director, Division of Enterprise Communications.
| Bureau of International Labor Affairs | Director, Office of Trade and Labor Affairs.
| Office of the Assistant Secretary for Policy | Deputy Assistant Secretary for Policy.
|  | Director, Office of Regulatory and Programmatic Policy.
| Office of the Solicitor | Regional Solicitor—Chicago.
|  | Associate Solicitor for Plan Benefits Security.
|  | Regional Solicitor—New York.
|  | Regional Solicitor—Boston.
|  | Associate Solicitor for Federal Employees' and Energy Workers' Compensation.
|  | Regional Solicitor—Atlanta.
|  | Associate Solicitor for Fair Labor Standards.
|  | Regional Solicitor—San Francisco.
|  | Deputy Solicitor (National Operations).
|  | Associate Solicitor, Management and Administrative Legal Services Division.
|  | Associate Solicitor for Legal Counsel.
|  | Associate Solicitor for Civil Rights and Labor Management.
|  | Regional Solicitor—Kansas City.
|  | Regional Solicitor—Dallas.
|  | Associate Solicitor for Black Lung and Longshore Legal Services.
|  | Regional Solicitor—Philadelphia.
|  | Acting Deputy Assistant Secretary.
|  | Associate Solicitor for Occupational Safety and Health.
|  | Associate Solicitor for Mine Safety and Health.
|  | Deputy Solicitor (Regional Operations).
| Office of Chief Financial Officer | Associate Deputy Chief Financial Officer for Financial Systems.
|  | Deputy Chief Financial Officer.
| Office of the Assistant Secretary for Administration and Management | Director, Program Planning and Results Center.
|  | Deputy Assistant Secretary for Budget and Performance Planning.
|  | Director Office of Budget.
|  | Director Business Operations Center.
|  | Director of Civil Rights.
|  | Deputy Director, Information Technology Center.
|  | Director, National Capital Service Center.
|  | Deputy Director of Human Resources.
|  | Deputy Assistant Secretary for Operations.
|  | Deputy Assistant Secretary for Security and Emergency Management.
|  | Associate Deputy CIO.
|  | Director of Enterprise Services.
|  | Director, Customer Service.
|  | Project Manager.
| Employment Standards Administration | Deputy Assistant Secretary for Operations.
|  | Director Office of Management, Administration and Planning.
| Wage and Hour Division | Deputy Administrator for Program Operations.
|  | Deputy Wage and Hour Administrator (Operations).
|  | Director of Administrative Operations.
| Office of Workers Compensation Programs | Regional Director (Dallas).
|  | Administrative Officer.
|  | Director, Energy Employees' Occupational Illness Compensation.
|  | Comptroller.
|  | Regional Director (2).
|  | Director for Federal Employees' Compensation.
|  | Director of Coal Mine Workers' Compensation.
|  | Regional Director.
| Office of Labor-Management Standards | Deputy Director, Office of Labor Management Standards.
|  | Senior Advisor and Director of Reports and Disclosures.
|  | Director, Office of Enforcement and International Union Audits.
|  | Director, Office of Policy, Reports and Disclosure.
| Employee Benefits Security Administration | Director of Health Plan Standards Compliance and Assistance.
|  | Senior Policy Advisor.
|  | Regional Director—Atlanta.
|  | Director of Participant Assistance and Communications.
|  | Regional Director—Boston.
|  | Chief Accountant.
|  | Deputy Assistant Secretary for Program Operations.
|  | Director of Regulations and Interpretations.
|  | Director of Exemption Determinations.
|  | Director of Enforcement.
|  | Regional Director—San Francisco.
|  | Regional Director—Kansas City.
|  | Regional Director—Philadelphia.
|  | Regional Director—New York.
|  | Director of Information Management.
| Bureau of Labor Statistics | Associate Commissioner for Prices and Living Conditions.
|  | Assistant Commissioner for Industry Employment Statistics.
|  | Director of Survey Processing.
|  | Director of Technology and Computing Services.
|  | Associate Commissioner for Compensation and Working Conditions.
|  | Assistant Commissioner for Safety, Health and Working Conditions.
|  | Assistant Commissioner for Compensation Levels and Trends.
|  | Assistant Commissioner for International Prices.
|  | Associate Commissioner Productivity and Technology.
|  | Associate Commissioner for Field Operations.
|  | Associate Commissioner for Administration.
|  | Deputy Commissioner for Labor Statistics.
|  | Associate Commissioner for Technology and Survey Processing.
|  | Assistant Commissioner for Current Employment Analysis.
|  | Associate Commissioner for Publications and Special Studies.
|  | Associate Commissioner for Employment and Unemployment Statistics.
|  | Assistant Commissioner for Occupational Statistics and Employment Projections.
|  | Assistant Commissioner for Consumer Prices and Prices Indexes.
|  | Assistant Commissioner for Industrial Prices and Price Indexes.
|  | Associate Commissioner for Survey Methods Research.
| Employment and Training Administration | Comptroller.
|  | Deputy Administrator, Job Corp.
|  | Administrator, Office of Financial and Administrative Management.
|  | Associate Administrator.
| Occupational Safety and Health Administration | Director, Directorate of Evaluation and Analysis Director, Directorate of Standards and Guidance.
|  | Director, Directorate of Cooperative and State Programs.
|  | Directorate of Technical Support and Emergency Management.
|  | Director, Administrative Programs.
| Mine Safety and Health Administration | Director of Program Evaluation and Information Resources.
|  | Director, Office of Accountability, Audit, and Program Policy Evaluation.
|  | Director of Administration and Management.
|  | Director of Technical Support.
|  | Director of Assessments.
| Veterans Employment and Training Service | Director, Department of Labor Homeless Assistance Program.
|  | Director, Office of Field Operations.
|  | Deputy Assistant Secretary for Operations and Management.
|  | Director of Operations and Programs.
| Office of Disability Employment Policy | Director, Office of Operations.
|  | Deputy Assistant Secretary for Office of Disability Employment Policy.
DEPARTMENT OF LABOR OFFICE OF INSPECTOR GENERAL | Department of Labor Office of Inspector General | Deputy Inspector General for Operations.
|  | Counsel.
|  | Assistant Inspector General for Labor Racketeering.
|  | Deputy Assistant Inspector General for Labor Racketeering.
|  | Deputy Inspector General.
|  | Assistant Inspector General for Audit.
|  | Assistant Inspector General for Inspections and Special Investigations.
|  | Deputy Assistant Inspector General for Audit.
|  | Assistant Inspector General for Management and Policy.
MERIT SYSTEMS PROTECTION BOARD | Office of the Clerk of the Board | Clerk of the Board.
| Office of Financial and Administrative Management | Director, Financial and Administrative Management.
| Office of Policy and Evaluation | Director, Office of Policy and Evaluation.
| Office of Information Resources Management | Director, Information Resources Management.
| Office of Regional Operations | Director, Office of Regional Operations.
| Atlanta Regional Office | Regional Director, Atlanta.
| Central Region, Chicago Regional Office | Regional Director, Chicago.
| Northeast Region, Philadelphia Regional Office | Regional Director, Philadelphia.
| Western Region, San Francisco Regional Office | Regional Director, San Francisco.
| Washington, DC Region, Washington Regional Office | Regional Director, Washington, D.C.
| Dallas Regional Office | Regional Director, Dallas.
NATIONAL AERONAUTICS AND SPACE ADMINISTRATION | National Aeronautics and Space Administration | Director, NASA Lunar Science Institute.
|  | Director for Ames International Space Station Office.
|  | Associate Director for Mission Support.
|  | Senior Technical Advisor to the Director.
|  | Director, NASA Aeronautics and Research Institute.
|  | Deputy Director for Science.
| Office of the Deputy Administrator | Associate Administrator, Strategy and Policy.
| Chief of Staff | Director, Office of Evaluation.
| Office of the Chief Scientist | Associate Chief Scientist for Planning and Evaluation.
|  | Associate Chief Scientist for Life and Microgravity Sciences.
| Exploration Systems Mission Directorate | Assistant Associate Administrator for Administration.
|  | Director, Mission Integration Division.
|  | Director, Business Operations Division.
|  | Manager, Advanced Space Technology Program.
|  | Manager, Strategic Planning.
|  | Assistant Associate Administrator, Strategic Integration and Management.
|  | Director, Directorate Integration Office.
|  | Director, Resources Management Office.
|  | Director, Strategic Integration and Management Office.
| Human Exploration and Operations Mission Directorate | Deputy Assistant Administrator for Program Integration.
|  | Manager, Rocket Propulsion Test Program Office.
|  | Assistant Associate Administrator for Human Exploration Capability.
|  | Director, International Space Station and Space Shuttle Program Resource.
|  | Assistant Associate Administrator for Launch Services.
|  | Assistant Associate Administrator for Space Shuttle Program.
|  | Director, Human Spaceflight Capabilities Division.
|  | Director, Program and Strategic Integration Office.
|  | Deputy Associate Administrator for Policy and Plans.
|  | Director, Advanced Exploration Systems.
|  | Assistant Associate Administrator for Space Shuttle Program.
|  | Assistant Associate Administrator for International Space Station.
|  | Director, Advanced Capabilities Division.
|  | Deputy Associate Administrator for Space Communications and Navigation.
|  | Assistant Associate Administrator for Resources Management and Analysis Office.
|  | Space Operations Mission Directorate Transition Manager.
| Office of the Chief Technologist | Deputy Chief Technologist.
| Office of Evaluation | Director, Cost Analysis Division.
| Science Mission Directorate | Deputy Associate Administrator for Management.
|  | Deputy Director, for Programs, Earth Science Division.
|  | Director, Strategic Integration and Management Division.
|  | Deputy Associate Administrator for Research.
|  | Director, Applications Division.
|  | Deputy Associate Administrator for Programs.
| James Webb Space Telescope Program Office | Director, James Webb Space Telescope Program.
| Planetary Science Division | Assistant Director for Strategy Communications and Integration.
|  | Director, Planetary Science Division.
|  | Deputy Director, Planetary Science Division.
|  | Mars Exploration Program Director.
| Astrophysics Division | Deputy Director, Astrophysics Division.
|  | Director, Astrophysics Division (2).
| Heliophysics Division | Program Director, Science Information and Telecommunications Systems.
|  | Director, Heliophysics Division.
|  | Deputy, Director, Heliophysics Division.
| Earth Science Division | Director, Earth Science Division.
|  | Program Director, Research and Analysis Program.
|  | Deputy Director, Earth Science.
|  | Program Director, Science Division.
| Joint Agency Satellite Division | Director, Joint Agency Satellite Division.
|  | Deputy Director, Joint Agency Satellite Division.
| Strategic Integration and Management Division | Director, Strategic Integration and Management Division.
| Aeronautics Research Mission Directorate | Director, Strategy, Communications and Program Integration.
|  | Director, Strategy, Architecture, and Analysis Office.
|  | Director, Integrated Systems Research Program Office.
|  | Director, Fundamental Aeronautics.
|  | Director, Mission Support Office (2).
|  | Director, Airspace Systems Program Office.
|  | Director, Integration and Management Office.
|  | Director, Aviation Safety Program Office.
| Office of Program Analysis and Evaluation | Deputy Director, Technical, Independent Program, Assessment.
|  | Director, Studies and Analysis Division.
|  | Deputy Director, Strategic Investments Division (2).
|  | Director , Independent Program Assessment Office.
|  | Deputy Associate Administrator.
| Office of the Chief Financial Officer/Comptroller | Associate Deputy Chief Financial Officer (Finance).
|  | Deputy Chief Financial Officer (Agency Budget, Strategy and Performance).
| Office of Education | Deputy Associate Administrator for Integration.
|  | Deputy Associate Administrator for Education.
|  | Senior Advisor, Education and Stem Engagement.
| Space Technology Mission Directorate | Deputy Associate Administrator for Programs.
| Office of the Chief Engineer | Senior Advisor for Innovation.
| Mission Support Directorate | Assistant Administrator for Agency Operations.
|  | Deputy Associate Administrator for Mission Support.
| Office of Headquarters Operations | Director, Headquarters Information Technology and Communications Division.
|  | Director, Human Resource Management Division.
| Office of Human Capital Management | Assistant Administrator for Human Capital Management.
|  | Director, Workforce Systems and Accountability Division.
|  | Deputy Assistant Administrator for Human Capital Management.
|  | Director, Workforce Management and Development Division.
|  | Director, Workforce Strategy Division.kem.002
| Office of Strategic Infrastructure | Director, Strategic Capability Asset Program.
|  | Deputy Assistant Administrator for Policy. Director, Environmental Management Division. Director, Facilities Engineering and Real Property Division. Director, Facilities Engineering. Director, Integrated Asset Management Division.
| NASA Shared Services Center | Deputy Director, NASA Shared Services Center.
|  | Executive Director of NASA Shared Services Center. Director, Business and Administration.
| Office of Protective Services | Assistant Administrator for Security and Program Protection.
|  | Assistant Administrator for Protective Services.
| Office of Procurement
|  | Director, Analysis Division. Director, Program Operations Division. Director, Contract Management Division. Assistant Administrator for Procurement. Director, Contract Management Division.
| NASA Management Office | Director, NASA Management Office.
| Office of Safety and Mission Assurance
|  | Director, NASA Safety Center. Director, Mission Support Division. Deputy Chief Safety and Mission Assurance Officer. Director, Safety and Assurance Requirements Division. Chief, Safety and Mission Assurance Office.
| Office of the Chief Financial Officer/Comptroller | Director, Business Integration.
|  | Director, Policy Division.
|  | Director, Financial and Budget Systems Management Division.
|  | Director, Strategic Management and Planning.
|  | Director for Performance Reporting.
|  | Director, Quality Assurance.
|  | Director, Financial Management.
|  | Senior Advisor to the Deputy Chief Financial Officer.
|  | Deputy Chief Financial Officer.
|  | Director, Budget Division.
| Office of the Chief Information Officer | Deputy Chief Information Officer for IT Reform.
|  | Chief Technology Officer for IT.
|  | Deputy CIO for IT Security.
|  | Associate Chief Information Officer for Capital Planning and Governance.
|  | Associate Chief Information Officer for Enterprise Service and Integration Division.
| Office of the Chief Engineer | ARMD, Chief Engineer.
|  | Senior Advisor.
|  | Exploration Systems Mission Directorate Chief Engineer.
|  | Science Mission Chief Engineer.
| Office of Communications | Assistant Administrator for Legislative and Intergovernmental Affairs.
|  | Deputy Assistant Administrator for Legislative Affairs.
|  | Director Media Services Division.
| Office of Program and Institutional Integration | Deputy Director of the Office of Program and Institutional Integration.
|  | Director of Program and Institutional Integration Office.
| Office International and Interagency Relations | Deputy Director, Export Control and Interagency Liaison Division.
|  | Director, Human Exploration and Operations Division.
|  | Director, Export Control and Interagency Liaison Division.
|  | Director, Advisory Committee Management Division.
| Office of Legislative and Intergovernmental Affairs | Deputy Associate Administrator for Legislative Affairs.
| Office of Diversity and Equal Opportunity | Director, Programs, Planning and Evaluation Division.
|  | Director, Complaints Management Division.
| Office of Small Business Programs | Associate Administrator, Small Business Programs.
| Johnson Space Center | Assistant Manager, Exploration Planning.
|  | Director, Performance Management Integration Office.
|  | Program Executive for FAA and ISS.
|  | Manager, Program Planning and Control, MPCV.
|  | Deputy Manager, Multi-Program Crew Vehicle Program.
|  | Manager, Strategic Analysis and Integration Office.
|  | Director, Human Exploration Development Support Office.
|  | Manager, Technology Transfer and Commercialization.
|  | Director, Strategic Opportunities and Partnership Development.
|  | Special Assistant for Program Integration, MPCV.
|  | Manager, Avionics, Power and Software Office.
|  | Manager, Crew and Service Module Office.
|  | Associate Director, Commercial Crew Program.
|  | Deputy Manager, Commercial Crew Program.
|  | Manager, Multi-Purpose Crew Vehicle Program.
|  | Manager, Vehicle Integration Office.
|  | Chief of Staff, Exploration Planning.
|  | Deputy Associate Administrator, Exploration Planning.
|  | Chief Knowledge Officer.
|  | Manager, Advanced Planning.
|  | Chief Financial Officer.
|  | Director of Human Resources.
|  | Associate Director (Technical).
|  | Assistant to the Director, Engineering.
|  | Associate Director (Management).
|  | Deputy Associate Administrator, Strategic Program Planning.
|  | Director, Astromaterials Research and Exploration Science.
|  | Chief of Staff, Office of the Director.
|  | Associate Director for Strategic Capabilities.
|  | Assistant to the Director, Innovation and Partnerships.
|  | Director, External Relations.
|  | Manager, Space Shuttle Transition and Retirement.
| Space Station Program Office | Manager, ISS Program Transportation Integration Office.
|  | Senior Advisor, Exploration and Space Operations.
|  | Deputy Manager for Utilization.
|  | Manager, Operations Integration.
|  | Director, Human Space Flight Program—Russia.
|  | Manager, Safety and Mission Assurance/Program Risk Office, ISSP.
|  | Manager, International Space Station Payloads Office.
|  | Manager, Vehicle Office.
|  | Manager, Program Planning and Control Office, International Space Station.
|  | Manager, International Space Station Program.
|  | Manager, Mission Integration and Operations Office.
|  | Manager, Avionics and Software Office.
|  | Deputy Manager, International Space Station Program.
|  | Manager, Program Projects Integration.
| Space Shuttle Program | Manager, Space Shuttle Business Office.
|  | Manager, Launch Integration (Kennedy Space Center).
|  | Associate Manager, Space Shuttle Program.
|  | Manager, Space Shuttle Program.
|  | Manager, Safety and Mission Assurance Office.
|  | Manager, Space Shuttle Systems Engineering and Integration Office.
|  | Manager, Orbiter Project Office.
|  | Deputy Space Shuttle Program Manager for Kennedy Space Center.
|  | Deputy Manager, Space Shuttle Program.
| Mission Operations | Deputy Director, Mission Operations.
|  | Director, Mission Operations.
|  | Chief, Flight Director Office.
|  | Chief, Engineering Projects.
| Constellation Program Office | Assistant to the Director for Constellation.
|  | Constellation Program Deputy for the Orion Project.
|  | Deputy Manager, Orion Project.
|  | Associate Program Manager for Lunar Formulation.
|  | Director, Safety Reliability and Quality Assurance, Constellation.
|  | Manager, Constellation Program.
|  | Deputy Manager, Constellation Office.
|  | Director, Program Planning and Control, Constellation.
|  | Director, Systems Engineering and Integration, Constellation.
|  | Director, Operation Integration, Constellation Program.
|  | Assistant Orion Project Manager, Program Planning and Control, Constellation.
|  | Deputy Manager, Orbiter Project Office.
|  | Transition Manager, Operations and Test Integration Office, CX Program.
| Flight Crew Operations | Chief Astronaut Office.
|  | Assistant Director, Flight Crew Operations.
|  | Director, Flight Crew Operations.
|  | Chief, Aircraft Operations Division.
|  | Deputy Director, Flight Crew Operations.
| Engineering | Manager, Program Engineering Integration Office.
|  | Manager, Engineering Services and Management Integration Office.
|  | Manager, Systems Architecture and Integration Office.
|  | Associate Director for Commercial Spaceflight.
|  | Chief, Structural Engineering Division.
|  | Director, Engineering.
|  | Deputy Director, Engineering.
|  | Chief, Crew and Thermal Systems Division.
| Space and Life Sciences | Manager, Human Research Program.
|  | Director, Human Health and Performance.
|  | Deputy Director, Human Health and Performance.
| Information Resources | Director, Information Resources.
| Office of Procurement | Director, Office of Procurement.
| Center Operations | Director Center Operations.
| Safety and Mission Assurance | Director, Safety and Mission Assurance.
|  | Assistant to the Director, Safety and Mission Assurance.
|  | Deputy Director, Safety and Mission Assurance.
| White Sands Test Facility | Manager, National Aeronautics and Space Administration White Sands Test Facility.
| Eva Project Office | Manager, Eva Project Office.
| Kennedy Space Center. | 21st Century Space Launch Complex Project Manager, Ground Systems Development and Operations Program.
|  | Manager, Commercial Crew Program.
|  | Special Assistant to the Deputy Director.
|  | Special Assistant for Engineering and Technical Operations.
|  | Associate Director for Engineering and Technical Operations.
|  | Deputy Director, Technical, Engineering and Technology Directorate.
|  | Director, Engineering and Technology Directorate.
|  | Deputy Director, Management, Engineering and Technology Directorate.
|  | Chief, Mechanical Division, Engineering Directorate.
|  | Exploration Systems Manager, Ground Systems Development and Operations Program.
|  | Director, Operational Systems Engineering Office, Engineering Directorate.
|  | Deputy Director, Engineering and Technology Directorate.
|  | Director, International Space Station Ground Processing and Research Project Office.
|  | Deputy Director, Launch Vehicle Processing Directorate.
|  | Director, Launch Vehicle Processing Directorate.
|  | Chief Medical Officer.
|  | Deputy Manager, Ground Processing Development and Operations Program.
|  | Manager, Ground Systems Development and Operations Program.
|  | Associate Director, International Space Station and Spacecraft Processing.
|  | Deputy Director, Constellation Space Transportation Planning Office.
|  | Manager, Spacecraft Flight Hardware Project.
|  | Manager, Launch Vehicle Project, Constellation Space Transportation Planning Office.
|  | Director, Center Operations Directorate.
|  | Deputy Manager, Launch Services Program.
|  | Director, Procurement Office.
|  | Director, Human Resources Office.
|  | Chief Financial Officer.
|  | Associate Director, John F. Kennedy Space Center.
|  | Director, John F Kennedy Space Center.
|  | Manager, Office of the Chief Engineer, Engineering and Technology Directorate.
|  | Director, Ground Processing Directorate.
|  | Director, Public Affairs Directorate.
|  | KSC Associate Manager, Commercial Crew Program.
|  | Director, Public Affairs.
|  | Chairperson, Engineering Services Contract Source Evaluation Board.
|  | Manager, Flight and Ground Project Office, Constellation Space Transportation Planning Office.
| Information Technology and Communications Services | Director, Information Technology and Communications Services.
| Shuttle Processing | Deputy Director, Shuttle Processing.
| Safety and Mission Assurance | Director, Safety and Mission Assurance.
|  | Deputy Director, Safety and Mission Assurance.
| External Relations | Deputy Director, External Relations and Business Development.
| Launch Services Program | Director, Expendable Launch Vehicle Launch Services.
|  | Manager, Launch Services Program.
| Office of the Director | Associate Director, Technical, Marshall Space Flight Center.
| Office of the Deputy Director | Senior Executive for Technology and Integration.
| Office of the Associate Director | Associate Director, Marshall Space Flight Center.
| Michoud Assembly Facility | Deputy Director, Michoud Assembly Facility.
|  | Director, Michoud Assembly Facility.
| Engineering Directorate | Deputy Manager, Office of the Chief Engineer.
|  | Manager, Office of the Chief Engineer.
|  | Associate Director for Operations.
|  | Chief Engineer, Space Launch System.
|  | Deputy Chief Engineer, Space Launch System Program.
|  | Manager, Office of the Chief Engineer, Engineering Directorate.
|  | Director, Mission Operations Laboratory.
|  | Deputy Director, Engineering Directorate.
|  | Associate Director for Technical Management.
|  | Deputy Director, Spacecraft and Vehicle Systems Department.
|  | Director, Spacecraft and Vehicle Systems Department.
|  | Deputy Director, Space Systems Department.
|  | Director, Materials and Processes Laboratory.
|  | Director, Space Systems Department.
|  | Director, Test Laboratory.
|  | Deputy Director, Propulsion Systems Department.
|  | Director, Propulsion Systems Department.
| Office of the Chief Financial Officer | Chief Financial Officer (2).
| Office of Center Operations | Director, Office of Center Operations.
|  | Deputy Director, Office of Center Operations.
| Office of Procurement | Director, Office of Procurement.
| Safety and Mission Assurance Directorate | Chief Safety Officer, Safety and Mission Assurance Directorate.
|  | Deputy Director, Safety and Mission Assurance Directorate.
|  | Director, Safety and Mission Assurance Directorate.
| Office of Strategic Analysis and Communications | Director, Office of Strategic Analysis and Communications.
| Space Launch System Program Office | Manager, Boosters Office, Space Launch System Program Office.
|  | Manager, Engines Office, Space Launch System Program Office.
|  | Manager, Stages Office, Space Launch System Program Office.
|  | Manager, Space Launch System Program Office.
|  | Associate Program Manager, Space Launch System Program Office.
|  | Manager, Program Planning and Control Office, Space Launch System Program Office.
|  | Manager, Advanced Development Office, Space Launch System Program Office.
|  | Deputy Manager, Space Launch System Program Office.
| Science and Technology Office | Manager, Science and Technology Office.
|  | Deputy Manager, Science and Technology Office.
|  | Senior Science Advisor.
| Shuttle-Ares Transition Office | Manager.
| Office of Chief Information Officer | Deputy Chief Information Officer.
| Flight Programs and Partnerships Office | Manager, Flight Programs and Partnerships.
|  | Deputy Manager, Flight Programs and Partnerships Office.
| Office of Human Capital | Special Assistant to Director, Office of Human Capital.
|  | Director, Office of Human Capital.
| Stennis Space Center | Director, Center Operations Directorate.
|  | Deputy Director, Stennis Space Center.
|  | Associate Director.
|  | Director, Engineering and Science Directorate.
|  | Chief Financial Officer.
|  | Director, Office of Safety and Mission Assurance.
|  | Director, Projects Directorate.
| Chief of Strategic Communications | Director, Business and Administration Operations.
| Ames Research Center | Director, Programs and Projects Directorate.
|  | Chief, Aviation Systems Division.
|  | Chief Counsel.
|  | Ames Research Center Liaison for University Affiliated Research Center.
|  | Procurement Officer.
|  | Deputy Associate Director for Institutions and Research.
|  | Human Capital Director.
|  | Chief, Flight Vehicle Research and Tech Division.
|  | Director of Engineering.
|  | Deputy Director, Exploration Technology.
|  | Associate Director for Institutions and Research.
|  | Director, New Ventures and Communications Directorate.
|  | Director, Aeronautics Test Program.
|  | Director, NASA Astrobiology Institute.
|  | Chief, Intelligent Systems Division.
|  | Chief Information Officer.
|  | Director, Exploration Technology Directorate.
|  | Associate Director for Institutional Management and Engineering.
|  | Director of Center Operations.
|  | Chief Financial Officer.
|  | Special Assistant to the Director.
|  | Deputy Director for Research.
|  | Deputy Director of Aeronautics.
|  | Deputy Director, Center Operations.
|  | Chief, Space Technology Division.
|  | Deputy Director Ames Research Center.
|  | Chief, Computational Sciences Division.
|  | Director, Office of Safety, Environment and Mission Assurance.
| Astrobiology and Space Research | Chief, Life Sciences Division.
|  | Director of Science.
| Dryden Flight Research Center | Assistant Director for Strategic Implementation.
|  | Associate Center Director.
|  | Director of Mission Information and Test Systems.
|  | Program Manager for SOFIA.
|  | Director for Programs.
|  | Chief Counsel.
|  | Director for Safety and Mission Assurance.
|  | Chief Financial Officer (Financial Manager).
|  | Director Flight OPS Directorate.
| Langley Research Center | Chief, Financial Officer.
|  | Special Assistant to the Director.
|  | Director, Office of Procurement.
|  | Deputy Director for Advanced Projects.
|  | Chief Information Officer.
|  | Deputy Director, Research and Technology Test Operations.
|  | Deputy Director for Program Development.
|  | Deputy Director, National Aeronautics and Space Administration Engineering and Safety Center.
|  | Director, Research Services Directorate.
|  | Director, Systems Analysis and Advanced Concepts Directorate.
|  | Deputy Director, Engineering Directorate.
|  | Director, Aeronautics Research Directorate.
|  | Director, Science Directorate.
|  | Deputy Director, Research Directorate.
|  | Senior Advisor for Space Technology.
|  | Deputy Director, Facilities and Laboratory Operations.
|  | Senior Advisor for Center Revitalization.
|  | Deputy Director for Safety.
|  | Director, Ground Facilities and Testing Directorate.
|  | Director, Earth System Science Pathfinder Program Office.
|  | Director, Space Technology and Exploration Directorate.
|  | Director, Flight Projects Directorate.
|  | Deputy Director for Programs.
|  | Associate Director for Special Programs.
|  | Director, Office of Strategic Analysis, Communications, and Business Development.
|  | Associate Director, Langley Research Center.
|  | Deputy Director, Safety and Mission Assurance Office.
|  | Director, Research Directorate.
|  | Director, Center Operations Directorate.
|  | Director, Engineering Directorate.
|  | Manager, Systems Engineering Office.
|  | Director, Office of Human Capital Management.
|  | Manager, Management and Technical Support Office.
|  | Director, National Aeronautics and Space Administration Engineering and Safety Center.
|  | Director, Safety and Mission Assurance Office.
| Glenn Research Center | Deputy Director, Office of Technical Partnerships and Planning.
|  | Director, Space Flight Systems Directorate.
|  | Director of Center Operations.
|  | Plum Brook Station Manager.
|  | Chief Financial Officer.
|  | Chief, Office of Acquisition.
|  | Director, Systems Management Office.
|  | Director, Office of Technical Partnerships and Planning.
| Facilities and Test Directorate | Associate Director for Infrastructure Assessment.
|  | Deputy Director of Facilities and Test.
|  | Chief, Facilities and Test Engineering Division.
|  | Director of Facilities and Test.
| Research and Technology Directorate | Chief, Structures and Materials Division.
|  | Chief, Turbo machinery and Propulsion.
|  | Chief, Communications, Instrumentation and Controls Division.
|  | Chief, Power and On-Board Propulsion Division.
| Space Flight Systems Directorate | Strategic Capability Manager.
|  | Deputy Director, Space Flight Systems.
| Engineering Directorate | Chief, Avionics and Electrical Systems Division.
|  | Director of Engineering.
|  | Deputy Director of Engineering and Technical Services.
|  | Chief, Mechanical and Fluid Systems Division.
| Director, Engineering Directorate | Chief, Systems Engineering and Analysis Division.
|  | Chief, Chief Engineer Office.
| Office of the Chief Information Officer | Chief, Computer Services Division.
| Safety and Mission Assurance Directorate | Director, Safety and Mission Assurance.
| NASA Safety Center | Director, Technical Excellence.
|  | Director, Audits and Assessments.
| Goddard Space Flight Center | Assistant Director for Advanced Concepts.
| Human Resources | Director of Human Capital Management.
| Comptroller | Deputy Chief Financial Officer.
|  | Chief Financial Officer/Comptroller.
| Management Operations | Associate Director for Acquisition.
|  | Deputy Director of Management Operations.
| Flight Assurance | Deputy Director of Safety and Mission Assurance.
|  | Director of Systems Safety and Mission Assurance.
| Flight Projects | Deputy Director for Planning and Business Management.
|  | Deputy Associate Director for Earth Science Projects Division.
|  | Associate Director for Earth Science Technology Office (ESTO).
|  | Associate Director for Earth Science Projects Division.
|  | Associate Director for Space Servicing Capabilities Project.
|  | Associate Director for Joint Polar Satellite System (JPSS) Program.
|  | Deputy Associate Director for Joint Polar Satellite System (JPSS) Program.
|  | Deputy Associate Director for Explorers and Heliophysics Science Projects Division.
|  | Associate Director for Explorers and Heliophysics Projects Division.
|  | Associate Director for Astrophysics Projects Division.
|  | Director of Flight Projects.
|  | Deputy Director of Flight Projects.
|  | Associate Director for Exploration and Space Communications Projects Division.
| Applied Engineering and Technology Directorate | Chief, Mechanical Systems Division.
|  | Chief, Electrical Systems Division.
|  | Deputy Director of Applied Engineering and Technology for Planning and Business Management.
|  | Chief, Instrument Systems and Technology Division.
|  | Chief, Software Engineering Division.
|  | Deputy Director of Applied Engineering and Technology.
|  | Chief, Mission Engineering and Systems Analysis Division.
| Sciences and Exploration | Director of Sciences and Exploration.
|  | Director, Astrophysics Science Division.
|  | Deputy Director, Earth Sciences Division.
|  | Chief, Laboratory for Atmospheres.
|  | Director, Earth Sciences Division.
|  | Deputy Director of Sciences and Exploration.
|  | Deputy Director of Sciences and Exploration for Planning and Business Management.
|  | Deputy Director, Solar System Exploration Division.
|  | Director, Solar System Exploration Division.
|  | Director, Heliophysics Science Division.
|  | Chief, Goddard Institute for Space Studies.
| Suborbital Projects and Operations | Special Assistant for Project Management Training.
| Office of Security Management and Safeguards | Deputy Assistant Administrator for Security and Program Protection.
| Office of Chief Education Officer | Director, Elementary and Secondary Education Division.
|  | Deputy Chief Education Officer.
| Office of Security Management and Safeguards | Assistant Administrator for Security Management.
|  | Deputy Assistant Administrator for Security Management and Safeguards.
NATIONAL AERONAUTICS AND SPACE ADMINISTRATION OFFICE OF THE INSPECTOR GENERAL | National Aeronautics and Space Administration Office of the Inspector General | Counsel to the Inspector General.
|  | Assistant Inspector General for Auditing.
|  | Assistant Inspector General for Management and Planning.
|  | Deputy Inspector General.
|  | Assistant Inspector General for Investigations.
NATIONAL ARCHIVES AND RECORDS ADMINISTRATION | Archivist of United States and Deputy Archivist of the United States | Deputy Archivist of the United States.
| General Counsel | General Counsel.
| Congressional Affairs Staff | Director, Congressional and Legislative Affairs.
| Office of the Chief Operating Officer | Chief Operating Officer.
| Agency Services | Agency Services Executive.
|  | Director, National Declassification Center.
|  | Director, Information Security Oversight Office.
|  | Director, Records Center Programs.
|  | Director, Office of Government Information Services. Chief Records Officer.
| Business Support Services | Chief Financial Officer. Business Support Services Executive.
| Research Services. | Director, Preservation Programs. Research Services Executive.
| Office of the Federal Register | Director of the Federal Register.
| Information Services | Director, Information Technology Operations. Information Services Executive/CIO.
| Legislative Archives, Presidential Libraries and Museum Services | Legislative Archives, Presidential Libraries and Museum Services Executive.
| Office of Presidential Libraries | Deputy for Presidential Libraries.
| Office of Human Capital | Chief Human Capital Officer.
| Office of Strategy and Communications | Chief Strategy and Communications Officer.
| Office of Innovation | Chief Innovation Officer.
NATIONAL ARCHIVES AND RECORDS ADMINISTRATION OFFICE OF THE INSPECTOR GENERAL | National Archives and Records Administration Office of the Inspector General | Inspector General.
NATIONAL CAPITAL PLANNING COMMISSION | National Capital Planning Commission Staff | Executive Director. Deputy Executive Director. General Counsel. Chief Operating Officer.
NATIONAL ENDOWMENT FOR THE ARTS | National Endowment for the Arts | Chief Information Officer. Director, Research and Analysis. Deputy Chairman for Programs and Partnerships. Deputy Chairman for Management and Budget.
NATIONAL ENDOWMENT FOR THE ARTS OFFICE OF THE INSPECTOR GENERAL | National Endowment for the Arts Office of the Inspector General | Inspector General.
NATIONAL ENDOWMENT FOR THE HUMANITIES | National Endowment for the Humanities | Assistant Chairman for Planning and Operations.
NATIONAL LABOR RELATIONS BOARD | National Labor Relations Board | Deputy Associate General Counsel, Division of Enforcement Litigation.
| Office of the Board Members | Executive Secretary. Chief Information Officer. Inspector General. Deputy Executive Secretary.
| Division of Enforcement Litigation | Deputy Associate General Counsel, Appellate Court Branch. Director, Office of Appeals.
| Division of Advice | Deputy Associate General Counsel, Division of Advice. Associate General Counsel, Division of Advice.
| Division of Administration | Deputy Director, Division of Administration. Director, Division of Administration.
| Division of Operations Management | Deputy Associate General Counsel, Division of Operations-Management. Associate General Counsel, Division of Operations-Management. Assistant to General Counsel (2). Assistant General Counsel (2).
| Regional Offices | Regional Director, Region 20, San Francisco, California. Regional Director, Region 19, Seattle, Washington. Regional Director, Region 18, Minneapolis, Minnesota. Regional Director, Region 17, Kansas City, Kansas. Regional Director, Region 16, Fort Worth, Texas. Regional Director, Region 15, New Orleans, Louisiana. Regional Director, Region 14, Saint Louis, Missouri. Regional Director, Region 13, Chicago, Illinois. Regional Director, Region 12, Tampa, Florida. Regional Director, Region 11, Winston Salem, North Carolina. Regional Director, Region 8, Cleveland, Ohio. Regional Director, Region 7, Detroit, Michigan. Regional Director, Region 6, Pittsburgh, Pennsylvania. Regional Director, Region 5, Baltimore, Maryland. Regional Director, Region 4, Philadelphia, Pennsylvania. Regional Director, Region 3, Buffalo, New York. Regional Director Region 2, New York, New York. Regional Director, Region 1, Boston, Massachusetts. Regional Director, Region 10, Atlanta, Georgia. Regional Director, Region 34, Hartford, Connecticut. Regional Director, Region 31, Los Angeles, California. Regional Director, Region 32, Oakland, California. Regional Director, Region 30, Milwaukee, Wisconsin. Regional Director, Region 9, Cincinnati, Ohio. Regional Director, Region 29, Brooklyn, New York. Regional Director, Region 21, Los Angeles, California. Regional Director, Region 22, Newark, New Jersey. Regional Director, Region 24, Hato Rey, Puerto Rico. Regional Director, Region 25, Indianapolis, Indiana. Regional Director, Region 26, Memphis, Tennessee. Regional Director, Region 28, Phoenix, Arizona. Regional Director, Region 27, Denver, Colorado.
NATIONAL SCIENCE FOUNDATION | Office of the Director | Chief Technology Officer.
| Office of International and Integrative Activities. | Senior Advisor (Level -II). Senior Advisor (2). Senior Staff Associate. Senior Scientist. Deputy Office Head.
| Office of Diversity and Inclusion | Office Head, Office of Diversity and Inclusion.
| Office of the General Counsel | Deputy General Counsel.
| Directorate for Geosciences | Senior Facilities Advisor. Deputy Assistant Director.
| Division of Atmospheric and Geospace Sciences | Section Head NCAR/Facilities Section.
| Division of Earth Sciences | Head, Deep Earth Processes Section.
| Division of Ocean Sciences | Section Head, Integrative Programs Section.
| Division of Polar Programs | Head, Section for Antarctic Infrastructure and Logistic.
| torate for Engineering | Senior Advisor.
| Division of Engineering Education and Centers | Deputy Division Director. >Senior Staff Associate.
| Division of Civil, Mechanical, and Manufacturing Innovation | Deputy Division Director.
| Division of Industrial Innovation and Partnerships | Senior Advisor.
| Division of Chemical, Bioengineering, Environmental, and Transport Systems | Deputy Division Director. Senior Advisor.
| Division of Electrical, Communication and Cyber Systems | Deputy Division Director.
| Directorate for Biological Sciences | Deputy Assistant Director.
| Division of Environmental Biology | Deputy Division Director.
| Division of Integrative Organismal Systems | Deputy Division Director.
| Directorate for Mathematical and Physical Sciences | Deputy Assistant Director. Senior Advisor (2). Senior Science Associate.
| Division of Astronomical Sciences | Deputy Division Director.
| Division of Mathematical Sciences | Deputy Division Director.
| Division of Materials Research | Deputy Division Director.
| Directorate for Education and Human Resources | Deputy Assistant Director for Integrative Activities.
| Division of Research on Learning In Formal and Informal Settings | Senior Advisor for Research.
| Directorate for Social, Behavioral and Economic Sciences | Deputy Assistant Director.
| National Center for Science and Engineering Statistics | Division Director.
| Directorate for Computer and Information Science and Engineering | Deputy Assistant Director. Executive Officer. Senior Staff Associate.
| Office of Budget, Finance and Award Management | Deputy Director, Planning, Coordination and Analysis. Deputy Director, Management, Operations and Policy. Director, Budget, Finance and Award and Chief Financial Officer.
| Budget Division | Deputy Director. Division Director.
| Division of Financial Management | Division Director and Deputy Chief Financial Officer. Deputy Division Director, Division of Financial Management.
| Division of Grants and Agreements | Division Director.
| Division of Acquisition and Cooperative Support | Division Director.
| Division of Institutional and Award Support | Division Director. Deputy Division Director
| Office of Information and Resource Management | Deputy Director. Senior Staff Associate. Senior Advisor. Head, Office of Information and Resource Management and Chief Human Capital Officer.
| Division of Information Systems | Deputy Division Director.
| Division of Human Resource Management | Deputy Division Director. Division Director.
| Division of Administrative Services | Division Director. Deputy Division Director.
NATIONAL SCIENCE FOUNDATION OFFICE OF THE INSPECTOR GENERAL | National Science Foundation Office of the Inspector General | Deputy Inspector General. Assistant Inspector General for Legal, Legislative and External Affairs. Assistant Inspector General for Audit. Inspector General. Assistant Inspector General for Management, Legal and External Affairs. Assistant Inspector General for Investigations. Assistant Inspector General for Audit/Chief Information Officer to OIG.
NATIONAL TRANSPORTATION SAFETY BOARD | Office of the Managing Director | Deputy Managing Director. Managing Director.
| Office of Administration | Director, Office of Administration.
| Office of Aviation Safety | Deputy Director, Regional Operations. Director Bureau of Accident Investigation. Deputy Director, Office of Aviation Safety.
| Office of Research and Engineering | Deputy Director, Office of Research and Engineering. Director, Office of Research and Engineering.
| Office of Chief Financial Officer | Chief Financial Officer.
| Office of Railroad, Pipeline and Hazardous Materials Investigations | Director, Office of Railroad, Pipeline and Hazardous Materials Investigations. Deputy Director, Office of Railroad, Pipeline and Hazardous Materials Safety.
| Office of Communications | Deputy Director, Office of Communications.
| Office of Highway Safety | Director, Office of Highway Safety.
| Office of Chief Information Officer | Chief Information Officer.
| Office of Marine Safety | Director, Office of Marine Safety.
NUCLEAR REGULATORY COMMISSION | Office of the Chief Financial Officer | Deputy Director, Division of Planning, Budget, and Analysis. Controller. Budget Director. Deputy Chief Financial Officer.
| Office of Commission Appellate Adjudication | Director, Office of Commission Appellate Adjudication.
| Office of the Executive Director for Operations | Executive Director for Transition.
| Office of Information Services | Director, Operations Division. Director, Information Technology/Information Management Portfolio Management and Planning Division. Director, Solutions Development Division. Director, Customer Service Division. Director, Information and Records Services Division. Director, Infrastructure and Computer Operations Division. Director, Program Management, Policy Development and Analysis Staff. Deputy Director, Office of Information Services. Director, Business Process Improvement and Applications Division.
| Computer Security Office | Chief Information Security Officer/Director, Computer Security Office.
| Office of Administration | Associate Director for Space Planning and Consolidation. Director, Acquisition Management Division. Director, Division of Facilities and Security. Director, Division of Administrative Services. Associate Director for Strategic Acquisitions. Deputy Director, Office of Administration
| Office of Nuclear Security and Incident Response | Director, Program Management, Policy Development, and Analysis Staff. Deputy Director, Office of Nuclear Security and Incident Response.
| Division of Security Policy | Deputy Director, Division of Security Policy. Deputy Director for Reactor Security and Rulemaking. Deputy Director for Material Security. Director, Division of Security Policy.
| Division of Preparedness and Response | Deputy Director, Division of Preparedness and Response. Deputy Director for Emergency Preparedness. Director, Division of Preparedness and Response. Deputy Director for Incident Response.
| Division of Security Operations | Deputy Director for Security Programs Deputy Director for Security Oversight. Deputy Director, Division of Security Operations. Director, Division of Security Operations.
| Cyber Security Directorate | Director, Cyber Security Directorate.
| Office of Investigations | Deputy Director, Office of Investigations.
| Office of Small Business and Civil Rights | Director, Office of Small Business and Civil Rights.
| Office of New Reactors | Director, Division of Advanced Reactors and Rulemaking. Deputy Director, Office of New Reactors. Director, Division of Program Management, Policy Development and Analysis.
| Division of New Reactor Licensing | Director, Division of New Reactor Licensing. Deputy Director, Division of New Reactor Licensing. Deputy Director, Division of New Reactor Licensing.
| Division of Site Safety and Environmental Analysis | Deputy Director, Division of Site Safety and Environmental Analysis. Director, Division of Site Safety and Environmental Analysis
| Division of Safety Systems and Risk Assessment | Director, Division of Safety Systems and Risk Assessment. Deputy Director, Division of Safety Systems and Risk Assessment.
| Division of Engineering | Director, Division of Engineering. Deputy Director, Division of Engineering.
| Division of Construction Inspection and Operational Programs | Deputy Director, Division of Construction Inspection and Operational Programs. Director, Division of Construction Inspection and Operational Programs.
| Office of Nuclear Reactor Regulation | Director, Program Management, Policy Development and Planning Staff. Associate Director, Japan Lessons Learned Project Directorate. Deputy Director for Reactor Safety Programs. Deputy Director for Engineering and Corporate Support. Director, Japan Lessons Learned Project Directorate.
| Division of Safety Systems | Director, Division of Safety Systems. Deputy Director, Division of Safety Systems.
| Division of Component Integrity | Deputy Director, Division of Component Integrity.
| Division of Engineering | Director, Division of Engineering. Deputy Director, Division of Engineering.
| Division of Risk Assessment | Director, Division of Risk Assessment. Deputy Director, Division of Risk Assessment.
| Deputy Director for Reactor Safety Programs | Deputy Director for Reactor Safety Programs.
| Division of License Renewal | Director, Division of License Renewal. Deputy Director, Division of License Renewal.
| Division of Operating Reactor Licensing | Deputy Director, Division of Operating Reactor Licensing. Director, Division of Operating Reactor Licensing. Deputy Director, Division of Operating Reactor Licensing.
| Division of Inspection and Regional Support | Deputy Director, Division of Inspection and Regional Support. Director, Division of Inspection and Regional Support.
| Division of Policy and Rulemaking | Deputy Director, Division of Policy and Rulemaking. Deputy Director, Division of Policy and Rulemaking. Director, Division of Policy and Rulemaking.
| Office of Nuclear Material Safety and Safeguards | Director, Program Planning, Budgeting, and Program Analysis Staff.
| Waste Confidence Directorate | Director, Waste Confidence Directorate.
| Division of Fuel Cycle Safety and Safeguards | Deputy Director, Special Projects and Technical Support Directorate. Deputy Director, Fuel Facility Licensing Directorate. Director, Division of Fuel Cycle Safety and Safeguards. Deputy Director, Division of Fuel Cycle Safety and Safeguards.
| Division of Spent Fuel Alternative Strategies | Deputy Director, Licensing and Inspection Directorate. Deputy Director, Division of Spent Fuel Alternative Strategies. Deputy Director, Technical Review Directorate. Director, Division of Spent Fuel Alternative Strategies.
| Division of Spent Fuel Storage and Transportation | Deputy Director, Division of Spent Fuel Storage and Transportation. Director, Division of Spent Fuel Storage and Transportation. Deputy Director, Licensing and Inspection Directorate. Deputy Director, Technical Review Directorate.
| Office of Federal and State Materials and Environmental Management Programs | Deputy Director, Office of Federal and State Materials and Environmental Management Programs. Director, Program Planning, Budgeting, and Program Analysis Staff.
| Division of Materials Safety and State Agreements | Deputy Director, Division of Materials Safety and State Agreements. Deputy Director, National Materials Program Directorate. Director, Division of Materials Safety and State Agreements.
| Division of Intergovernmental Liaison and Rulemaking | Director, Division of Intergovernmental Liaison and Rulemaking. Deputy Director, Division of Intergovernmental Liaison and Rulemaking.
| Division of Waste Management and Environmental Protection | Director, Division of Waste Management and Environmental Protection. Deputy Director, Environmental Protection and Performance Assessment Directorate. Deputy Director, Decommissioning and Uranium Recovery Licensing Directorate.
| Office of Nuclear Regulatory Research | Director, Program Management, Policy Development and Analysis Staff.
| Division of Engineering | Director, Division of Engineering. Deputy Director, Division of Engineering.
| Division of Systems Analysis | Deputy Director, Division of Systems Analysis (2). Director, Division of Systems Analysis. Division of Risk Analysis. Deputy Director, Division of Risk Analysis. Director, Division of Risk Analysis
| Region I | Director, Division of Reactor Projects. Deputy Director, Division of Reactor Projects. Deputy Regional Administrator. Director, Division of Reactor Safety. Director, Division of Nuclear Materials Safety. Deputy Director, Division of Reactor Safety.
| Region II | Director, Division of Reactor Projects. Deputy Director, Division of Reactor Projects. Director, Division of Reactor Safety. Deputy Regional Administrator for Construction. Deputy Director, Division of Fuel Facility Inspection. Deputy Director, Division of Construction Inspection. Director, Division of Construction Inspection. Deputy Director, Division of Construction Projects. Director, Division of Construction Projects. Deputy Director, Division of Reactor Safety. Deputy Regional Administrator for Operations. Director, Division of Fuel Facility Inspection.
| Region III | Deputy Regional Administrator. Director, Division of Reactor Projects. Deputy Director, Division of Reactor Safety. Deputy Director, Division of Reactor Projects. Director, Division of Reactor Safety. Director, Division of Nuclear Materials Safety.
| Region IV | Deputy Director, Division of Reactor Projects. Deputy Director, Division of Reactor Safety. Deputy Regional Administrator. Director, Division of Nuclear Materials Safety. Director, Division of Reactor Safety. Director Division of Reactor Projects.
NUCLEAR REGULATORY COMMISSION OFFICE OF THE INSPECTOR GENERAL | Nuclear Regulatory Commission Office of the Inspector General | Deputy Inspector General.
| Assistant Inspector General for Audits | Assistant Inspector General for Audits.
| Assistant Inspector General for Investigations | Assistant Inspector General for Investigations.
OCCUPATIONAL SAFETY AND HEALTH REVIEW COMMISSION | Office of the Executive Director | Executive Director.
OFFICE OF GOVERNMENT ETHICS | Office of Government Ethics | Deputy Director for Internal Operations Division. General Counsel for General Counsel Legal Policy Division. Deputy Director for Compliance. Deputy Director for Office of Administration. Assistant Director for Compliance
OFFICE OF MANAGEMENT AND BUDGET | Office of the Director | Associate Director for Management and Operations. Assistant Director for Management and Operations. Deputy Associate Director for Economic Policy. Deputy Assistant Director for Management. Senior Advisor to the Deputy Director for Management.
| Legislative Reference Division | Assistant Director Legislative Reference. Chief, Resources-Defense-International Branch. Chief, Economics, Science and Government Branch. Chief, Labor, Welfare, Personnel Branch.
| Office of Federal Procurement Policy | Associate Administrator. Deputy Administrator for Federal Procurement Policy. Associate Administrator for Procurement Law and Legislation. Associate Administrator (Acquisition Policy). Associate Administrator for Acquisition Implementation. Associate Administrator.
| General Counsel | Associate General Counsel for Budget.
| Office of Information and Regulatory Affairs | Chief, Food, Health and Labor Branch. Chief, Statistical Policy Branch. Chief, Health, Transportation and General Government. Senior Advisor (2). Chief, Information Policy Branch. Chief, Natural Resources and Environment Branch.
| Office of E-Government and Information Technology | Deputy Administrator for E-Government and Information Technology. Chief Architect.
| Office of Federal Financial Management | Chief, Federal Financial Systems Branch. Senior Advisor to the Director. Chief, Accountability, Performance, and Reporting Branch. Chief, Financial Standards and Grants Branch. Chief, Financial Integrity and Analysis Branch.
| Budget Review | Chief, Budget Concepts Branch. Deputy Assistant Director for Budget Analysis and Systems. Chief, Budget Systems Branch. Deputy Chief, Budget Review Branch. Chief, Budget Review Branch. Deputy Assistant Director for Budget Review. Assistant Director for Budget Review. Deputy Chief, Budget Analysis Branch. Chief, Budget Analysis Branch.
| International Affairs Division | Chief, Economic Affairs Branch. Deputy Associate Director for International Affairs.
| National Security Division | Chief, Veterans Affairs Branch. Deputy Associate Director for National Security. Chief, Operations and Support Branch. Chief, Command, Control, Communication, Computers, and Intelligence Branch. Chief, Veterans Affairs and Defense Health Branch. Chief, Force Structure and Investment Branch.
| Human Resource Programs | Senior Advisor. Chief, Income Maintenance Branch. Chief, Education Branch. Chief, Labor Branch. Deputy Associate Director for Education, Income Maintenance and Labor. Deputy Associate Director, Education and Human Resources Division. Chief, Personnel Policy Branch.
| Health Division | Chief, Public Health Branch. Chief, Health and Financing Branch. Chief, Medicaid Branch. Chief, Health Insurance and Data Analysis Branch. Chief, Health and Human Services Branch. Chief, Medicare Branch. Deputy Associate Director for Health.
| Transportation, Homeland, Justice and Services Division | Deputy Associate Director, Transportation, Homeland, Justice and Services. Chief, Homeland Security Branch. Chief, Transportation/General Services Administration Branch. Chief, Justice Branch. Chief, Transportation Branch.
| Housing, Treasury and Commerce Division | Chief, Commerce Branch. Chief, Housing Branch. Chief, Treasury Branch. Deputy Associate Director for Housing, Treasury and Commerce.
| Natural Resource Programs Senior Advisor.
| Natural Resources Division | Deputy Associate Director for Natural Resources. Chief, Interior Branch. Chief, Environment Branch. Chief, Agricultural Branch.
| Energy, Science and Water Division | Chief, Energy Branch. Deputy Associate Director for Energy, Science, and Water Division. Chief, Water and Power Branch. Chief, Science and Space Programs Branch.
OFFICE OF NATIONAL DRUG CONTROL POLICY | Office of Supply Reduction | Associate Director for Intelligence. Assistant Deputy Director of Supply Reduction.
| National Youth Anti-Drug Media Campaign | Associate Deputy Director for State, Local and Tribal Affairs (National Youth Anti-Drug Media Campaign).
OFFICE OF PERSONNEL MANAGEMENT | Planning and Policy Analysis | Deputy Director, Actuary.
| Facilities, Security and Contracting | Director, Facilities, Security and Contracting.
| Deputy Director, Facilities, Security and Contracting.
| Healthcare and Insurance | Assistant Director, Federal Employee Insurance Operations.
| Retirement Services | Associate Director, Retirement Services. Deputy Associate Director, Retirement Operations. Deputy Associate Director, Retirement Services.
| Merit System Audit and Compliance | Deputy Associate Director, Merit System Audit and Compliance.
| Federal Investigative Services | Deputy Associate Director, Operations.
| Office of the Chief Financial Officer | Chief Financial Officer. Deputy Chief Financial Officer. Associate Chief Financial Officer, Financial Services.
| Chief Information Officer | Chief Information Officer.
OFFICE OF PERSONNEL MANAGEMENT OFFICE OF THE INSPECTOR GENERAL | Office of the Inspector General | Deputy Inspector General.
| Office of Investigations | Assistant Inspector General for Investigations. Deputy Assistant Inspector General for Investigations.
| Office of Audits | Assistant Inspector General for Audits. Senior Advisor to the Assistant Inspector General for Audits. Deputy Assistant Inspector General for Audits. Deputy Assistant Inspector General for Audits.
| Office of Legal Affairs | Assistant Inspector General for Legal Affairs.
| Office of Policy, Resources Management, and Oversight | Assistant Inspector General for Management.
OFFICE OF SPECIAL COUNSEL | Headquarters, Office of Special Counsel | Associate Special Counsel for Legal Counsel and Policy. Associate Special Counsel for Investigation and Prosecution (2). Senior Associate Special Counsel for Investigation and Prosecution. Chief Financial Officer and Director of Administrative Services. Director, Office of Planning and Analysis. Associate Special Counsel for Investigation and Prosecution. Director of Management and Budget. Associate Special Counsel Planning and Oversight.
OFFICE OF THE UNITED STATES TRADE REPRESENTATIVE | Labor | Assistant United States Trade Representative for Labor.
| Industry, Market Access and Telecommunications | Assistant United States Trade Representative for Industry, Market Access and Telecommunications.
| South Asian Affairs | Assistant United States Trade Representative for South Asian Affairs.
RAILROAD RETIREMENT BOARD | Board Staff | Director of Policy and Systems. Director of Administration. Assistant Inspector General for Investigations. Chief Actuary. Director of Field Service. Chief Financial Officer. Assistant Inspector General for Audit. Director of Operations. Chief of Technology Service. Director of Hearings and Appeals. Director of Fiscal Operations. Chief Information Officer. Director of Programs. Deputy General Counsel. General Counsel.
SELECTIVE SERVICE SYSTEM | Selective Service System | Associate Director for Operations.
| Office of the Director | Associate Director for Operations. Senior Advisor to the Director.
SMALL BUSINESS ADMINISTRATION | Office of the General Counsel | Associate General Counsel for General Law. Associate General Counsel Litigation. Associate General Counsel for Financial Law and Lender Oversight. Associate General Counsel for Procurement Law.
| Office of Field Operations | District Director. Senior Advisor to the Deputy Associate Administrator for Field Operations. District Director (3). District Director, Washington Metro Area District Office.
| Office of Hearings and Appeals | Assistant Administrator for Hearings and Appeals.
| Office of the Chief Financial Officer | Associate Administrator for Performance Management and Chief Financial Officer. Deputy Chief Financial Officer.
| Office of Capital Access | Director of Economic Opportunity.
| Office of Surety Guarantees | Director for Surety Bonds and Guarantees Programs.
| Office of Investment and Innovation | Deputy Associate Administrator for Investment.
| Office of Entrepreneurial Development | Deputy Associate Administrator for Entrepreneurial Development. Associate Administrator for Small Business Development Centers.
| Office of Human Capital Management | Chief Human Capital Officer.
| Office of the Chief Information Officer | Deputy Chief Information Officer.
| Office of Government Contracting and Business Development | Director for Policy Planning and Liaison.
| Office of Hub zone Empowerment Contracting | Director of Hub zone.
| Office of Business Development | Associate Administrator for Business Development.
SMALL BUSINESS ADMINISTRATION OFFICE OF THE INSPECTOR GENERAL | Small Business Administration Office of the Inspector General | Deputy Inspector General. Counsel to the Inspector General. Assistant Inspector General for Auditing Division. Assistant Inspector General for Investigations. Assistant Inspector General for Auditing. Assistant Inspector General for Management and Policy.
SOCIAL SECURITY ADMINISTRATION | Office of the Chief Information Officer | Associate Chief Information Officer for Information Technology Investment Management. Deputy Chief Information Officer.
| Office of Quality Performance | Assistant Deputy Commissioner for Quality Performance. Deputy Commissioner for Quality Performance.
| Office of Disability Adjudication and Review | Deputy Commissioner for Disability Adjudication and Review. Assistant Deputy Commissioner for Disability Adjudication and Review.
| Office of Appellate Operations | Executive Director, Office of Appellate Operations. Deputy Executive Director, Office of Appellate Operations.
| Office of Medical and Vocational Expertise | Associate Commissioner for Medical and Vocational Expertise.
| Office of the Chief Actuary | Chief Actuary. Deputy Chief Actuary (Long-Range). Deputy Chief Actuary (Short-Range).
| Office of Disability Determinations | Associate Commissioner for Disability Determinations.
| Office of Personnel | Associate Commissioner for Personnel. Deputy Associate Commissioner for Personnel.
| Office of Civil Rights and Equal Opportunity | Deputy Associate Commissioner for Civil Rights and Equal Opportunity. Associate Commissioner for Civil Rights and Equal Opportunity.
| Office of Labor-Management and Employee Relations | Deputy Associate Commissioner for Labor-Management and Employee Relations. Associate Commissioner for Labor-Management and Employee Relations.
| Office of Budget, Finance and Management | Assistant Deputy Commissioner for Budget, Finance and Management.
| Office of Financial Policy and Operations | Associate Commissioner, Office of Finance Policy and Operations. Deputy Associate Commissioner, Financial Policy and Operations. Deputy Associate Commissioner for Financial Policy and Operations (Payments, Conference Management and Travel).
| Office of Budget | Deputy Associate Commissioner for Budget. Associate Commissioner for Budget.
| Office of Acquisition and Grants | Deputy Associate Commissioner for Acquisition and Grants. Associate Commissioner for Acquisition and Grants.
| Office of Telecommunications and Systems Operations | Deputy Associate Commissioner for Telecommunications and Systems Operations. Associate Commissioner for Telecommunications and Systems Operations. Assistant Associate Commissioner for Enterprise Information Technology Services Management.
Office of Information Security | Associate Commissioner for Information Security
| Office of General Law | Deputy Associate General Counsel for General Law. Associate General Counsel for General Law.
| Office of Program Law | Deputy Associate General Counsel for Program Law.
| Office of Public Disclosure | Executive Director for Public Disclosure.
SOCIAL SECURITY ADMINISTRATION OFFICE OF THE INSPECTOR GENERAL | Immediate Office of the Inspector General | Deputy Inspector General.
| Office of Counsel to the Inspector General | Counsel to the Inspector General.
| Office of External Relations | Assistant Inspector General for External Relations (2).
| Office of Audit | Deputy Assistant Inspector General for Audit (Program Audit and Evaluations). Deputy Assistant Inspector General for Audit (Financial Systems and Operations Audits). Assistant Inspector General for Audit.
| Office of Investigations | Assistant Inspector General for Investigations. Deputy Assistant Inspector General for Investigations (Intelligence and Administration). Deputy Assistant Inspector General for Investigations (Field Operations).
| Office of Technology and Resource Management | Deputy Assistant Inspector General for Technology and Resource Management. Assistant Inspector General for Technology and Resource Management.
DEPARTMENT OF STATE | Office of Civil Rights | Deputy Director.
| Office to Monitor and Combat Trafficking In Persons | Principal Deputy Director.
| Office of the Under Secretary for Management | Managing Director. Ombudsman.
| Bureau of Administration | Procurement Executive. Director, Office of Acquisitions.
| Bureau of Human Resources | Principal Deputy Assistant Secretary. Human Resources Officer.
| Bureau of Consular Affairs | Director for Consular Systems and Technology.
| Bureau of International Security and Nonproliferation | Office Director (2).
| Bureau of Political and Military Affairs | Managing Director.
| Bureau of Arms Control, Verification, and Compliance | Director, Office of Strategic Negotiations and Implementation.
DEPARTMENT OF STATE OFFICE OF THE INSPECTOR GENERAL | Office of Inspector General | Deputy Assistant Inspector General for Investigations. Deputy Assistant Inspector General for Audits. Assistant Inspector General for Investigations. Deputy Assistant Inspector General for Middle East Regional Office. Deputy Inspector General. Assistant Inspector General for Management. General Counsel to the Inspector General. Assistant Inspector General for Audits.
TRADE AND DEVELOPMENT AGENCY | Office of the Director | Assistant Director for Policy and Programs.
DEPARTMENT OF TRANSPORTATION | Secretary | Executive Director for the Office of the Under Secretary of Transportation for Policy.
| Office of Intelligence, Security and Emergency Response | Director, Office of Intelligence, Security and Emergency Response. Deputy Director.
| Chief Information Officer | Chief Information Security Officer.
| Office of Safety, Energy and Environment | Director.
| Assistant Secretary for Budget and Programs | Deputy Chief Financial Officer.
|  | Chief Financial Officer.
| Office of the Senior Procurement Executive | Senior Procurement Executive.
| Administrator | Executive Director (3).
|  | Chief Financial Officer (2).
|  | Director of Innovative Program Delivery.
|  | Assistant Administrator/Chief Safety Officer.
| Associate Administrator for Railroad Safety | Associate Administrator for Railroad Safety/Chief Safety Officer.
| Associate Administrator for Environment and Compliance | Associate Administrator for Environment and Compliance Deputy Associate Administrator for Environment and Compliance.
| Office of the Chief Financial Officer | Deputy Chief Financial Officer and Chief Budget Officer. Chief Financial Officer.
| Office of Real Estate Services | Director, Office of Real Estate Services.
| Associate Administrator for Safety | Associate Administrator for Safety.
| Office of Acquisition Management | Director, Office of Acquisition Management.
| Office of Safety Research and Development | Director, Office of Safety Research, Development and Technology.
| Office of Licensing and Safety Information | Director, Office for Licensing and Safety Information.
| Office of Bus and Truck Standards and Operations | Director, Office of Bus and Truck Standards and Operations.
| Office of Enforcement and Compliance | Director, Office of Enforcement and Compliance.
| Associate Administrator for Enforcement | Director, Office of Vehicle Safety Compliance. Director, Office of Defects Investigation.
|  | Associate Administrator for Enforcement.
| Proceedings | Deputy Director, Legal Analysis.
| Office of the Managing Director | Managing Director.
| Office of Chief Safety Officer | Assistant Administrator and Chief Safety Officer.
| Office of Pipeline Safety | Deputy Associate Administrator for Policy and Programs.
|  | Deputy Associate Administrator for Field Operations.
|  | Associate Administrator for Pipeline Safety.
DEPARTMENT OF TRANSPORTATION OFFICE OF THE INSPECTOR GENERAL | Deputy Inspector General | Deputy Inspector General.
| Principal Assistant Inspector General for Auditing and Evaluation | Principal Assistant Inspector General for Auditing and Evaluation.
| Assistant Inspector General for Financial and Information Technology Audits | Assistant Inspector General for Financial and Information Technology Audits.
| Assistant Inspector General for Acquisition and Procurement Audits | Assistant Inspector General for Acquisition and Procurement Audits.
| Assistant Inspector General for Aviation and Special Program Audits | Assistant Inspector General for Aviation and Special Program Audits.
| Assistant Inspector General for Surface and Maritime Program Audits | Assistant Inspector General for Highway and Transit Audits.
| Assistant Inspector General for Amtrak, High Speed Rail and Economic Analysis | Assistant Inspector General for Amtrak, High Speed Rail and Economic Analysis.
| Deputy Assistant Inspector General for Aviation and Special Program Audits | Deputy Assistant Inspector General for Aviation and Special Program Audits.
| Deputy Assistant Inspector General for Surface and Maritime Program Audits | Deputy Assistant Inspector General for Highway and Transit Audits.
| Principal Assistant Inspector General for Investigations | Principal Assistant Inspector General for Investigations.
| Assistant Inspector General for Investigations | Deputy Assistant Inspector General for Investigations.
| Assistant Inspector General for Administration | Assistant Inspector General for Administration.
| Assistant Inspector General for Legal, Legislative and External Affairs | Assistant Inspector General for Legal, Legislative and External Affairs.
DEPARTMENT OF THE TREASURY | Secretary of the Treasury | Director, Office of Small and Disadvantaged Business Utilization.
| Fiscal Assistant Secretary | Deputy Assistant Secretary (Accounting Policy).
|  | Deputy Assistant Secretary for Fiscal Operations and Policy.
|  | Fiscal Assistant Secretary.
| Financial Management Service | Assistant Commissioner, Payment Management.
|  | Comptroller/Deputy Chief Financial Officer.
|  | Director, Information Services Directorate.
|  | Deputy Assistant Commissioner, Governmentwide Accounting.
|  | Director, Cash Management Enterprise Architecture.
|  | Deputy Chief Information Officer.
|  | Assistant Commissioner, Governmentwide Accounting Operations.
|  | Director, Regional Financial Center (Austin).
|  | Assistant Commissioner, Financial Operations.
|  | Assistant Commissioner, Governmentwide Accounting.
|  | Director, Regional Financial Center (Philadelphia).
|  | Director, Regional Financial Center (Kansas City).
|  | Deputy Assistant Commissioner (Debt Management Services).
|  | Deputy Assistant Commissioner for Information Services.
|  | Commissioner, Bureau of the Fiscal Service.
|  | Deputy Commissioner, Financial Services and Operations.
|  | Senior Advisor (2).
|  | Director, Regional Financial Center (San Francisco).
|  | Assistant Commissioner, Federal Finance.
|  | Assistant Commissioner, Information Resources.
|  | Commissioner, Financial Management Service.
|  | Deputy Commissioner, Financial Management Service.
|  | Director, Revenue Collection Group.
|  | Assistant Commissioner, Management (Chief Financial Officer).
|  | Assistant Commissioner, Regional Operations.
|  | Assistant Commissioner, Debt Management Services.
|  | Director, Cash Management Infrastructure Group.
|  | Deputy Assistant Commissioner, Payment Management.
|  | Assistant Commissioner, Business Architecture.
|  | Director, Debt Management Services Operations, West.
| Bureau of the Public Debt | Deputy Assistant Commissioner, Office of Retail Securities.
|  | Deputy Assistant Commissioner (Office of Information and Security Services).
|  | Assistant Commissioner (Office of Retail Securities).
|  | Deputy Assistant Commissioner (Financing).
|  | Deputy Executive Director, Administrative Resources Center.
|  | Senior Advisor.
|  | Assistant Commissioner (Office of Management Services).
|  | Executive Director (Administrative Resource Center).
|  | Assistant Commissioner (Financing).
|  | Deputy Commissioner of the Public Debt.
|  | Commissioner of the Public Debt.
|  | Executive Director, Government Securities Regulations.
|  | Assistant Commissioner (Office of Information Technology).
|  | Assistant Commissioner (Public Debt Accounting).
|  | Deputy Assistant Commissioner (Fiscal Accounting Operations).
|  | Deputy Commissioner, Finance and Administration.
|  | Deputy Commissioner, Accounting and Shared Services.
|  | Executive Director—Do Not Pay Staff.
| Assistant Secretary for Financial Institutions | Deputy Director, Federal Insurance Office. Director, Federal Insurance Office.
| Assistant Secretary for Terrorist Financing | Director, Executive Office for Asset Forfeiture.
| Financial Crimes Enforcement Network | Associate Director, Technology Solutions and Services Division/Chief Information Officer.
|  | Associate Director, Regulatory Policy and Programs Division.
|  | Associate Director, Analysis and Liaison Division.
|  | Director, Financial Crimes Enforcement Network.
|  | Deputy Director.
|  | Associate Director, Management Programs Division.
|  | Associate Director, Enforcement Division.
|  | Associate Director, Intelligence Division.
|  | Executive Advisor.
|  | Deputy Associate Director, Compliance and Enforcement Programs.
|  | Associate Director, International.
|  | Chief Counsel, Financial Crimes Enforcement Network.
| Assistant Secretary for Intelligence and Analysis | Deputy Assistant Secretary for Security.
| Inspector General | Assistant Inspector General for Management Services.
|  | Deputy Assistant Inspector General for Audit (Financial Management).
|  | Counsel to the Inspector General.
|  | Deputy Assistant Inspector General for Audit (Program Audits).
|  | Assistant Inspector General for Investigations.
|  | Deputy Assistant Inspector General for Investigations.
|  | Assistant Inspector General for Audit.
|  | Senior Technical Advisor to the Inspector General.
| Treasury Inspector General for Tax Administration | Deputy Inspector General.
|  | Associate Inspector General for Mission Support.
|  | Counsel to the Treasury Inspector General for Tax Administration.
|  | Assistant Inspector General for Audit (Wage and Investment).
|  | Deputy Inspector General for Investigations.
|  | Assistant Inspector General for Investigations (Field Operations).
|  | Deputy Assistant Inspector General for Investigations.
|  | Assistant Inspector General for Audit (Information Systems Programs).
|  | Deputy Inspector General for Audit.
|  | Assistant Inspector General for Audit (Headquarters Operations).
|  | Assistant Inspector General for Investigation.
|  | Assistant Inspector General for Audit (Small Business and Corporate Entities).
|  | Deputy Inspector General for Inspections and Evaluations.
| Assistant Secretary (Tax Policy) | Director, Economic Modeling and Computer Applications. Deputy Director and Chief Economist.
| Alcohol and Tobacco Tax and Trade Bureau | Assistant Administrator, Field Operations.
|  | Deputy Administrator, Alcohol and Tobacco Tax and Trade Bureau.
|  | Assistant Administrator, Management/Chief Financial Officer.
|  | Assistant Administrator, Information Resources/Chief Information Officer.
|  | Administrator, Alcohol and Tobacco Tax and Trade Bureau.
|  | Assistant Administrator, Headquarter Operations.
| Assistant Secretary for Management | Deputy Chief Financial Officer.
|  | Director, Office of Procurement.
|  | Director, Office of Minority and Women Inclusion.
| Internal Revenue Service | Director, Information Technology Technical Director.
|  | Director, Campus Compliance Operations.
|  | Director, Examination Area (6).
|  | Director, Enterprise Collection Strategy.
|  | Director, Transition State 2 Program Management.
|  | Director, Field Operations, International Business Compliance West.
|  | Director, Field Operations, Field Specialists East.
|  | Compliance Services Field Director.
|  | Director, Return Preparer Office.
|  | Deputy Director, Pre-Filing and Technical Guidance.
|  | Deputy Director, Strategy and Finance.
|  | Director, Examination Operations Support.
|  | Director, Operations Service Support.
|  | Deputy Commissioner, Operations Support.
|  | Associate Chief Information Officer, Affordable Care Act—Program Management Office.
|  | Chief Engineer.
|  | Deputy Associate Chief Information Officer for Applications.
|  | Deputy Associate Chief Information Officer for Enterprise Networks.
|  | Director, Examination Policy.
|  | Director of Field Operations Southern Area.
|  | Director, Shared Support.
|  | Director, Field Operations, Engineering.
|  | Director of Field Operations, Heavy Manufacturing and Pharmaceuticals, Southeast.
|  | Director, Collection Strategy and Organization.
|  | Executive Director, Business Modernization.
|  | Area Director, Stakeholder, Partnership, Education, and Communication.
|  | Director, Business Planning and Risk Management.
|  | Director, Implementation and Testing.
|  | Director, Campus Operations.
|  | Director, Program Strategy and Integration.
|  | Director, Compliance Strategy and Policy.
|  | Director, Technical Services.
|  | Project Director (42).
|  | Director, Data Delivery Services.
|  | Deputy Associate Chief Information Officer, Affordable Care Act Program Management Office.
|  | Director, Examination Policy.
|  | Director, Strategic Supplier Management.
|  | Director, Transfer Pricing Operations.
|  | Director, Infrastructure and Portal Programs.
|  | Director, Collection Area—California.
|  | Director, Exempt Organizations Examination.
|  | Director, Leadership, Education and Development.
|  | Director, Business Relationship and Service Delivery.
|  | Director, Examination Area—North Atlantic.
|  | Executive Director, Investigative and Enforcement Services.
|  | Executive Director, Investigative and Enforcement Operations.
|  | Associate Chief Information Officer for Enterprise Operations.
|  | Director, Management Services.
|  | Director, Business Systems Planning.
|  | Director, Compliance Campus Operations.
|  | Deputy Director, Enterprise Systems Testing.
|  | Deputy Director, Employment, Talent, and Security.
|  | Associate Chief Information Officer, Strategy and Planning.
|  | Deputy Commissioner for Operations, Wage and Investment.
|  | Director, Individual Master Files.
|  | Director, Strategy and Capital Planning.
|  | Senior Advisor to the Deputy Commissioner (Operations Support).
|  | Director, Appeals Policy and Valuation.
|  | Deputy Associate Chief Information Officer for Cyber security.
|  | Counselor.
|  | Director, Capital Planning and Investment.
|  | Project Director, Customer Account Data Engine.
|  | Director, Large Systems and Storage Infrastructure Division.
|  | Director, Filing and Payment Compliance.
|  | Director, Contact Center Support Division.
|  | Director, Field Operations, Retail Food, Pharmaceuticals, and Healthcare—West.
|  | Director, Cyber security Policy and Programs.
|  | Director, Return Integrity and Correspondence Services.
|  | Director, Advanced Pricing and Mutual Agreement.
|  | Director, Product Management.
|  | Associate Chief Financial Officer, Corporate Planning and Internal Control.
|  | Director, International Individual Compliance.
|  | Director, Customer Service Support.
|  | Director, Abusive Transactions and Technical Issues.
|  | Deputy Director, Office of Professional Responsibility Operations.
|  | Deputy Commissioner for Support, Wage and Investment.
|  | Director, Filing and Payment Compliance.
|  | Director, Tax Forms and Publications.
|  | Director, Customer Service and Stakeholders.
|  | Deputy Associate Chief Financial Officer for Financial Management.
|  | Director, Business Services and Management.
|  | Director, Portfolio Control and Performance.
|  | Director, Real Estate and Facilities Operations.
|  | Executive Director, Systems Advocacy.
|  | Area Director, Field Assistance (Area 1).
|  | Area Director, Field Assistance (Area 2).
|  | Director, Network Engineering.
|  | Director, Enforcement.
|  | Director, Program Management.
|  | Director, Business Modernization.
|  | Director, Implementation Oversight.
|  | Director, Campus Compliance Services.
|  | Project Director, Security and Law Enforcement.
|  | Director, Online Fraud Detection and Prevention.
|  | Deputy Associate Chief Information Officer, End User Equipment and Services.
|  | Project Director, Private Debt Collection.
|  | Associate Chief Information Officer, Enterprise Networks.
|  | Field Director, Accounts Management.
|  | Director, Office of Privacy, Information Protection and Data Security.
|  | Director, Operational Security Program.
|  | Senior Advisor, Operational Information.
|  | Director, Enterprise Networks Operations.
|  | Associate Chief Information Officer, Cyber security.
|  | Submission Processing Field Director.
|  | Director, Earned Income and Health Coverage Tax Credits
|  | Director, Office of Taxpayer Burden.
|  | Area Director, Stakeholder Partnership, Education, and Communication.
|  | Area Director, Stakeholder Partnership, Education, and Communication.
|  | Director, Refund Crimes.
|  | Area Director, Field Assistance.
|  | Director, Transfer Pricing Operations.
|  | Director, International Operations.
|  | Deputy Director, Research, Analysis, and Statistics.
|  | Director, Program Strategy and Integration.
|  | Director, Field Operations, Retailers, Food, Transportation and Healthcare—East.
|  | Director, International Business Compliance.
|  | Director, Collection Area (9).
|  | Director, Business Reengineering.
|  | Director, Campus Compliance Operations.
|  | Project Director Extension Legislation.
|  | Compliance Services Field Director.
|  | Submission Processing Field Director.
|  | Director, Service Delivery Management.
|  | Director, Detroit Program Management Office.
|  | Director, Privacy and Information Protection.
|  | Director, International Data Management.
|  | Director, Customer Service Support.
|  | Director, Strategy, Research and Program Planning.
|  | Area Director, Stakeholder, Partnerships, Education and Communication.
|  | Director, Telecommunications Center of Excellence.
|  | Area Director, Field Assistance.
|  | Director, Server, Middleware and Test Systems .Infrastructure Division.
|  | Director, Requirements and Demand Management.
|  | Field Director, Compliance Services.
|  | Director, Headquarters Operations.
|  | Deputy Director, Enterprise Architecture.
|  | Field Director, Compliance Services (Atlanta).
|  | Director, Collection Area, Gulf States.
|  | Director, Financial Management Services.
|  | Deputy Chief of Staff.
|  | Director, Delivery Management.
|  | Senior Advisor to the Deputy Commissioner for Services and Enforcement.
|  | Deputy Director, Customer Relationships and Integration.
|  | Deputy Commissioner for Support, Wage and Investment.
|  | Director, Global High Wealth Industry.
|  | Business Modernization Executive.
|  | Accounts Management Field Director (10).
|  | Deputy Commissioner, Large and Mid-Size Business, International.
|  | Director, Field Operations (7).
|  | Director, Contact Center Support Division.
|  | Director, Network Architecture, Engineering, and Voice.
|  | Director, Capital Planning and Investment.
|  | Project Director, Technology Operations and Investigative Services.
|  | Director, E-File Systems (2).
|  | Director, Cyber Security Operations.
|  | Deputy Director, Field Assistance.
|  | Industry Director, Natural Resources and Construction.
|  | Director, Examination Planning and Delivery.
|  | Associate Chief Financial Officer for Corporate Planning and Internal Control.
|  | Associate Chief Financial Officer for Corporate Budget.
|  | Deputy Chief, Mission Assurance and Security Services.
|  | Director, Workforce Progression and Management.
|  | Director, Planning, Research and Analysis.
|  | Deputy Director, Submission Processing.
|  | Special Assistant to the Associate Chief Information Officer for Applications Development.
|  | Deputy Director, Program Management.
|  | Director, Collection Policy.
|  | Deputy Division Counsel #2 (Operations)/Small Business and Self Employed.
|  | Director, Service Delivery Management.
|  | Project Director, Taxpayer Communication.
|  | Director, Program Integration.
|  | Deputy Associate Chief Information Officer.
|  | Project Director, Workforce of Tomorrow.
|  | Director, Enterprise Voice Networks.
|  | Director, Continuity Operations.
|  | Director, Campus Compliance Operations.
|  | Director, Field Operations, Natural Resources and Construction—West.
|  | Field Director, Submission Processing.
|  | Director, Information Technology Transition Initiatives.
|  | Assistant Deputy Commissioner (International).
|  | Director, Filing and Premium Tax Credit.
|  | Director, Field Operations, International Business Compliance.
|  | Deputy Director, Return Preparer Office.
|  | Director, Compliance Campus Operations.
|  | Deputy Director, Customer Account Data Engine.
|  | Special Agent In Charge—Criminal Investigation.
|  | Director, Development Services.
|  | Field Director, Accounts Management.
|  | Director, Stakeholder, Partnerships, Education, and Communications.
|  | Director, Reporting Compliance.
|  | Director, Infrastructure Architecture and Engineering.
|  | Director, Data Strategy Implementation.
|  | Director, Cyber Security Policy and Programs.
|  | Associate Chief Information Officer, End User Equipment and Services.
|  | Deputy Associate Chief Information Officer, Enterprise Operations.
|  | Director, Electronic Tax Administration.
|  | Deputy Commissioner (Domestic), Large Business and International.
|  | Executive Director, Case Advocacy.
|  | Director, Collection Business Reengineering.
|  | Director, Planning and Analysis.
|  | Director, Collection Policy.
|  | Modernization Executive.
|  | Director, Taxpayer Education and Communication Field Operations.
|  | Director, Criminal Investigation Technology Operations and Investigative Services.
|  | Director, Collection.
|  | Director, Workforce Relations.
|  | Submission Processing Field Director.
|  | Deputy Chief Human Capital Officer, Internal Revenue Service.
|  | Director, Compliance Services Campus Operations.
|  | Area Director of Information Technology.
|  | Director, Personnel Security.
|  | Director, Treaty Administration and Tax Advisory Services.
|  | Director, Office of Program Evaluation and Risk Analysis.
|  | Director, Information Technology Security Engineering.
|  | Director, Information Technology Infrastructure.
|  | Director, Examination Area, Boston.
|  | Associate Chief Information Officer, Applications Development.
|  | Supervisory Criminal Investigator (Project Director).
|  | Director, Office of Professional Responsibility.
|  | Deputy Associate Chief Information Officer for Enterprise Services.
|  | Director, Field Operations, Field Specialists West.
|  | Director, CADE 2 Database.
|  | Director, Accounts Management Services.
|  | Deputy Director, Portal Program Management.
|  | Director, Filing and Payment Compliance.
|  | Director, Large Systems and Storage Infrastructure Division.
|  | Director, Business Performance Solutions.
|  | Director, Earned Income Tax Credit.
|  | Director, Real Estate and Facilities Operations.
|  | Director, Customer Service.
|  | Deputy Commissioner, Services and Enforcement.
|  | Director, Enterprise Systems Testing.
|  | Deputy Associate Chief Information Officer, Applications Development.
|  | Director, Corporate Data.
|  | Director, Individual Master File.
|  | Director, Project Services.
|  | Director, Internal Management.
|  | Director, Submission Processing.
|  | Deputy Director, Submission Processing.
|  | Director, Client Services Division.
|  | Director, Customer Applications Development.
|  | Director, Earned Income and Health Coverage Tax Credits.
|  | Director, Centers of Excellence.
|  | Director, Program Control and Process Management.
|  | Deputy Director, Electronic Tax Administration.
|  | Deputy Director, Enterprise Operations Services.
|  | Director, Financial Management Services.
|  | Assistant Deputy Commissioner for Services and Enforcement.
|  | Director, Internal Management Systems Development Division.
|  | Deputy Chief Financial Officer.
|  | Project Director, Employee Tax Compliance.
|  | Director, Business Systems Planning.
|  | Deputy Associate Chief Information Officer, Business Systems Development.
|  | Project Director, Office of Professional Responsibility.
|  | Chief, Communications and Liaison.
|  | Director of Field Operations (4).
|  | Associate Chief Information Officer for Information Technology Services.
|  | Director, Employment, Talent, and Security.
|  | Director, Operational Readiness.
|  | Director, Technical Systems Software.
|  | Director, Tax Forms and Publications.
|  | Director, Development Services.
|  | Director, Compliance Area.
|  | Director, Customer Relationship and Integration.
|  | Director, Emergency Management Programs.
|  | Director, Fraud/Bank Secrecy Act.
|  | Director, Burden Reduction and Compliance Strategies.
|  | Special Agent In Charge.
|  | Director, Strategy, Research and Program Planning.
|  | Project Director, Collection.
|  | Director, Stakeholder Liaison Field.
|  | Director, Research.
|  | Director, Communications and Stakeholder Outreach.
|  | Director, Correspondence Production Services.
|  | Area Director, Southeast.
|  | Deputy Director, Electronic Tax Administration and Refund Credits.
|  | Special Assistant to the Deputy Commissioner for Services and Enforcement.
|  | Deputy Chief of Staff.
|  | Director, Filing and Payment Compliance.
|  | Submission Processing Field Director.
|  | Director, Enforcement.
|  | Senior Advisor to Associate Chief Information Officer (Enterprise Network).
|  | Director, Business Rules and Requirements Management.
|  | Deputy Chief Information Officer for Operations.
|  | Director, Field Operations East.
|  | Director, Retail, Food, Pharmaceutical, and Health Care.
|  | Submission Processing Field Director.
|  | Director, Special Programs and Oversight.
|  | Director, Strategy and Resource Management.
|  | Director, Compliance Campus Operations (5).
|  | Director, Campus Reporting Compliance.
|  | Director, Specialty Programs.
|  | Director, Technical Services.
|  | Director, Abusive Transactions.
|  | Director, Examination Policy.
|  | Director, Enterprise Operations Services.
|  | Director, Corporate Data and Systems Management Division.
|  | Deputy Director, Business Systems Development Division.
|  | Director, Management Services.
|  | Director, Change Management and Release Management.
|  | Director, Professional Responsibility.
|  | Director, Strategy and Finance, Appeals.
|  | Compliance Service, Field Director—Atlanta.
|  | Director, Strategy and Finance.
|  | Director, Management and Support.
|  | Director, Product Assurance.
|  | Submission Processing Field Director—Austin.
|  | Deputy Chief, Appeals.
|  | Deputy Director, Submission Processing, Cincinnati—Small Business and Self Employed.
|  | Chief, Information Technology Services.
|  | Director, Strategy, Research and Performance Management.
|  | Area Director, Stakeholder, Partnership, Education and Communications—New Orleans.
|  | Director, Compliance , Detroit—Small Business and Self Employed.
|  | Director, Business Systems Planning—Large and Mid-Size Business.
|  | Submission Processing Field Director.
|  | Director, Media and Publications Distribution Division.
|  | Director, Office of Privacy and Information Protection.
|  | Director, Refund Crimes.
|  | Accounts Management Field Director.
|  | Director, Filing and Payment Compliance.
|  | Director, Joint Operations Center.
|  | Director, Examination Operations Support.
|  | Senior Advisor, Information Systems Current Processing Environment Security.
|  | Director, Emergency Management Programs.
|  | Director, Advisory, Insolvency and Quality.
|  | Director, Office of Communications.
|  | Director, Whistleblower Office.
|  | Director, Program Management and Technology.
|  | Director, Product and Partnership Development.
|  | Director, Portal Program Management.
|  | Director, Business Systems Planning.
|  | Special Agent In Charge (2).
|  | Director, International Compliance, Strategy, and Policy.
|  | Director, Management Services and Security.
|  | Director, Reporting Compliance.
|  | Project Director, Small Business and Self Employed.
|  | Director, Internet Development Services.
|  | Deputy Director, Office of Professional Responsibility.
|  | Deputy Director, Operation Standards.
|  | Director, Field Operations-Heavy Manufacturing and Transportation.
|  | Director, Product Assurance.
|  | Compliance Service Field Director.
|  | Project Director (Small Business and Self Employed) Transition Executive.
|  | Submission Processing Field Director.
|  | Compliance Service Field Director.
|  | Director, Field Operations-Natural Resources and Construction.
|  | Director, Field Operations-Financial Services.
|  | Associate Chief Information Officer for Management and Finance.
|  | Area Director, Field Assistance.
|  | Director, Office of Information Technology Acquisition.
|  | Special Agent In Charge, Los Angeles.
|  | Commissioner, Wage and Investment.
|  | Director, Human Resources—Small Business and Self Employed.
|  | Senior Counselor to the Commissioner (Tax Administration, Practice and Professional Responsibility).
|  | Area Director, Stakeholder Partnership Education and Communication.
|  | Director, Field Specialists—Large and Mid-Size Business.
|  | Director, Field Operations, Special—Wage and Investment.
|  | Director, Real Estate and Facilities Management.
|  | Director of Research.
|  | Director, Compliance Systems Division.
|  | Director, Program Analysis Customer Account Services—Wage and Investment.
|  | Director, Compliance Area.
|  | Division Information Officer—Large and Mid-Size Business.
|  | Director, Operations.
|  | Area Director, Field Assistance (San Francisco)—Wage and Investment.
|  | Director, Exempt Organizations, Rulings and Agreements.
|  | Director, Detroit Computing Center.
|  | Director, Portfolio Management.
|  | Director, Compliance Area.
|  | Director, Technical Services.
|  | Area Director, Field Assistance.
|  | Director, Enterprise Operations Services.
|  | Director, Research.
|  | Director, Employee Plan Determination Letter Redesign.
|  | Director, Regulatory Compliance.
|  | Chief, Criminal Investigation.
|  | Director, Strategy, Program Management and Personnel Security.
|  | Chief Financial Officer, Internal Revenue Service.
|  | Chief, Mission Assurance and Security Services.
|  | Director, Operations Policy and Support.
|  | Director, Stakeholder, Partnership, Education and Communications.
|  | Director, Data Management.
|  | Deputy Director, Accounts Management.
|  | Chief, Agency-Wide Shared Services.
|  | Director, Employee Plans, Rulings, and Agreements.
|  | Director, Campus Collection Compliance.
|  | Chief of Staff, Internal Revenue Service.
|  | Field Director, Accounts Management, Wage and Investment.
|  | Director, Reporting Compliance.
|  | Deputy Director, Office of Professional Responsibility.
|  | Director, Accounts Management, Wage and Investment.
|  | Director, Media and Publications Distribution Division.
|  | Director, Field Operations, East, Appeals.
|  | Director, Field Operations West, Appeals.
|  | Area Director, Information Technology.
|  | Director, Business Systems Planning.
|  | Deputy Director, Taxpayer Education and Communication.
|  | Deputy Chief, Criminal Investigation.
|  | Director, Taxpayer Education Area—Los Angeles.
|  | Director, Customer Account Manager.
|  | Director, Safety and Security.
|  | Deputy Director, Enterprise Operations Services.
|  | Project Director—Appeals.
|  | Industry Director—Financial Services—Large and Mid-Size Business.
|  | Director, Performance, Quality and Innovation—Large and Mid-Size Business.
|  | Deputy Director, Prefilling and Technical Guidance.
|  | Director, Equal Employment Opportunity and Diversity.
|  | Director, Tax Exempt Bonds.
|  | Compliance Service Field Director, Austin—Wage and Investment.
|  | Director, Taxpayer Education and Communication—Small Business and Self Employed.
|  | Director, Government Entities.
|  | Accounts Management Field Director, Austin—Wage and Investment.
|  | Deputy Director, Submission Processing.
|  | Deputy Division Commissioner, Tax Exempt and Government Entities.
|  | Compliance Service Field Director—Kansas City.
|  | Director, Personnel Services.
|  | Executive Director, Equity, Diversity, and Inclusion.
|  | Director, Legislative Affairs Division.
|  | Area Director, Western.
|  | National Director of Appeals.
|  | Compliance Service Field Director—Philadelphia.
|  | Submission Processing Field Director—Andover.
|  | Submission Processing Field Director—Atlanta.
|  | Director, Field Operations (Financial Services), Laguna Niguel.
|  | Director, Research, Analysis and Statistics of Income.
|  | Director, Field Assistance—Wage and Investment.
|  | Director, Strategy and Finance—Wage and Investment.
|  | Director, Field Assistance Area (Phoenix)—Wage and Investment.
|  | Director, Communication, Assistance, Research and Education.
|  | Director, Customer Account Services—Wage and Investment.
|  | Director, Submission Processing (Cincinnati)—Wage and Investment.
|  | Accounts Management Field Director—Andover.
|  | Accounts Management Field Director, Fresno.
|  | Submission Processing Field Director—Philadelphia.
|  | Deputy National Taxpayer Advocate.
|  | Director, Employee Support Services.
|  | Deputy Commissioner, Small Business/Self-Employed.
|  | Associate Chief Financial Officer for Revenue and Financial Management.
|  | Project Director (Business Requirements).
|  | Director, Operational Assurance.
|  | Deputy Division Commissioner.
|  | Deputy Director, Field Specialists.
|  | Director, Leadership and Education.
|  | Director, Filing Systems.
|  | Deputy Director, Procurement (2).
|  | Director, Taxpayer Education and Communication Area, St Louis—Small Business and Self Employed.
|  | Area Director, Stakeholder, Partnership, Education, and Communication, Dallas—Wage and Investment.
|  | Director, Compliance Area, Baltimore—Small Business and Self Employed.
|  | Director, Procurement.
|  | Director, Taxpayer Education Area, Chicago—Small Business and Self Employed.
|  | Deputy Associate Commissioner, Systems Integration.
|  | Director, Compliance Area, Dallas—Small Business and Self Employed.
|  | Director, Media and Publications.
|  | Director, Internet Development Services.
|  | Director, Strategic Services.
|  | Director, Compliance Area.
|  | Director, Compliance Area, Oakland—Small Business and Self-Employed.
|  | Director, Statistics of Income.
|  | Executive Director, Systemic Advocacy—National Taxpayer Advocate.
|  | Director, Mission Assurance.
|  | Compliance Service Field Director, Andover—Wage and Investment.
|  | Director, Security Policy, Support and Oversight.
|  | Director, Field Assistance Area.
|  | Accounts Management Field Director, Fresno—Wage and Investment.
|  | Director of Field Operations, New York—Large and Mid-Size Business.
|  | Associate Chief Financial Officer for Internal Financial Management—National Headquarters.
|  | Director, Pre-Filing and Technical Guidance.
|  | Director, Compliance Area—Denver, Small Business and Self Employed.
|  | Submission Processing Field Director—Fresno, California.
|  | Area Director, Stakeholder, Partnership, Education and Communication.
|  | Associate Chief Financial Officer for Corporate Strategy.
|  | Director, Strategic Planning and Program Management.
|  | Director, Competitive Sourcing.
|  | Assistant Deputy Commissioner for Operations Support.
|  | Chief Human Capital Officer, Internal Revenue Service.
|  | Director, Financial Management Services.
|  | Director, Strategy, Criminal Investigations.
|  | Assistant to Director, Real Estate and Facilities Management.
|  | Information Technology Manager, Policy and Planning.
|  | Chief Information Officer.
|  | Commissioner, Large and Mid-Sized Business Division.
|  | Commissioner, Small Business and Self Employed.
|  | Compliance Service Field Director.
|  | Project Manager.
|  | Deputy Commissioner, Operations Support.
|  | Commissioner, Tax Exempt and Government Entities Division.
|  | Deputy Chief, Agency-wide Shared Services.
|  | Industry Director, Heavy Manufacturing and Pharmaceuticals.
|  | Chief, Management and Finance—Large and Mid-Size Business.
|  | Director, Exempt Organizations.
|  | Director, Human Resources—Wage and Investment.
|  | Director, Employee Plans.
|  | Deputy Chief, Criminal Investigation.
|  | Director, Exempt Organizations Examinations.
|  | Director, Communications, Technology and Media Industry—Large and Mid-Size Business.
|  | Director, Personnel Policy.
|  | Director, Field Operations, Communications, Technology and Media—Northwest.
|  | Director of Compliance, Atlanta—Wage and Investment.
| Internal Revenue Service Chief Counsel | Deputy Associate Chief Counsel (International Field Service and Litigation).
|  | Senior Counsel to the Chief Counsel (Legislation).
|  | Director, Employee Plans Examinations.
|  | Special Counsel to the Chief Counsel.
|  | Deputy Division Counsel and Deputy Associate Chief Counsel (Tax Exempt and Government Entities).
|  | Deputy Associate Chief Counsel (Corporate).
|  | Associate Chief Counsel (Financial Institutions and Products).
|  | Division Counsel (Large and Mid-Size Business).
|  | Deputy Associate Chief Counsel #2 (Income Tax and Accounting).
|  | Area Counsel, Large and Mid-Size Business (Area 3) (Food, Mass Retailers, and Pharmaceuticals).
|  | Division Counsel (Small Business and Self Employed).
|  | Division Counsel/Associate Chief Counsel (Criminal Tax).
|  | Deputy Associate Chief Counsel #1 (Income Tax and Accounting).
|  | Area Counsel (Small Business and Self Employed) (Area 7).
|  | Deputy Associate Chief Counsel#2(Pass-through and Special Industries).
|  | Assistant Chief Counsel (International) (Litigation).
|  | Deputy Division Counsel/Deputy Associate Chief Counsel.
|  | Associate Chief Counsel (Finance and Management).
|  | Associate Chief Counsel (International).
|  | Deputy Chief Counsel (Operations).
|  | Deputy Chief Counsel (Technical).
|  | Associate Chief Counsel/Operating Division Counsel (Tax Exempt and Government Entities).
|  | Deputy Associate Chief Counsel (International Technical).
|  | Special Counsel to the National Taxpayer Advocate.
|  | Associate Chief Counsel (General Legal Services).
|  | Deputy Associate Chief Counsel (General Legal Services).
|  | Assistant Chief Counsel (Administrative Provisions and Judicial Practice).
|  | Associate Chief Counsel (Corporate).
|  | Associate Chief Counsel (Procedure and Administration).
|  | Assistant Chief Counsel (Disclosure and Privacy Law).
|  | Assistant Chief Counsel (Collection, Bankruptcy and Summonses).
|  | Deputy Division Counsel/Deputy Assistant Chief Counsel (Criminal Tax).
|  | Associate Chief Counsel (Income Tax and Accounting).
|  | Deputy Associate Chief Counsel (Procedure and Administration).
|  | Associate Chief Counsel (Pass-through and Special Industries).
|  | Deputy Division Counsel (Large and Mid-Size Business).
|  | Area Counsel (Small Business and Self Employed)—Los Angeles.
|  | Area Counsel (Small Business and Self Employed)—Denver.
|  | Area Counsel (Small Business and Self Employed).
|  | Area Counsel (Small Business and Self Employed)—Chicago.
|  | Area Counsel (Small Business and Self Employed)—Jacksonville.
|  | Area Counsel (Small Business and Self Employed)—Philadelphia.
|  | Area Counsel (Small Business and Self Employed)—New York.
|  | Deputy Division Counsel (Small Business and Self Employed).
|  | Area Counsel (Large Business and International).
|  | Area Counsel (Large and Mid-Size Business)(Area 4)(Natural Resources).
|  | Area Counsel (Large and Mid-Size Business)(Area 2)(Heavy Manufacturing, Construction and Transportation).
|  | Deputy Associate Chief Counsel (Finance and Management).
|  | Deputy Associate Chief Counsel #1(Pass-through and Special Industries).
|  | Area Counsel (Large and Mid-Size Business)(Area 1) (Financial Services and Health Care).
|  | Deputy Division Counsel/Deputy Associate Chief Counsel (Tax Exempt and Government Entities).
|  | Deputy Associate Chief Counsel (General Legal Services) (Labor and Personnel Law).
|  | Deputy Associate Chief Counsel (Strategic International Programs).
|  | Division Counsel (Wage and Investment).
|  | Deputy Associate Chief Counsel (Financial Institutions and Products).
|  | Deputy to the Special Counsel to the Chief Counsel.
|  | Special Counsel to the Chief Counsel.
|  | Area Counsel, Small Business and Self Employed, Area 9.
|  | Deputy Division Counsel (Technical), Large Business and International.
| United States Mint | Chief Administrative Officer.
|  | Associate Director for Systems Integration.
|  | Associate Director for Workforce Solutions.
|  | Plant Manager, Philadelphia.
|  | Associate Director for Information Technology (Chief Information Officer).
|  | Senior Advisor.
|  | Associate Director for Manufacturing.
|  | Associate Director for Sales and Marketing.
|  | Associate Director for Financial Management/Chief Financial Officer.
|  | Plant Manager.
DEPARTMENT OF THE TREASURY OFFICE OF THE INSPECTOR GENERAL | Immediate Office | Special Deputy Inspector General for Small Business Lending Fund.
|  | Deputy Inspector General.
| Office of Counsel | Counsel to the Inspector General.
| Office of Management | Assistant Inspector General for Management.
| Office of Audit | Deputy Assistant Inspector General for Audit (Financial Management).
|  | Deputy Assistant Inspector General for Audit (Program Audits).
|  | Assistant Inspector General for Audit.
| Office of Investigations | Deputy Assistant Inspector General for Investigations.
|  | Assistant Inspector General for Investigations.
DEPARTMENT OF THE TREASURY SPECIAL INSPECTOR GENERAL FOR THE TROUBLED ASSET RELIEF PROGRAM | Department of the Treasury Special Inspector General for the Troubled Asset Relief Program | Deputy Special Inspector General, Investigations.
|  | Chief Investigative Counsel.
|  | Assistant Deputy Special Inspector General for Audit and Evaluation.
|  | Deputy Special Inspector General Audit.
|  | Assistant Deputy Special Inspector General for Investigations.
|  | Deputy Special Inspector General Operations.
|  | Chief Counsel for SIGTARP.
DEPARTMENT OF THE TREASURY TAX ADMINISTRATION OFFICE OF THE INSPECTOR GENERAL | Department of the Treasury Tax Administration Office of the Inspector General | Deputy Counsel to the Inspector General.
|  | Assistant Inspector General for Investigations.
|  | Assistant Inspector General for Audit, Management Services and Exempt Organizations.
|  | Assistant Inspector General Returns Processing and Accounting Services.
|  | Assistant Inspector General Management Planning and Workforce Development.
|  | Assistant Inspector General Compliance and Enforcement Operations.
|  | Deputy Inspector General for Investigations.
|  | Assistant Inspector General for Investigations (3).
|  | Associate Inspector General for Mission Support.
|  | Principal Deputy Inspector General.
|  | Deputy Assistant Inspector General for Investigations.
|  | Chief Counsel.
|  | Deputy Inspector General for Inspections and Evaluations.
|  | Chief Information Officer (2).
|  | Assistant Inspector General for Audit, Compliance and Enforcement Organizations.
|  | Deputy Assistant Inspector General for Investigations.
|  | Assistant Inspector General for Management, Planning and Workforce Development.
|  | Deputy Inspector General for Audit.
UNITED STATES AGENCY FOR INTERNATIONAL DEVELOPMENT | United States Agency for International Development | Assistant General Counsel for Democracy, Conflict, and Humanitarian Assistance.
| Office of Security | Director, Office of Security.
| Office of Small and Disadvantaged Business Utilization | Director, Office of Small and Disadvantage Business Utilization.
| Office of Civil Rights and Diversity | Equal Opportunity Officer.
| Bureau for Democracy, Conflict, and Humanitarian Assistance | Deputy Assistant Administrator.
|  | Deputy Director, Office of Foreign Disaster Assistance.
|  | Deputy Director, OMA.
| Office of Afghanistan and Pakistan Affairs | Deputy Assistant to the Administrator.
| Bureau for Global Health | Deputy Assistant Administrator.
|  | Deputy Assistant Administrator for Bureau Of global Health.
| Bureau for Africa | Deputy Assistant Administrator, BFA.
| Bureau for Management | Deputy Director for OAA Policy, Support, and Evaluation.
|  | Deputy Director, Office of Management, Policy, Budget, and Performance.
|  | Deputy Controller.
|  | Director, Office of Administrative Service.
|  | Deputy Chief Financial Officer.
|  | Deputy Assistant Administrator.
|  | Chief Information Officer.
|  | Deputy Chief Financial Officer.
|  | Director, Office of Management, Policy, Budget and Performance.
|  | Deputy Director, Accountability, Compliance, Transparency and System Support.
| Office of Human Resources | Deputy Chief Human Capital Officer.
|  | Chief Human Capital Officer.
| Bureau for Foreign Assistance | Senior Coordinator.
UNITED STATES AGENCY FOR INTERNATIONAL DEVELOPMENT OFFICE OF THE INSPECTOR GENERAL | United States Agency for International Development Office of the Inspector General | Deputy Inspector General.
|  | Supervisory Criminal Investigator.
|  | Assistant Inspector General for Management.
|  | Assistant Inspector General for Millennium Challenge Corporation.
|  | Counselor to the Inspector General.
|  | Deputy Assistant Inspector General for Audit.
UNITED STATES INTERNATIONAL TRADE COMMISSION | Office of External Relations | Director, Office of External Relations.
| Office of Industries | Director Office of Industries.
| Office of Investigations | Director, Office of Investigations.
| Office of the Inspector General | Inspector General.
DEPARTMENT OF VETERANS AFFAIRS | Office of the Secretary and Deputy | Executive Director.
|  | Director, Office of Employment Discrimination Complaint Adjudication.
| Office of Acquisitions, Logistics and Construction | Director, Facilities, Programs, and Plans.
|  | Associate Executive Director, Strategic Acquisition Center.
|  | Director, Facilities Acquisition Support.
|  | Associate Executive Director, Office of Operations.
|  | Associate Chief Facilities Management Officer for Resource Management.
|  | Executive Director, Construction and Facilities Management.
|  | Associate Chief Facilities Management Officer for Strategic Management.
|  | Executive Director.
| Office of Acquisition and Materiel Management | Deputy Assistant Secretary for Acquisition and Materiel Management.
|  | Associate Deputy Assistant Secretary for Acquisitions.
|  | Associate Deputy Assistant Secretary for Acquisition Program Support.
|  | Executive Director, Center for Acquisition Innovation.
| Board of Veterans' Appeals | Vice Chairman.
|  | Director, Management, Planning and Analysis.
|  | Deputy Vice Chairman (2).
|  | Principal Deputy Vice Chairman.
| Office of the General Counsel | Regional Counsel (22).
| Office of the Assistant Secretary for Management | Principal Deputy Assistant Secretary for Management.
| Office of Finance | Associate Deputy Assistant Secretary for Financial Business Operations.
|  | Director, Financial Services Center.
|  | Director, Debt Management Center.
|  | Associate Deputy Assistant Secretary for Finance.
| Office of Acquisition and Material Management | Associate Deputy Assistant Secretary for Acquisitions.
| Office of Asset Enterprise Management | Deputy Director, Asset Enterprise Management.
| Office of Business Oversight | Director, Office of Business Oversight.
| Office of Human Resources Management | Associate Deputy Assistant Secretary for Human Resources Management Policy.
| Office of Corporate Senior Executive Management | Executive Director.
| Office of the Assistant Secretary for Information and Technology | Executive Director, Budget and Finance.
|  | Executive Director for Quality and Performance.
|  | Director, Information Security.
|  | Associate Deputy Assistant Secretary for Security Operations.
|  | Executive Director (Enterprise Operations).
|  | Deputy Assistant Secretary for Information Technology Resource Management.
|  | Associate Deputy Assistant Secretary for Information Technology Operations.
| National Cemetery Administration | Director, Office of Finance and Planning.
| Veterans Benefits Administration | Deputy Chief Financial Officer.
|  | Chief Financial Officer.
|  | Deputy Director for Operations.
|  | Deputy Director for Policy and Procedures.
| Veterans Health Administration | Chief Compliance and Business Integrity Officer.
|  | Chief Financial Officer.
|  | Director Veterans Canteen Service.
|  | Deputy Chief Financial Officer.
|  | Deputy Chief Procurement Officer.
|  | Chief Operating Officer.
|  | Associate Chief Financial Officer for Core financial and Logistics System and Decision Support Systems.
|  | Chief Procurement and Logistics Officer.
|  | Associate Chief Financial Officer.
|  | Director, Acquisition Service Area Organization (West).
|  | Director Service Area Office.
|  | Financial Manager.
| Office of Emergency Management | Deputy Assistant Secretary for Emergency Management.
| Office of Operations, Security and Preparedness | Director for Security and Law Enforcement.
DEPARTMENT OF VETERANS AFFAIRS OFFICE OF THE INSPECTOR GENERAL | Immediate Office of the Inspector General | Counselor to the Inspector General.
|  | Deputy Inspector General.
| Office of the Assistant Inspector General for Investigations | Deputy Inspector General for Investigations (Field Operations).
|  | Assistant Inspector General for Investigations.
|  | Deputy Assistant Inspector General for Investigations (Headquarters Operations).
| Office of the Assistant Inspector General for Audits and Evaluations | Assistant Inspector General for Audits and Evaluations.
|  | Deputy Assistant Inspector General for Audits and Evaluations (Field Operations).
|  | Deputy Assistant Inspector General for Audits and Evaluations (Headquarters Management and Inspections).
| Office of the Assistant Inspector General for Management and Administration | Assistant Inspector General for Management and Administration.
|  | Deputy Assistant Inspector General for Management and Administration.
| Office of the Assistant Inspector General for Healthcare Inspections | Medical Officer (Deputy Director of Medical Consultation and Review).
|  | Assistant Inspector General for Healthcare Inspections.
|  | Deputy Assistant Inspector General for Healthcare Inspections.
|  | Medical Officer (Director of Medical Consultation and Review).

Authority: 5 U.S. C. 3132.

U.S. Office of Personnel Management.
Katherine Archuleta,
Director.

[FR Doc. 2014-16966 Filed 7-22-14; 8:45 am]

BILLING CODE 6325-39-P